DEPARTMENT OF COMMERCE

National Oceanic and Atmospheric Administration

15 CFR Part 902

50 CFR Parts 679 and 680

[Docket No. 080302360-7686-03]

RIN 0648-AT91

Pacific Halibut Fisheries; Bering Sea and Aleutian Islands King and Tanner Crab Fisheries; Groundfish Fisheries of the Exclusive Economic Zone Off Alaska; Individual Fishing Quota Program; Western Alaska Community Development Quota Program; Recordkeeping and Reporting; Permits

AGENCY: National Marine Fisheries Service (NMFS), National Oceanic and Atmospheric Administration (NOAA), Commerce.

ACTION: Final rule.

SUMMARY: NMFS issues a final rule that implements new recordkeeping and reporting requirements; a new electronic groundfish catch reporting system, the Interagency Electronic Reporting System, and its data entry component, eLandings; the integration of eLandings with existing logbook requirements and future electronic logbooks; a variety of fisheries permits provisions and revisions to regulations governing the Bering Sea and Aleutian Islands Management Area Crab Rationalization Program, including fee calculations; a revision to a Sitka Pinnacles Marine Reserve closure provision; and a revision to a groundfish observer provision regarding at-sea vessel-to-vessel transfers. This action is intended to promote the goals and objectives of the Magnuson-Stevens Fishery Conservation and Management Act (Magnuson-Stevens Act) and other applicable law.

DATES: Effective January 14, 2009.

ADDRESSES: Copies of the Categorical Exclusion (CE), Regulatory Impact Review (RIR), and Final Regulatory Flexibility Analysis (FRFA) prepared for this action may be obtained from the NMFS Alaska Region, P.O. Box 21668, Juneau, AK 99802, or by calling the Alaska Region, NMFS, at 907-586-7228, or from the NMFS Alaska Region website at http://alaskafisheries.noaa.gov.

Written comments regarding the burden-hour estimates or other aspects of the collection-of-information requirements contained in this final rule may be submitted to NMFS and by e-mail to David_Rostker@omb.eop.gov, or fax to 202-395-7285.

FOR FURTHER INFORMATION CONTACT: Patsy A. Bearden, 907-586-7008.

SUPPLEMENTARY INFORMATION: NMFS manages the U.S. groundfish fisheries of the exclusive economic zone (EEZ) off Alaska under the Fishery Management Plan for Groundfish of the Gulf of Alaska and the Fishery Management Plan for Groundfish of the Bering Sea and Aleutian Islands Management Area. With Federal oversight, the State of Alaska (State) manages the commercial king crab and Tanner crab fisheries under the Fishery Management Plan for Bering Sea/Aleutian Islands King and Tanner Crabs and the commercial scallop fishery under the Fishery Management Plan for the Scallop Fishery off Alaska. The fishery management plans were prepared by the North Pacific Fishery Management Council and approved by the Secretary of Commerce under authority of the Magnuson-Stevens Fishery Conservation and Management Act, 16 U.S.C. 1801 et seq. The FMPs are implemented by regulations at 50 CFR parts 679 and 680. General provisions governing fishing by U.S. vessels in accordance with the FMPs appear at subpart H of 50 CFR part 600.

Management of the Pacific halibut fisheries in and off Alaska is governed by an international agreement, the “Convention Between the United States of America and Canada for the Preservation of the Halibut Fishery of the Northern Pacific Ocean and Bering Sea,” which was signed at Ottawa, Canada, on March 2, 1953, and was amended by the “Protocol Amending the Convention,” signed at Washington, D.C., March 29, 1979. The Convention is implemented in the United States by the Northern Pacific Halibut Act of 1982 (Halibut Act).

Background and Need for Action

Refer to the proposed rule preambles for further description and detail. The background and need for this action were described in detail in the preamble to the original proposed rule published in the Federal Register on June 29, 2007 (72 FR 35748) and in a supplemental proposed rule published on September 24, 2008 (73 FR 55368) and are not repeated here. The supplemental proposed rule explains the reorganization of materials within the current recordkeeping and reporting (R&R) regulatory text to integrate electronic and non-electronic requirements. The original proposed rule's comment period ended July 30, 2007. NMFS received two emails containing nine comments on the original proposed rule. Responses to all nine comments were provided in the supplemental proposed rule. NMFS agreed with five of these comments and made the suggested changes in the supplemental proposed rule. The supplemental proposed rule's comment period ended October 24, 2008. NMFS received one comment by email which is summarized under “Response to Comments.”

In summary, this final rule:

• Institutes the Interagency Electronic Reporting System (IERS) and its data entry component, eLandings. eLandings replaces the current Shoreside Processor Electronic Logbook Report (SPELR) for entering groundfish catch information and Crab Rationalization Program (CR) crab information. The use of eLandings removes and replaces the use of the shoreside processor daily cumulative production logbook (DCPL), weekly production reports, daily production reports, and aggregated mothership fish tickets. The operators of catcher/processor vessels and motherships will be required to use a combination of eLandings and the appropriate DCPL to record fishery information;

• Allows for the future use of electronic logbooks (ELBs) by operators of catcher vessels, catcher/processors, and motherships to replace the daily fishing logbook (DFL) and the DCPL when used with eLandings. Equipment and operational requirements in conjunction with the new ELBs are updated to provide the process and criteria by which a private-sector vendor could submit ELB software programs for approval by NMFS Alaska Region;

• Reorganizes IFQ crab landing report regulations by removing them from 50 CFR part 680 and incorporating them into eLandings regulations at 50 CFR part 679, so that all regulations pertaining to eLandings will be found in one set of regulations;

• Adds a requirement for Registered Crab Receivers to submit an annual Crab Rationalization Program Registered Crab Receiver Ex-vessel Volume and Value Report;

• Revises regulations that pertain to permits in the fisheries off Alaska. Most of the changes are technical or administrative in nature, e.g., clarification of existing regulations on how to amend or surrender a permit, and do not change existing requirements;

• Clarifies vessel restrictions in the Sitka Pinnacles Marine Reserve and how those restrictions apply to halibut and sablefish IFQ permit holders;

• Revises requirements regarding at-sea transfer of an observer to enhance safety; and

• Technical revisions to regulations to correct cross-references and other regulatory text. Miscellaneous revisions also include removal of outdated text and codifying existing reporting practices for catch weighing and vessel monitoring system requirements.

Response to Comments

Comment 1: The data entry time limits for trawl and longline catcher/processors, the provision that requires submission “by noon each day to record the previous day's discard and disposition information,” is unworkable. An example of how this reporting deadline is a problem is when a tow or set is retrieved just before midnight. An observer cannot start monitoring and sampling a tow until it is being processed, and in some cases an observer's work shift may end in the morning. This means that the vessel crew may not know about discard and bycatch estimates until the afternoon of the day after the previous day's tow has been retrieved. We request the time limit for when data is entered in eLandings or the DCPL be changed from “by noon each day to record the previous day's discard and disposition information” to “by midnight each day to record the previous day's discard and disposition information.”

Response: NMFS agrees with this comment. NMFS understands the impracticability of submitting information prematurely and that time limits must correspond with fishing operations. Therefore, NMFS revises regulations at § 679.5(c)(3) and (c)(4) for trawl, longline, or pot catcher/processors to change the time limit for data entry in eLandings or the DCPL from “by noon each day to record the previous day's discard and disposition information” to “by midnight each day to record the previous day's discard and disposition information.”

Changes from the Supplemental Proposed Rule

Since publication of the proposed rules, NMFS published a final rule on September 16, 2008 (73 FR 53390) that revised the definition for an active period for catcher/processors, motherships, shoreside processors, and SFPs and eliminated the check-in/check-out report submittal requirement for motherships and catcher/processors that have onboard an operating vessel monitoring system. To ensure regulatory consistency and accuracy with the September 16, 2008, final rule, NMFS is substituting the words “when active” for “checked-in” in the two places they appear in § 679.5(e)(9)(ii) and (e)(10)(iv).

This final rule corrects a mistaken cross reference in § 679.40(h)(3)(i), which are regulations describing sablefish and halibut offload obligations. The supplemental proposed rule incorrectly cited to § 679.5(e)(8)(i)(K), which describes the obligation to record discard or disposition information, which is unrelated to offloads. The final rule correctly references § 679.50(e)(7)(i)(E)(6), which describes entry of delivery information.

Other revisions are made by this final rule to ensure that electronic data submittal procedures are accurately and completely described. These revisions are as follows:

eLandings relies on computers. The supplemental proposed rule, under § 679.5(e), specified procedures for submitting information if a user's computer fails. The final rule clarifies that if a hardware, software, or Internet failure occurs, these procedures should be used. When a user is reporting on groundfish other than sablefish, the user must report the information as “non-IFQ groundfish” in paragraph 679.5(e)(1)(ii).

The final rule also removes a sentence in paragraph 679.5(e)(1)(ii) that stated “A User who for any reason is unable to properly submit a landing report or production report through eLandings must record the information in the DCPL until network connections are restored.” This sentence is inappropriate because NMFS has determined it is unnecessary to specify by regulation where a user records temporary information. The final rule also adds “other NMFS-approved software” to paragraphs 679.5(e)(1)(i) and (e)(1)(ii) because in the future, NMFS may approve additional software programs that will work as well as the eLandings system.

The final rule, in Table 2b to part 679, corrects the mis-spelled Latin term for red king crab and removes the check marks for three crab species that incorrectly indicated that the crab species are Crab Rationalization (CR) crab. The complete list of CR crab may be viewed at Table 1 to part 680.

The final rule reorganizes certain requirements for the Registered Crab Receiver (RCR) Ex-vessel Volume and Value Report at § 680.5(m). Since the report must be filed electronically, the final rule deletes the requirement for a paper report. The final rule reorganizes paragraphs (m)(iii)(B) and (C) to include retro payments, e.g., payments for crab made subsequent to the original payment, as part of the value of crab purchases instead of as payment and value information. Finally, paragraph (m)(4) is revised in the final rule to correct a website address that has been changed since publication of the proposed rules.

Classification

The Administrator, Alaska Region, NMFS determined that this final rule is necessary for the conservation and management of the groundfish fisheries, and that it is consistent with the Magnuson-Stevens Act and other applicable laws.

Regulations governing the U.S. fisheries for Pacific halibut are developed by the International Pacific Halibut Commission (IPHC), the Pacific Fishery Management Council, the North Pacific Fishery Management Council (Council), and the Secretary of Commerce. Section 5 of the Northern Pacific Halibut Act of 1982, 16 U.S.C. 773c (Halibut Act) allows the Regional Council having authority for a particular geographical area to develop regulations governing the allocation and catch of halibut in U.S. Convention waters as long as those regulations do not conflict with IPHC regulations. The final rule is consistent with the Council's authority to allocate, monitor, and manage halibut catches among fishery participants in the waters in and off Alaska.

This final rule has been determined to be not significant for the purposes of Executive Order 12866.

NMFS is not aware of any other Federal rules that would duplicate, overlap, or conflict with this action.

Final Regulatory Flexibility Analysis (FRFA)

A Final Regulatory Flexibility Analysis (FRFA) was prepared for this rule as required by section 604 of the Regulatory Flexibility Act (RFA). The FRFA incorporates the IRFA and a summary of the analyses completed to support the action; no comments were received on the IRFA. Copies of the FRFA prepared for this final rule are available from NMFS (see ADDRESSES). A summary of the FRFA follows.

Reason and Justification for the Rule

The FRFA describes in detail the objectives and legal basis for the rule, and characterizes the small and non-small regulated entities that participate in the fishery. A description of the action, the reasons why it is being considered, and a statement of the objectives and legal basis for this action are contained earlier in the preamble and are not repeated here.

Number of Small Entities to Which the Final Rule Would Apply

For purposes of a FRFA, the Small Business Administration (SBA) has established that a business involved in fish harvesting is a small business if it is independently owned and operated, not dominant in its field of operation (including its affiliates), and if it has combined annual gross receipts not in excess of $4.0 million for all its affiliated operations worldwide. A seafood processor is a small business if it is independently owned and operated, not dominant in its field of operation, and employs 500 or fewer persons on a full-time, part-time, temporary, or other basis, at all its affiliated operations worldwide.

Because the SBA does not have a size criterion for businesses that are involved in both the harvesting and processing of seafood products, NMFS has in the past applied and continues to apply SBA's fish harvesting criterion for these businesses because catcher/processors are first and foremost fish harvesting businesses. Therefore, a business involved in both the harvesting and processing of seafood products is a small business if it meets the $4.0 million criterion for fish harvesting operations. NMFS currently is reviewing its small entity size classification for all catcher/processors in the United States. However, until new guidance is adopted, NMFS will continue to use the annual receipts standard for catcher/processors. NMFS plans to issue new guidance in the near future.

The FRFA contains a description and estimate of the number of small entities to which the rule would apply. As required by the RFA, NMFS has estimated the numbers of small entities that may be directly regulated by this action. Counts of small catcher vessel and catcher/processor entities are based on 2006 revenue estimates from the Alaska Fisheries Science Center. Counts of shoreside processors and stationary floating processors (SFPs) are based on 2006 information on plants and plant ownership from the NMFS Alaska Region. Counts of other more specialized categories of small entities are explained when they occur below. In general, the estimates of small entity numbers described in the following paragraphs are believed to be high for several reasons. Each vessel or processing plant is treated as a separate entity; however, this does not consider that a firm may own multiple vessels or plants. Moreover, revenue estimates do not take into account the revenues that an entity may have earned in waters outside of Alaska, or in non-fishing activities. Finally, estimates do not take into account potential affiliations among entities.

Cooperative membership and joint venture affiliations are common among Alaskan fishing firms. In the absence of detailed information on ownership and affiliations, and on revenue from fishing or other activities outside of Alaska, NMFS has chosen to make estimates that are conservative, to avoid undercounting the number of small entities.

The FRFA evaluates the following regulatory amendments:

1. Provide an option for operators of trawl catcher vessels and catcher/processors, longline or pot catcher vessels and catcher/processors, and motherships operating in the GOA and the BSAI in the EEZ off the coast of Alaska to substitute an ELB for the DFL or DCPL that is currently required.

2. Provide the process and criteria by which a private software vendor could get ELB software approved for use in the Alaska Region groundfish fisheries.

3. Implement regulations for the eLandings data entry component of IERS to be used for reporting commercial fishery landings and production data and allow fishery participants to use the Internet to enter data only once for subsequent distribution to the Alaska Department of Fish and Game (ADF&G), the International Pacific Halibut Commission (IPHC), and NMFS, as appropriate.

4. Reorganize regulations for logbooks to provide complete information for each logbook in its own section in order to make the regulations more accessible and easier to use.

5. Provide uniform language and revise permit-related regulations governing fishing activities in fisheries off the coast of Alaska. The minor revisions improve enforcement of the regulations at 50 CFR part 679, by revising text, where necessary, such that the regulations are specific, especially regarding permits and permit-related issues.

6. Revise 50 CFR part 680 by removing IFQ crab landing report regulations for incorporation into the description of IERS at § 679.5 IERS and by adding a requirement for a CR Registered Crab Receiver Ex-vessel Volume and Value Report.

7. Revise a groundfish observer provision regarding at-sea vessel-to-vessel transfers.

8. Make miscellaneous revisions to fishing regulations at 50 CFR parts 679 and 680.

Electronic Logbooks (ELBs)

NMFS will provide the process and criteria by which a private-sector software vendor could obtain approval for ELB software in the Alaska Region groundfish fisheries.

NMFS will provide an option for operators of trawl catcher vessels and catcher/processors, longline or pot catcher vessels and catcher/processors, and motherships operating in the GOA and the BSAI in the EEZ off the coast of Alaska to substitute an ELB for the DFL or DCPL that is currently required.

This action will allow ELBs for voluntary use by fishery participants to replace the DFL for trawl gear catcher vessels and longline or pot gear catcher vessels. ELBs will also be allowed for use by fishery participants to replace the DCPL used by trawl gear catcher/processors, longline or pot gear catcher/processors, and motherships to voluntarily fulfill daily catch recordkeeping and reporting requirements.

The participants associated with this aspect of the action include an estimated 771 small catcher vessels, 11 small catcher/processors, and no small motherships. The catcher vessel and catcher/processor estimates may be high, because they do not take account of affiliations among entities.

NMFS considered two alternatives for implementation of the ELBs: the no-action (or status quo) and action alternatives. The action alternative allows participants to voluntarily use an ELB instead of a DFL or DCPL, but does not require firms to incur additional costs, because all processors participating in Federal fisheries have access to a computer. The no-action alternative was considered, but rejected, because it did not meet the action objective of creating a better regulatory environment for the introduction and use of ELB software for compliance with NMFS' reporting requirements.

NMFS interacted with the fishing industry on the use of ELBs during a pilot project described in the RIR/IRFA wherein a trawl gear ELB created by a private vendor was used by catcher vessels. An early version of this analysis included a provision requiring that fishing operations using the ELB software file a report with NMFS within 24 hours of delivering their product. This provision was eliminated from the alternatives following industry consultations during the preparation of the IRFA. The provision was expected to impose an undue burden on operations that were using the software voluntarily and perhaps slow its adoption rate. An examination of existing response rates indicated that about 32 percent of these reports have been received by NMFS within 24 hours of the landing, and about 73 percent have been received within 48 hours of the landing. The action alternative relaxes a constraint on the public, and may reduce data entry costs relative to the DFL and DCPL.

Interagency Electronic Reporting System (IERS)

With this final rule, NMFS implements regulations for the eLandings data entry component of IERS to be used for reporting commercial fishery landings and production data and allow fishery participants to use the Internet to enter data only once for subsequent distribution to the ADF&G, the IPHC, and NMFS, as appropriate.

NMFS estimates that this action will directly regulate 11 small catcher/processors, 80 small shoreside processors, five small SFPs, no small motherships, and 184 small Registered Buyers. Under this action, these entities will be required to report electronically using the IERS software.

The Registered Buyer estimates were prepared as follows. There are 206 IFQ Registered Buyers expected to use IERS to record their halibut IFQ and halibut CDQ deliveries under provisions of this action. An examination of the names of the Registered Buyers suggests that at least 22 are large entities under the Small Business Administration (SBA) criteria (i.e., processors subject to the 500 employee SBA criterion). The remaining Registered Buyers appear to be small shoreside firms or fishing operations. Thus, 184 Registered Buyers are estimated to be small for RFA purposes. This is likely to be an overestimate of the number of small entities among the Registered Buyers directly regulated by adoption of the IERS.

NMFS considered two alternatives for the IERS and eLandings: the status quo and action alternatives. The status quo alternative, if retained, would not have required firms to begin using IERS for Federal reporting purposes. However, since State regulations will require firms to begin reporting in-state deliveries of harvests with the IERS system, retention of the status quo alternative would be of no advantage to small entities. Indeed, these small entities could be in the position of having to conform to two separate reporting standards. Moreover, a significant proportion of the harvest from Federal waters is delivered to onshore or inshore processors, who would be using the IERS to input these records.

The preferred alternative requires processors to use IERS and eLandings to report data from Federal fisheries, but only imposes small additional costs. IERS is a joint project of ADF&G, IPHC, and NMFS. If NMFS adopted an alternative system, confusion would result for the fishing industry and industry costs would be increased. Additional alternatives in this instance would compromise our ability to meet the objectives of the action. Because the costs of this action are minor, it is difficult to identify additional alternatives with significant cost savings.

Regulatory text reorganization

NMFS reorganizes and revises § 679.5(a) and (c), such that each of the six groundfish logbooks is described clearly and completely in a separate section of regulatory text. This action also makes the regulations easier for the public to use. Regulations for processor forms also are revised and reorganized in this rule. Prior to this final rule, these regulations were arranged into tables by data element relating to multiple logbooks and forms. The reader had to consult several places in the regulations to find complete requirements for any given logbook or form. This action consolidates all of the requirements for each form and logbook into individual sections in § 679.5.

The small entities directly regulated by this action include 80 shoreside processors, five SFPs, 11 catcher/processors, no motherships, and 771 catcher vessels.

NMFS considered two alternatives for the reorganization of regulations: the status quo and action alternatives. Under the status quo alternative, the regulations at § 679.5 would remain without reorganization. The regulations at § 679.5 would remain arranged in tables by data element relating to multiple logbooks and forms causing the reader to consult several places in the regulations to find complete requirements for any given logbook or form. Under the regulatory scenario of the status quo alternative, participants would likely face increased R&R regulatory uncertainty and a loss of efficiency. Under the action alternative, NMFS will reorganize and revise regulations at § 679.5 such that each of the six groundfish logbooks is described in regulatory text separately, completely, and clearly. Under the regulatory scenario of the action alternative, participants would enjoy increased R&R regulatory certainty and increased efficiency.

Permits

NMFS is unifying the language and revising permit-related regulations governing fishing activities in fisheries off the coast of Alaska. These minor revisions will improve enforcement of the regulations at 50 CFR part 679 by clarifying and simplifying text, especially regarding permit-related issues. NMFS estimates that 771 small catcher vessels, 11 small catcher/processors, 80 small shoreside processors, five SFPs, and six small CDQ groups are directly regulated by this action.

Six CDQ groups, representing 65 Western Alaska communities, currently participate in the CDQ Program. Each is organized as a not-for-profit entity, and none is dominant in its field. Consequently, each is a small entity under the RFA. Several CDQ groups own, in whole or in part, and operate vessels participating in the CDQ fisheries. Because CDQ groups must obtain permits for their vessels, the six CDQ groups also will be directly regulated by this rule.

NMFS considered two alternatives for the permit-related revisions: the status quo and action alternatives. The status-quo alternative would maintain the inconsistency of regulatory language regarding permit-related issues, for example, by maintaining the term “federally regulated” and by not replacing it with the specific permit that relates to the paragraph. This would maintain the inconsistency in determination of which permit authorizes which activity. Under the action alternative, NMFS “tightens up” the regulations as they relate to permits, for example, regulatory text is made specific as to whether a permit is issued to a person or to a vessel. Under the action scenario, NMFS clarifies ambiguities in the permit-related regulatory text and improves enforcement of the regulations at 50 CFR part 679.

eLandings Landing Report

NMFS revises regulations at 50 CFR part 680 by removing IFQ crab landing report regulations for incorporation into the § 679.5(e) eLandings regulations. The eLandings landing report originally was created for CR crab, but will be used for reporting groundfish, IFQ halibut, CDQ halibut, and IFQ sablefish as well.

NMFS considered two alternatives for the eLandings regulatory revisions: the status quo and action alternatives. Under the status quo scenario, the regulations for use of eLandings for the CR fisheries would remain at § 680.5 and the regulations for use of eLandings for other fisheries would be in § 679.5(e). This would duplicate two sets of regulations and introduce confusion.

Under the action alternative, NMFS removes regulatory text from § 680.5(b), (c), and (d) that describe the use of eLandings for CR crab and integrates that text into regulations at § 679.5(e). This change allows all related information for the eLandings landing report to be found in one section for groundfish, CR crab, IFQ halibut, IFQ sablefish, and CDQ halibut.

CR Registered Crab Receiver Ex-vessel Volume and Value Report

NMFS is adding a new form, the CR Registered Crab Receiver (RCR) Ex-vessel Volume and Value Report, to be submitted by participants near the end of the crab fishing year. This report is similar to a report required by regulations implementing the NMFS Alaska Region IFQ Program for Pacific halibut and sablefish. The regulations for the form will be described at § 680.5(m). The small entities directly regulated by this action are approximately 30 RCRs required to submit an annual CR RCR Ex-vessel Volume and Value Report.

NMFS considered two alternatives for the addition of this form: the status quo and action alternatives. Under the status quo scenario, the requirement to report through eLandings the price paid for crab during landing would remain mandatory. This would mean that the crab price would be inaccurate, because the price at the time of landing does not include post-delivery or end-of-season adjustments. An inaccurate report of crab value would then be used to assess fees for participants in the CR crab fisheries, required by the Magnuson-Stevens Fishery Conservation and Management Act (Section 304(d)(2)(B)). Inaccurate fees could result in insufficient funds to manage the CR Program.

The action alternative adds the new form to collect crab price information from CR RCRs. The form collects information used to assess fees on an annual basis, which is a statutory requirement. NMFS considered but rejected alternatives (options) of more frequent or less frequent collection of the price information. NMFS Restricted Access Management Program (RAM) will collect the price information to establish a “standard” ex-vessel price for CR crab. The standard price will be used to estimate the cost recovery fees due from processors and harvesters; the participants may not participate in the CR fisheries if fees are not paid. The cost recovery fees will be used to support management of the CR Program. An additional effect will be the removal of a requirement for an RCR who receives a landing of CR crab harvested under the IFQ, the CDQ, or Adak community allocation programs to submit for each landing the price per pound. Instead, each RCR will be required to submit a CR RCR Ex-vessel Volume and Value Report near the end of the crab fishing year. In addition, the requirement to report through eLandings the price paid for crab when landed will become optional.

Groundfish Observer Provision Regarding At-sea Vessel-to-vessel Transfers

The Fisheries Monitoring and Analysis Division (FMA) monitors groundfish fishing activities in the EEZ off Alaska and conducts research associated with sampling commercial fishery catches, estimation of catch and bycatch mortality, and analysis of fishery-dependent data. As part of the FMA's North Pacific Observer Program, approximately 400 fishery observers spend up to 90 consecutive days each year at sea or at processing plants collecting data for management of the Alaskan groundfish fisheries. On occasion crab fisherman must transfer an observer at sea from one vessel to another.

The small entities directly regulated by this action include no motherships, 11 catcher/processors, and 771 catcher vessels.

NMFS considered three alternatives for the observer at-sea transfer revisions: the status quo and two action alternatives. Under the status quo alternative, the regulatory text would not be changed. The no-action alternative was rejected because it did not meet the action objective of creating a safe transfer environment for a groundfish observer.

Under the preferred action alternative, NMFS revises a groundfish observer provision regarding at-sea vessel-to-vessel transfers by removing “via small boat or raft” from the regulations at § 679.50(g)(1)(ix)(A). This revision will improve safety for observers undergoing a transfer at sea because the regulatory text now states that all at-sea transfers of an observer be conducted during daylight hours, under safe conditions, and with the agreement of the observers involved.

Under the second action alternative, NMFS will prohibit the transfer of an observer at sea. Most of the at-sea transfers are done by companies that own two or more vessels with less than 100 percent observer coverage and use one observer to meet observer coverage requirements on these vessels. This revision would require an observer to be transferred only at the dock, resulting in increased costs for the company, because vessels would have to return to the dock to pick up or drop off an observer. This alternative was rejected for further analysis because the improvement in observer safety appeared to come at a disproportionate cost to fishing operations.

Miscellaneous Revisions to Fishing Regulations at 50 CFR parts 679 and 680

NMFS amends regulations in Parts 679 and 680 to improve clarity and efficiency. The small entities directly regulated by this final rule include 80 shoreside processors, 5 SFPs, 11 catcher/processors, no motherships, and 771 catcher vessels.

NMFS considered two alternatives for the miscellaneous regulatory revisions: the status quo and action alternatives. Under the status quo alternative the regulatory text would not be changed. Under the action alternative, NMFS amends regulations in Part 679 and Part 680, by adding and revising definitions, revising text to clarify a Sitka Pinnacles Marine Reserve closure provision, adding or correcting cross references, removing obsolete text, adding new text, codifying certain existing practices, and revising figures and tables to Part 679. These changes will facilitate management of the fisheries and enforcement efforts and promote compliance with the regulations.

The preferred action alternative will have no known adverse impacts on small entities. The status quo alternative was rejected because it did not meet the action objective of creating a better regulatory environment.

The regulations in this final rule appear to impose no adverse economic impacts on directly regulated small entities. Therefore no steps were needed to minimize the effects of this regulatory action on small entities.

In the various items considered in this analysis, the preferred alternative was chosen rather than selecting the status quo alternative. The preferred alternative in every case supported the primary objective of this action which is to improve the methods and procedures of recordkeeping and reporting for the fishery programs of NMFS Alaska Region through expansion of electronic reporting methods and by simplifying regulations.

Use of electronic recordkeeping will allow the public to more easily record daily information and retrieve daily information and will increase the accuracy of information collected and summarized. In addition, this initiation of electronic recordkeeping is the first step to interface with onboard electronics to collect certain information directly (for example location and direction information from a global positioning system). Electronic recordkeeping also creates a wide range of potential reports to allow the operator to analyze his or her fishing activity.

eLandings or other NMFS-approved software allows processors and others to provide commercial harvest and production information of groundfish, halibut, and crab to NMFS, IPHC, and ADF&G. Using eLandings removes reporting duplications, and once implementation is complete, eLandings makes recordkeeping and reporting simpler. Additional benefits of the eLandings system include:

• Immediate verification of permits and vessel identification;

• Timely catch reports for management agency use;

• Options for processors to import or export catch and production information; and

• Significant reduction in data entry by management agencies and processors.

Small Entity Compliance Guide

The preamble to this final rule and particularly the summary of the FRFA serve as the small entity compliance guide. This action does not require any additional compliance from small entities that is not described in this final rule. Copies of this final rule are available from NMFS (see ADDRESSES) and at the NMFS website at http://alaskafisheries.noaa.gov.

Paperwork Reduction Act Collections of Information

This final rule contains collection-of-information requirements that are subject to review and approval by the Office of Management and Budget (OMB) under the Paperwork Reduction Act (PRA) and which have been approved by OMB. The collections are listed below by OMB control number.

OMB Control Number 0648-0206

Public reporting burden is estimated to average per response: 21 minutes for Federal fisheries permit and 21 minutes for Federal processor permit.

OMB Control Number 0648-0213

Public reporting burden is estimated to average per response: 28 minutes for catcher vessel longline and pot gear DFL or ELB; 18 minutes for catcher vessel trawl DFL or ELB; 31 minutes for mothership DCPL or ELB; 41 minutes for catcher/processor longline and pot gear DCPL or ELB; 30 minutes for catcher/processor trawl gear DCPL or ELB; 23 minutes for buying station report; 7 minutes for check-in/check-out report, mothership or catcher/processor; 8 minutes for check-in/check-out report, shoreside processor. The weekly production report, estimated at 17 minutes; shoreside processor DCPL, estimated at 31 minutes; and mothership consolidated ADF&G fish tickets, estimated at 35 minutes, are removed with this final rule.

OMB Control Number 0648-0272

Public reporting burden for IFQ landing reports is estimated to average 18 minutes per response.

OMB Control Number 0648-0334

Public reporting burden is estimated to average per response: one hour for groundfish and crab LLP transfer application and one hour for scallop LLP transfer application.

OMB Control Number 0648-0515

Public reporting burden is estimated to average per response: 15 minutes for IERS application processor registration; 35 minutes for eLandings landing report; 35 minutes for manual landing report; and 15 minutes for catcher/processor or mothership eLandings production report.

OMB Control Number 0648-0570

Public reporting burden is estimated to average per response: 20 minutes for crab catcher/processor offload report, 40 hours for eligible crab community organization annual report; and 1 hour for CR Registered Crab Receiver Ex-vessel Volume and Value Report.

These estimates include the time for reviewing instructions, searching existing data sources, gathering and maintaining the data needed, and completing and reviewing the collection of information.

Send comments regarding this burden estimate, or any other aspect of this data collection, including suggestions for reducing the burden, to NMFS (see ADDRESSES) and by e-mail to David_Rostker@omb.eop.gov, or fax to 202-395-7285.

Notwithstanding any other provision of the law, no person is required to respond to, nor shall any person be subject to a penalty for failure to comply with, a collection of information subject to the requirements of the PRA, unless that collection of information displays a currently valid OMB control number.

List of Subjects in 15 CFR part 902

Reporting and recordkeeping requirements.

List of Subjects in 50 CFR parts 679 and 680

Alaska, Fisheries, Reporting and recordkeeping requirements.

Dated: December 2, 2008.
Samuel D. Rauch III,
Deputy Assistant Administrator for Regulatory Programs, National Marine Fisheries Service.

For the reasons set out in the preamble, NMFS amends 15 CFR chapter IX and 50 CFR chapter VI as follows:

TITLE 15—COMMERCE AND FOREIGN TRADE

CHAPTER IX—NATIONAL OCEANIC AND ATMOSPHERIC ADMINISTRATION, DEPARTMENT OF COMMERCE

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, in the table in paragraph (b), under the entry “50 CFR”:

A. Remove entries for “679.5(b), (c), (d), (g), (h), (i), (j), (k) and (m)”; “679.5(e), (f), and (o)”; “679.5(l)(1), (l)(2), (l)(3), and (l)(5)”; “679.5(l)(3)(i), (l)(4)”; “679.24(e)”; “679.28(b) and (d)”; “679.28(f)”; “679.32(c)”; “679.61(c) and (f)”; “679.61(d) and (e)”; “679.62(b)(3) and (c)”; “679.63(a)(2)”; “680.5”; “680.23(e), (f), (g), and (h)”; “680.44(a), (b), (c), (d), (e)”; and “680.44(f)”.

B. Add entries in alphanumeric order for “679.5(b), (h), and (k)”; “679.5(c)”; “679.5(d)”; “679.5(e) and (f)”; “679.5(g)”; “679.5(l)(1) through (l)(5)”; “679.5(o)”; “679.27(j)(5)”; “679.28(a)”; “679.28(b), (c), (d), and (e)”; “679.28(h)”; “679.32(c) and (e)”; “679.61(c), (d), (e), and (f)”; “679.62”; “679.63”; “680.5(a) and (h) through (l)”; “680.5(b)”; “680.5(e) and (f)”; “680.5(g)”; “680.5(m)”; “680.23(e), (f), and (g)”; and “680.44”.

C. Revise entries for “679.5(r)”; “679.5(s)”; “679.32(d)”; “679.32(f)”; and “679.43”.

The additions and revisions read as follows:

§ 902.1 OMB control numbers assigned pursuant to the Paperwork Reduction Act.

(b) * * *

CFR part or section where the information collection requirement is located | Current OMB control number (all numbers begin with 0648-)
* * * * * * * |
50 CFR |
* * * * * * * |
679.5(b), (h), and (k) | -0213
679.5(c) | -0213, -0272, -0330, -0513, and -0515
679.5(d) | -0213, -0272, and -0513
679.5(e) and (f) | -0213, -0272, -0330, -0401, -0513, and -0515
679.5(g) | -0213, -0272, and -0330
679.5(l)(1) through (l)(5) | -0272
* * * * * * * |
679.5(o) | -0401
* * * * * * * |
679.5(r) | -0213, -0445, and -0545
679.5(s) | -0213, -0445, and -0565
* * * * * * * |
679.27(j)(5) | -0213, -0330, and -0565
679.28(a) | -0213 and -0330
679.28(b), (c), (d), and (e) | -0330
* * * * * * * |
679.28(h) | -0213 and -0515
* * * * * * * |
679.32(c) and (e) | -0213 and -0269
679.32(d) | -0213, -0269 and -0330
679.32(f) | -0213, -0269, and -0272
* * * * * * * |
679.43 | -0272, -0318, -0334, -0398, -0401, -0545, -0565, and -0569
* * * * * * * |
679.61(c), (d), (e), and (f) | -0401
679.62 | -0393
679.63 | -0213 and -0330
* * * * * * * |
680.5(a) and (h) through (l) | -0213
680.5(b) | -0515
680.5(e) and (f) | -0570
680.5(g) | -0514
* * * * * * * |
680.5(m) | -0514
* * * * * * * |
680.23(e), (f), and (g) | -0330
* * * * * * * |
680.44 | -0514
* * * * * * * |

TITLE 50—WILDLIFE AND FISHERIES

CHAPTER VI—FISHERY CONSERVATION AND MANAGEMENT, NATIONAL OCEANIC AND ATMOSPHERIC ADMINISTRATION, DEPARTMENT OF COMMERCE

PART 679—FISHERIES OF THE EXCLUSIVE ECONOMIC ZONE OFF ALASKA

3. The authority citation for part 679 is revised to read as follows:

Authority: 16 U.S.C. 773 et seq.; 1801 et seq.; 3631 et seq.; Pub. L. 108-447.

4. In § 679.2:

A. Add in alphabetical order definitions for “At-sea operation”, “eLandings”, “Interagency electronic reporting system (IERS)”, “Maximum retainable amount (MRA)”, “Non-IFQ groundfish”, “Non-individual entity”, “Permit”, “Shoreside processor electronic logbook report (SPELR)”, “Single geographic location”, “User”, “User identification (UserID)”, and “Week-ending date”.

B. Revise the definitions of “Active/inactive periods”, “Associated processor”, “Gear deployment (or to set gear)”, “Gear retrieval (or to haul gear)”, “Haul”, “Prohibited species catch (PSC)”, and “Tender vessel”.

The additions and revisions read as follows:

§ 679.2 Definitions.

Active/inactive periods means for longline or pot gear catcher vessel, see § 679.5(c)(3)(iv)(A)(1); for longline or pot gear catcher/processor, see § 679.5(c)(3)(iv)(B)(1); for trawl gear catcher vessel, see § 679.5(c)(4)(iv)(A)(1); for trawl gear catcher/processor, see § 679.5(c)(4)(iv)(B)(1); for shoreside processor or SFP, see § 679.5(c)(5)(ii); for mothership, see § 679.5(c)(6)(iv).

Associated processor means:

(1) Relationship with a buying station. A mothership or catcher/processor issued an FFP, or a shoreside processor or SFP issued an FPP, with a contractual relationship with a buying station to conduct groundfish buying station activities for that processor.

(2) Relationship with a custom processor. A mothership or catcher/processor issued an FFP or a shoreside processor or SFP issued an FPP, with a contractual relationship with a custom processor to process groundfish on its behalf.

At-sea operation means, for purposes of eLandings, a catcher/processor or mothership that is receiving and/or processing fish in State waters and/or in waters of the EEZ off the coast of Alaska.

eLandings means the Internet data entry system or desktop client components of the Interagency Electronic Reporting System (IERS) for reporting commercial fishery landings and production from waters off Alaska.

Gear deployment (or to set gear) (see § 679.5(c)(3)(vi)(B) for longline and pot gear; see § 679.5(c)(4)(vi)(B) for trawl gear).

Gear retrieval (or to haul gear) (see § 679.5(c)(3)(vi)(C) for longline and pot gear; see § 679.5(c)(4)(vi)(C) for trawl gear).

Haul means the retrieval of trawl gear which results in catching fish or which does not result in catching fish; a test of trawl gear; or when non-functional gear is pulled in, even if no fish are harvested. All hauls of any type need to be recorded and numbered throughout the year, whether or not fish are caught.

Interagency electronic reporting system (IERS) means an interagency electronic reporting system that allows fishery participants to use the Internet or desktop client software named eLandings to enter landings and production data for appropriate distribution to the ADF&G, IPHC, and NMFS Alaska Region (see § 679.5(e)).

Maximum retainable amount (MRA) (see § 679.20(e)).

Non-IFQ groundfish means groundfish, other than IFQ sablefish.

Non-individual entity means a person who is not an individual or “natural” person; it includes corporations, partnerships, estates, trusts, joint ventures, joint tenancy, and any other type of “person” other than a natural person.

Permit means documentation granting permission to fish and includes “license” as a type of permit.

Prohibited species catch (PSC) means any of the species listed in Table 2b to this part.

Shoreside processor electronic logbook report (SPELR) (discontinued, see definition of “eLandings” under this section).

Single geographic location (see § 679.4(l)(5)(iii)).

Tender vessel (see also the definition of “buying station” under this section) means a vessel that is used to transport unprocessed fish or shellfish received from another vessel to an associated processor.

User means, for purposes of IERS and eLandings, an individual representative of a Registered Buyer; a Registered Crab Receiver; a mothership or catcher/processor that is required to have a Federal Fisheries Permit (FFP) under § 679.4; a shoreside processor or SFP and mothership that receives groundfish from vessels issued an FFP under § 679.4; any shoreside processor or SFP that is required to have a Federal processor permit under § 679.4; and his or her designee(s).

User identification (UserID), for purposes of IERS and eLandings, means the string of letters and/or numbers that identifies the individual and gives him or her authorization to view and submit reports for specific operations or to otherwise use eLandings. To facilitate the management of Users and privileges and to provide for data security, a separate UserID is issued to each individual.

Week-ending date means the last day of the weekly reporting period which ends on Saturday at 2400 hours, A.l.t., except during the last week of each calendar year, when it ends at 2400 hours, A.l.t., December 31.

5. In § 679.4:

A. Paragraph (a)(4) is removed and reserved.

B. Paragraphs (a)(1)(i)(A), (a)(1)(iv)(A), (a)(1)(iv)(B), (a)(3)(i), (a)(3)(iii), (b) heading, (b)(3), (b)(4), (b)(5) heading, (b)(5)(iv), (e)(2), (e)(3), (f) heading, (f)(2), (f)(3), (f)(4), (g)(1), (k) heading, and (l)(1)(iv) are revised.

C. Paragraphs (a)(1)(vii)(C), (a)(1)(xiv), (a)(9), (b)(5)(vi)(C), (d)(1)(iii), (d)(2)(iv), (d)(3)(v), (k)(6)(x), (l)(1)(ii)(C), and (l)(5)(ii) are added.

The revisions and additions read as follows:

§ 679.4 Permits.

(a) * * *

(1) * * *

If program permit or card type is: | Permit is in effect from issue date through the end of . . . | For more information, see . . .
(i) * * *
(A) Registered buyer | Until expiration date shown on permit | Paragraph (d)(3)(ii) of this section
* * * * * * *
(iv) * * *
(A) Federal fisheries | Until expiration date shown on permit | Paragraph (b) of this section
(B) Federal processor | Until expiration date shown on permit | Paragraph (f) of this section
* * * * * * *
(vii) * * *
(C) Scallop license | Indefinite | Paragraph (g) of this section
* * * * * * *
(xiv) Crab Rationalization Program permits | see § 680.4 of this chapter | § 680.4 of this chapter
(A) Crab Quota Share permit | Indefinite | § 680.4(b) of this chapter
(B) Crab Processor Quota Share permit | Indefinite | § 680.4(c) of this chapter
(C) Crab Individual Fishing Quota (IFQ) permit | Specified fishing year | § 680.4(d) of this chapter
(D) Crab Individual Processor Quota (IPQ) permit | Specified fishing year | § 680.4(e) of this chapter
(E) Crab IFQ hired master permit | Specified fishing year | § 680.4(g) of this chapter
(F) Registered Crab receiver permit | Specified fishing year | § 680.4(i) of this chapter
(G) Federal crab vessel permit | Specified fishing year | § 680.4(k) of this chapter
(H) Crab harvesting cooperative IFQ permit | Specified fishing year | § 680.21(b) of this chapter

(3) * * *

(i) A person may obtain an application for a new permit or for renewal or revision of an existing permit for any of the permits under this section and must submit forms to NMFS as instructed in application instructions. With appropriate software, all permit applications may be completed online and printed from the Alaska Region website at http://alaskafisheries.noaa.gov.

(iii) The operator, manager, Registered Buyer, or Registered Crab Receiver must obtain a separate permit for each applicant, facility, or vessel, as appropriate to each Federal permit in

this section (§ 679.4) and retain a copy of each permit application, whether the application is requesting an initial permit or renewing or revising an existing permit.

(9) Permit surrender. The Regional Administrator will recognize the voluntary surrender of a permit issued in this section, § 679.4, if a permit may be surrendered and it is submitted by the person named on the permit, owner of record, or agent. Submit the original permit to Program Administrator, RAM Program, P.O. Box 21668, Juneau, AK 99802, by certified mail or other method that provides written evidence that NMFS Alaska Region received it. The receiving date of signature by NMFS staff is the date the permit was surrendered.

(b) Federal fisheries permit (FFP)

(3) Vessel operations categories. An FFP authorizes a vessel owner to deploy a vessel to conduct operations in the GOA or BSAI under the following categories: Catcher vessel, catcher/processor, mothership, tender vessel, or support vessel. A vessel may not be operated in a category other than as specified on the FFP, except that a catcher vessel, catcher/processor, mothership, or tender vessel may be operated as a support vessel.

(4) Duration—(i) Length of permit effectiveness. An FFP is in effect from the effective date through the expiration date, unless it is revoked, suspended, surrendered in accordance with paragraph (a)(9) of this section, or modified under § 600.735 or § 600.740 of this chapter.

(ii) Surrendered permit. An FFP permit may be voluntarily surrendered in accordance with paragraph (a)(9) of this section. An FFP may be reissued to the permit holder of record in the same fishing year in which it was surrendered. Contact NMFS/RAM by telephone, locally at 907-586-7202 (Option #2) or toll-free at 800-304-4846 (Option #2).

(iii) Amended permit. An owner or operator, who applied for and received an FFP, must notify NMFS of any change in the permit information by submitting an FFP application found at the NMFS website at http://alaskafisheries.noaa.gov as instructed on the application form. Upon receipt and approval of a permit amendment, the Program Administrator, RAM, will issue an amended FFP.

(5) Contents of an FFP application. * * *

(iv) Area and gear information. Indicate the type of vessel operation. If catcher/processor or catcher vessel, indicate only the gear types used for groundfish fishing. If the vessel is a catcher/processor under 125 ft (18.3 m) LOA that is intended to process GOA inshore pollock or GOA inshore Pacific cod, mark the box for a GOA inshore processing endorsement.

(vi) * * *

(C) Selections for species endorsements will remain valid until an FFP is amended to remove those endorsements or the permit with these endorsements is surrendered or revoked.

(d) * * *

(1) * * *

(iii) An IFQ permit may be voluntarily surrendered in accordance with paragraph (a)(9) of this section. An annual IFQ permit will not be reissued in the same fishing year in which it was surrendered, but a new annual IFQ permit may be issued to the quota share holder of record in a subsequent fishing year. Contact NMFS/RAM for more information locally at 907-586-7202 (Option #2) or toll-free at 800-304-4846 (Option #2).

(2) * * *

(iv) An IFQ hired master permit may be voluntarily surrendered in accordance with paragraph (a)(9) of this section. An IFQ hired master permit may be reissued to the permit holder of record in the same fishing year in which it was surrendered. Contact NMFS/RAM for more information by telephone, locally at 907-586-7202 (Option #2) or toll-free at 800-304-4846 (Option #2).

(3) * * *

(v) A Registered Buyer permit may be voluntarily surrendered in accordance with paragraph (a)(9) of this section. A Registered Buyer permit may be reissued to the permit holder of record in the same fishing year in which it was surrendered. Contact NMFS/RAM for more information by telephone, locally at 907-586-7202 (Option #2) or toll-free at 800-304-4846 (Option #2).

(e) * * *

(2) Halibut CDQ permit. The CDQ group must obtain a halibut CDQ permit issued by the Regional Administrator. The vessel operator must have a copy of the halibut CDQ permit on any fishing vessel operated by, or for, a CDQ group that will have halibut CDQ onboard and must make the permit available for inspection by an authorized officer. The halibut CDQ permit is non-transferable and is issued annually until revoked, suspended, surrendered, or modified. A halibut CDQ permit may be voluntarily surrendered in accordance with paragraph (a)(9) of this section. The halibut CDQ permit will not be reissued in the same fishing year in which it was surrendered, but a new annual halibut CDQ permit may be issued in a subsequent fishing year to the CDQ group entitled to a CDQ halibut allocation. Contact NMFS/RAM for more information by telephone, locally at 907-586-7202 (Option #2) or toll-free at 800-304-4846 (Option #2).

(3) An individual must have onboard the vessel a legible copy of his or her halibut CDQ hired master permit issued by the Regional Administrator while harvesting and landing any CDQ halibut. Each halibut CDQ hired master permit will identify a CDQ permit number and the individual authorized by the CDQ group to land halibut for debit against the CDQ group's halibut CDQ. A halibut CDQ hired master permit may be voluntarily surrendered in accordance with paragraph (a)(9) of this section. A halibut CDQ hired master permit may be reissued to the permit holder of record in the same fishing year in which it was surrendered. Contact NMFS/RAM for more information by telephone, locally at 907-586-7202 (Option #2) or toll-free at 800-304-4846 (Option #2).

(f) Federal processor permit (FPP)

(2) Contents of an FPP application. To obtain an FPP, the owner must complete an FPP application and provide the following information (see paragraphs (f)(2)(i) through (v) of this section for each SFP and shoreside processor plant to be permitted):

(i) New or amended permit. Indicate whether application is for a new or amended FPP; and if an amended permit, provide the current FPP number. Indicate whether application is for a shoreside processor or an SFP.

(ii) Owner information. Indicate the name(s), permanent business mailing address, business telephone number, business fax number, and business email address of all owners, and if applicable, the name of any person or company (other than the owner) who manages the operations of the shoreside processor or SFP.

(iii) SFP information. Indicate the vessel name; whether this is a vessel of the United States; USCG documentation number; ADF&G vessel registration number; ADF&G processor code; the vessel's LOA (ft); registered length (ft); gross tonnage; net tonnage; shaft horsepower; homeport (city and state); and whether choosing to receive a GOA inshore processing endorsement. A GOA inshore processing endorsement is required in order to process GOA inshore pollock and GOA inshore Pacific cod.

(iv) Shoreside processor information. Indicate the shoreside processor's name; permanent business mailing address; physical location of plant at which the shoreside processor is operating (street, city, state, zip code); whether the shoreside processor is replacing a previous processor at this facility (YES or NO, and if YES, name of previous processor); whether multiple processing businesses are using this plant; whether the owner named in paragraph (f)(2)(ii) of this section owns this plant; ADF&G processor code; business telephone number; business fax number; and business e-mail address.

(v) Signature. The owner or agent of the owner of the shoreside processor or SFP must sign and date the application. If the owner is a company, the agent of the owner must sign and date the application.

(3) Issuance. Upon receipt of a properly completed permit application, the Regional Administrator will issue a Federal processor permit required by this paragraph (f).

(4) Duration—(i) Length of effectiveness. An FPP is in effect from the effective date through the date of permit expiration, unless it is revoked, suspended, surrendered in accordance with paragraph (a)(9) of this section, or modified under § 600.735 or § 600.740 of this chapter.

(ii) Surrendered permit. An FPP may be voluntarily surrendered in accordance with paragraph (a)(9) of this section. An FPP may be reissued to the permit holder of record in the same fishing year in which it was surrendered. Contact NMFS/RAM for more information by telephone, locally at 907-586-7202 (Option #2) or toll-free at 800-304-4846 (Option #2).

(iii) Amended permit. An owner or operator, who applied for and received an FPP, must notify NMFS of any change in the permit information by submitting an FPP application found at the NMFS website at http://alaskafisheries.noaa.gov. The owner or operator must submit the application as instructed on the application form. Upon receipt and approval of a permit amendment, the Program Administrator, RAM, will issue an amended FPP.

(g) * * *

(1) General requirements. (i) In addition to the permit and licensing requirements prescribed in this part, each vessel within the EEZ off Alaska that is catching and retaining scallops, must have an original scallop LLP license onboard at all times it is catching and retaining scallops. This scallop LLP license, issued by NMFS, authorizes the person named on the license to catch and retain scallops in compliance with State of Alaska regulations and only with a vessel that does not exceed the maximum LOA specified on the license and the gear designation specified on the license.

(ii) A scallop LLP license may be voluntarily surrendered in accordance with paragraph (a)(9) of this section. A surrendered scallop LLP license will cease to exist and will not be subsequently reissued. Contact NMFS/RAM for more information by telephone, locally at 907-586-7202 (Option #2) or toll-free at 800-304-4846 (Option #2).

(k) Licenses for license limitation (LLP) groundfish or crab species

(6) * * *

(x) Surrender of groundfish or crab LLP. A groundfish or crab LLP license may be voluntarily surrendered in accordance with paragraph (a)(9) of this section. A surrendered groundfish or crab LLP license will cease to exist and will not be subsequently reissued. Contact NMFS/RAM for more information by telephone, locally at 907-586-7202 (Option #2) or toll-free at 800-304-4846 (Option #2).

(l) * * *

(1) * * *

(ii) * * *

(C) Surrender of AFA permits. Except for AFA inshore processor permits, AFA permits may not be surrendered.

(iv) Amended permits. AFA vessel and processor permits may not be used on or transferred to any vessel or processor that is not listed on the permit. However, AFA permits may be amended by NMFS to reflect any change in the ownership of the vessel or processor after submittal of this information to NMFS in a written letter.

(5) * * *

(ii) Surrender of permit. An AFA inshore processor permit may be voluntarily surrendered in accordance with paragraph (a)(9) of this section. The AFA inshore processor permit will not be reissued in the same fishing year in which it was surrendered, but may be reapplied for and if approved, reissued to the permit holder of record in a subsequent fishing year. Contact NMFS/RAM for more information by telephone, locally at 907-586-7202 (Option #2) or toll-free at 800-304-4846 (Option #2).

6. In § 679.5:

A. Paragraphs (j) and (m) are removed and reserved.

B. Paragraphs (a) through (f), (g)(1) introductory text, (h), (i), (l)(1)(iv), and (l)(2) are revised.

The revisions read as follows:

§ 679.5 Recordkeeping and reporting (R&R).

(a) General R&R requirements. R&R requirements include, but are not limited to, paper and electronic documentation, logbooks, forms, reports, receipts, computer printouts, and requests for inspection described in this section and in § 679.28.

(1) Groundfish logbooks and forms. (i) The Regional Administrator will prescribe and provide groundfish logbooks required under this section. All groundfish forms required under this section are available from the Alaska Region website at http://alaskafisheries.noaa.gov or may be requested by calling the Sustainable Fisheries Division at 907-586-7228 or faxing 907-586-7465. The forms may be completed online, printed, and mailed or faxed to NMFS at the address or fax number shown on the form. The forms also may be completed online, saved as a file, and submitted to NMFS as an attachment to an e-mail to the e-mail address shown on the form.

(ii) Current editions. The operator must use the current edition of the logbooks and current format of the forms. Upon approval from the Regional Administrator NMFS-approved electronic versions of the forms may be used. Upon written notification and approval by the Regional Administrator, logbooks from the previous year may be used.

(iii) Management program defined. A “management program” is a unique fishery program with a specific management strategy and/or allocation. Harvest that occurred under the management programs listed in the following table must be recorded separately in the logbooks, forms, and eLandings.

If harvest made under . . . program | Record the . . . | For more information, see . . .
(A) Western Alaska Community Development Quota (CDQ) | CDQ group number | subpart C of this part
(B) Exempted Fishery | Exempted fishery permit number | § 679.6
(C) Research Fishery | Research fishery permit number | § 600.745(a) of this chapter
(D) Aleutian Islands Pollock (AIP) | n/a | subpart F of this part
(E) Open access (OA) | [for recording in eLandings only] | paragraph (e) of this section

(2) Responsibility. (i) The operator of a catcher vessel, catcher/processor, mothership, or buying station receiving groundfish from a catcher vessel and delivering to a mothership (hereafter referred to as the operator) and the manager of a shoreside processor, SFP, or buying station receiving groundfish from a catcher vessel and delivering to a shoreside processor or SFP (hereafter referred to as the manager) are each responsible for complying with the applicable R&R requirements in this section and in § 679.28.

(ii) The owner of a vessel, shoreside processor, SFP, or buying station is responsible for compliance and must ensure that the operator, manager, or representative (see paragraph (b) of this section) complies with the applicable R&R requirements in this section and in § 679.28.

(iii) The IFQ permit holder, IFQ hired master permit holder, or Registered Buyer must comply with the R&R requirements provided at paragraphs (e), (g), (k), and (l) of this section.

(iv) The CDQ permit holder, CDQ hired master permit holder, or Registered Buyer must comply with the R&R requirements provided at paragraphs (e), (g), (k), and (l)(1) through (6) of this section.

(3) Fish to be recorded and reported. The operator or manager must record and report the following information (see paragraphs (a)(3)(i) through (iv) of this section) for all groundfish (see Table 2a to this part), prohibited species (see Table 2b to this part) and forage fish (see Table 2c to this part). The operator or manager may record and report the following information (see paragraphs (a)(3)(i) through (iv) of this section) for non-groundfish (see Table 2d to this part):

(i) Harvest information;

(ii) Receipt information from catcher vessels and buying stations, including fish received from vessels not required to have an FFP; and fish received under contract for handling or processing for another processor;

(iii) Discard or disposition information, including fish reported but not delivered to the operator or manager, e.g., fish used onboard a vessel, when receiving catch from a catcher vessel or buying station; and

(iv) Transfer information, including fish transferred out of the facility or off the vessel.

(4) Exemptions—(i) Catcher vessels less than 60 ft (18.3 m) LOA. Except for the vessel activity report described at paragraph (k) of this section, the owner or operator of a catcher vessel less than 60 ft (18.3 m) LOA is not required to comply with the R&R requirements of this section.

(ii) Catcher vessels that take groundfish in crab pot gear for use as crab bait on that vessel. (A) Owners or operators of catcher vessels who, when crab is open anywhere or in the same area as an open crab season, take groundfish in crab pot gear for use as crab bait onboard their same vessels, and the bait is neither transferred nor sold, are not required to comply with R&R requirements of this section.

(B) This exemption does not apply to fishermen who:

(1) Catch groundfish for bait during an open crab season and sell that groundfish or transfer it to another vessel, or

(2) Participate in a directed fishery for groundfish using any gear type during periods that are outside an open crab season for use as crab bait onboard their vessel.

(C) No groundfish species listed by NMFS as “prohibited” in a management or regulatory area may be taken in that area for use as bait.

(5) Inspection and retention of records—(i) Inspection of records. The operator or manager must make available for inspection the R&R documentation in this section and in § 679.28 upon the request of an authorized officer.

(ii) Retention of records. The operator or manager must retain the R&R documentation described in this section and in § 679.28:

(A) On site. Retain these records on site at the shoreside processor or SFP, or onboard the vessel until the end of the fishing year during which the records were made and for as long thereafter as fish or fish products recorded in the R&R documentation are retained.

(B) For 3 years. Retain these records for 3 years after the end of the fishing year during which the records were made.

(6) Maintenance of records. The operator or manager must maintain all records described in this section and in § 679.28 in English and in a legible, timely, and accurate manner, based on Alaska local time (A.l.t.); if handwritten, in indelible ink; if computer-generated, as a legible printed paper copy.

(7) Custom processing. The manager of a shoreside processor or SFP or the operator of a mothership must record products that result from custom processing for another person in eLandings consistently throughout a fishing year using one of the following two methods:

(i) Combined records. Record landings, discards or dispositions, and products of custom-processed groundfish routinely in eLandings using processor name, FFP or FPP number, and ADF&G processor code; or

(ii) Separate records. Record landings, discards or dispositions, and products of custom-processed groundfish in eLandings identified by the name, FPP number or FFP number, and ADF&G processor code of the associated business entity.

(b) Representative. The operator of a catcher vessel, mothership, catcher/processor, or buying station delivering to a mothership or manager of a shoreside processor, SFP, or buying station delivering to a shoreside processor or SFP may identify one contact person to complete the logbook and forms and to respond to inquiries from NMFS. Designation of a representative under this paragraph (b) does not relieve the owner, operator, or manager of responsibility for compliance under paragraphs (a)(1) through (6) of this section.

(c) Logbooks—(1) Requirements—(i) Use of two or more vessel logbooks of same gear type. If using more than one logbook of the same gear type in a fishing year onboard a vessel, the operator must ensure that the page numbers follow the consecutive order of the previous logbook.

(ii) Use of two or more vessel logbooks of different gear types. If two or more different gear types are used onboard a vessel in a fishing year, the operator(s) of this vessel must use the same number of separate vessel logbooks for the different gear types, each separately paginated.

(iii) Two vessel logbooks for pair trawl. If two vessels are dragging a trawl between them (pair trawl), the operator of each vessel must maintain a separate logbook to record the amount of the catch retained and fish discarded by that vessel. Each of the two logbooks must be separately paginated.

(iv) Two logbooks of different operation. If a vessel functions both as a mothership and as a catcher/processor in the same fishing year, the operator(s) must maintain two logbooks, a separate logbook for each operation type, each separately paginated.

(v) Alteration of logbook information. (A) Except as described in paragraph (c)(1)(v)(B) of this section, no person may alter or change any entry or record in a logbook.

(B) An inaccurate or incorrect entry or record must be corrected by lining out the original and inserting the correction, provided that the original entry or record remains legible. All corrections must be made in ink.

(vi) Logsheet distribution and submittal. (A) No person except an authorized officer may remove any original white logsheet of any logbook.

(B) The operator must distribute and submit logsheets as indicated in the following table:

Logsheet Distribution and Submittal: If logsheet color is ... | Logsheet Distribution and Submittal: Logsheet found in these logbooks: CV lgl | Logsheet Distribution and Submittal: Logsheet found in these logbooks: CV trw | Logsheet Distribution and Submittal: Logsheet found in these logbooks: CP lgl | Logsheet Distribution and Submittal: Logsheet found in these logbooks: CP trw | Logsheet Distribution and Submittal: Logsheet found in these logbooks: MS | Logsheet Distribution and Submittal: Submit to ... | Logsheet Distribution and Submittal: Time limit
(1) White | X | X | X | X | X | Must retain, permanently bound in logbook
(2) Goldenrod | X | X | X | X | X | Observer | After signature of operator and prior to departure of observer from the vessel.
(3) Yellow | X | X | X | X | X | Must submit quarterly to: NOAA Fisheries Office for Law Enforcement Alaska Region Logbook Program P.O. Box 21767 Juneau, AK 99802 1767 Telephone: 907-586-7225 | On the following schedule: 1st quarter by May 1 of that fishing year 2nd quarter by August 1 of that fishing year 3rd quarter by November 1 of that fishing year 4th quarter by February 1 of the following fishing year
(4) Blue | X | X |  |  |  | Mothership, shoreside processor, SFP, or buying station that receives the harvest | Within 2 hours after completion of catch delivery
(5) Green | X |  | X |  |  | Optional, but may be required by IPHC (see §§ 300.60 through 300.65 of this chapter) | If required, after the vessel's catch is off-loaded
Note: CP = catcher/processor; CV = catcher vessel; lgl = longline; trw = trawl; MS = mothership.

(2) Recording active and inactive time periods in the DFL or DCPL—(i) Account for each day of the fishing year. The operator must account for each day of the fishing year, January 1 through December 31, in the DFL or DCPL and indicate whether the vessel or processor was active or inactive during the time period.

(A) An active period by fishing category is defined in the following paragraphs under this section:

Paragraph | Fishing Category
(c)(3)(iv)(A)(1) | Catcher vessel, longline or pot gear
(c)(3)(iv)(B)(1) | Catcher/processor, longline or pot gear
(c)(4)(iv)(A)(1) | Catcher vessel, trawl gear
(c)(4)(iv)(B)(1) | Catcher/processor, trawl gear
(c)(5)(ii) | Shoreside processor or SFP
(c)(6)(iv) | Mothership

(B) An inactive period is defined as a time period other than active.

(ii) Record January 1 on page 1. The operator must record the first day of the fishing year, January 1, on page one of the DFL or DCPL regardless of whether the vessel or processor was active or inactive. The operator must record time periods consecutively.

(iii) Required information for inactive periods. If inactive, the operator must record the following information (see paragraphs (c)(2)(iii)(A) through (F) of this section) on one logsheet in the DFL or DCPL:

(A) If a catcher vessel, vessel name, ADF&G vessel registration number, FFP number or Federal crab vessel permit number, operator printed name, operator signature, and page number.

(B) If a mothership or catcher/processor, record vessel name, ADF&G processor code, FFP number, operator printed name, operator signature, and page number.

(C) Mark “inactive.”

(D) Record the date (mm/dd) of the first day when inactive under “Start date.”

(E) Write brief explanation why inactive, e.g., bad weather or equipment failure. If inactive due to surrender of a FFP or FPP, write “surrender of permit” as the reason for inactivity.

(F) Record the date (mm/dd) of the last day when inactive under “End date.”

(iv) Inactive two or more quarters. If the inactive time period extends across two or more successive quarters, the operator must complete a logsheet for each inactive quarter. The first logsheet must indicate the first and last day of the first inactive quarter. Successive logsheets must indicate the first and last day of its respective inactive quarter.

(3) Longline and pot gear catcher vessel DFL and catcher/processor DCPL—(i) Responsibility—(A) Groundfish fisheries. (1) Except as described in paragraph (f)(1)(i) of this section, the operator of a catcher vessel 60 ft (18.3 m) or greater LOA, that is required to have an FFP under § 679.4(b) and that is using longline or pot gear to harvest groundfish must maintain a longline and pot gear DFL.

(2) Except as described in paragraph (f)(1)(ii) of this section, the operator of a catcher/processor that is required to have an FFP under § 679.4(b) and that is using longline or pot gear to harvest groundfish must use a combination of catcher/processor longline and pot gear DCPL and eLandings to record and report daily processor identification information, catch-by-set information, groundfish production data, and groundfish and prohibited species discard or disposition data.

(B) IFQ halibut, CDQ halibut, and IFQ sablefish fisheries. (1) Except as described in paragraph (f)(1)(i) of this section, the operator of a catcher vessel 60 ft (18.3 m) or greater LOA, using fixed gear (NMFS), setline (IPHC), or pot gear to harvest IFQ sablefish, IFQ halibut, or CDQ halibut from the GOA or BSAI, must maintain a longline and pot gear DFL.

(2) Except as described in paragraph (f)(1)(ii) of this section, the operator of a catcher/processor that is using longline or pot gear to harvest IFQ sablefish, IFQ halibut, or CDQ halibut from the GOA or BSAI must use a combination of catcher/processor longline and pot gear DCPL and eLandings to record and report daily processor identification information, catch-by-set halibut and sablefish landings data, and halibut, sablefish, and prohibited species discard or disposition data.

(C) CR crab fisheries. (1) The operator of a catcher vessel 60 ft (18.3 m) or greater LOA, using pot gear to harvest CR crab from the BSAI must maintain a longline and pot gear DFL.

(2) The operator of a catcher/processor that is using pot gear to harvest CR crab from the BSAI must use a combination of catcher/processor longline and pot gear DCPL and eLandings to record and report daily processor identification information, CR crab landings data, and CR crab and prohibited species discard or disposition data.

(ii) Data entry time limits—(A) Catcher vessel. The operator of a catcher vessel using longline or pot gear must record in the DFL the information from the following table for each set within the specified time limit:

DATA ENTRY TIME LIMITS, CATCHER VESSEL LONGLINE OR POT GEAR: Required information | DATA ENTRY TIME LIMITS, CATCHER VESSEL LONGLINE OR POT GEAR: Time limit for recording
(1) Set number, time and date gear set, time and date gear hauled, beginning and end positions, CDQ group number, halibut CDQ permit number, halibut IFQ permit number, sablefish IFQ permit number, crab IFQ permit number, FFP number and/or Federal crab vessel permit number (if applicable), number of pots set, and estimated total hail weight for each set | Within 2 hours after completion of gear retrieval
(2) Discard and disposition information | By noon each day to record the previous day's discard and disposition information
(3) Submit the blue DFL to mothership, shoreside processor, SFP, or buying station receiving catch | Within 2 hours after completion of catch delivery
(4) All other required information | Within 2 hours after the vessel's catch is off-loaded, notwithstanding other time limits
(5) Operator sign the completed logsheets | Within 2 hours after completion of catch delivery
(6) Submit goldenrod logsheet to the observer | After signature of operator and prior to departure of observer from the vessel.

(B) Catcher/processor. The operator of a catcher/processor using longline or pot gear must record in the DCPL or eLandings the information from the following table for each set within the specified time limit:

DATA ENTRY TIME LIMITS, CATCHER/PROCESSOR LONGLINE OR POT GEAR: Required information | DATA ENTRY TIME LIMITS, CATCHER/PROCESSOR LONGLINE OR POT GEAR: Record In: DCPL | DATA ENTRY TIME LIMITS, CATCHER/PROCESSOR LONGLINE OR POT GEAR: Record In: eLandings | DATA ENTRY TIME LIMITS, CATCHER/PROCESSOR LONGLINE OR POT GEAR: Time limit for recording
(1) Set number, time and date gear set, time and date gear hauled, beginning and end positions, CDQ group number, halibut CDQ permit number, halibut IFQ permit number, sablefish IFQ permit number, crab IFQ permit number, FFP number and/or Federal crab vessel permit number (if applicable), number of pots set, and estimated total hail weight for each set | X | X | Within 2 hours after completion of gear retrieval
(2) Discard and disposition information |  | X | By midnight each day to record the previous day's discard and disposition information
(3) Product information |  | X | By noon each day to record the previous day's production information
(4) All other required information | X | X | By noon of the day following completion of production
(5) Operator sign the completed logsheets | X | X | By noon of the day following the week-ending date of the weekly reporting period
(6) Submit goldenrod logsheet to the observer | X |  | After signature of operator and prior to departure of observer from the vessel

(iii) Required information, if inactive. See paragraph (c)(2) of this section.

(iv) Required information, if active—(A) Catcher vessel, longline or pot gear. (1) A catcher vessel using longline or pot gear is active when gear remains on the grounds in a reporting area (except reporting areas 300, 400, 550, or 690), regardless of the vessel location.

(2) If the catcher vessel identified in paragraph (c)(3)(i)(A)(1) of this section is active, the operator must record in the DFL, for one or more days on each logsheet, the information listed in paragraphs (c)(3)(v), (vi), (viii), (ix), and (x) of this section.

(3) Retain and record discard quantities over the MRA. When a catcher vessel is fishing in an IFQ fishery and the fishery for Pacific cod or rockfish is closed to directed fishing but not in PSC status in that reporting area as described in § 679.20, the operator must retain and record up to and including the maximum retainable amount (MRA) for Pacific cod or rockfish as defined in Table 10 or 11 to this part. Quantities over this amount must be discarded and recorded as discard in the logbook.

(B) Catcher/processor, longline or pot gear. (1) A catcher/processor using longline or pot gear is active when processing or when all or part of the longline or pot gear is in the water.

(2) If the catcher/processor identified in paragraph (c)(3)(i)(A)(2) of this section is active, the operator must record in the DCPL the information listed in paragraphs (c)(3)(v) and (vi) of this section and must record in eLandings the information listed in paragraphs (c)(3)(v), (vii), (viii), and (x) of this section.

(3) Retain and record discard quantities over the MRA. When a catcher/processor is fishing in an IFQ fishery and the fishery for Pacific cod or rockfish is closed to directed fishing but not in PSC status in that reporting area as described in § 679.20, the operator must retain and record up to and including the MRA for Pacific cod or rockfish as defined in Table 10 or 11 to this part. Quantities over this amount must be discarded and recorded as discard in eLandings.

(v) Identification information—(A) Page number. Number the pages in each logbook consecutively, beginning on the first page of the DFL or DCPL with page 1 for January 1 and continuing for the remainder of the fishing year.

(B) Printed name and signature of operator. The operator's name must be printed in the DFL or DCPL. The operator must sign each completed logsheet of the DFL or DCPL as verification of acceptance of the responsibility required in paragraph (a)(2) of this section

(C) Vessel identification. Name of vessel as displayed in official documentation; FFP number or Federal crab vessel permit number of the vessel; and ADF&G vessel registration number if a catcher vessel or ADF&G processor code if a catcher/processor.

(D) Other permit numbers (if applicable). IFQ permit number of the operator, if any, and each permit number of any IFQ permit on which anyone aboard is authorized to fish; groundfish CDQ group number; and halibut CDQ permit number.

(E) Reporting area—(1) Groundfish. Record the Federal reporting area code (see Figures 1 and 3 to this part) where gear retrieval was completed, regardless of where the majority of the set took place. Use a separate logsheet for each reporting area.

(2) IFQ halibut and CDQ halibut. Record the IPHC regulatory area (see Figure 15 to this part) where gear retrieval was completed, regardless of where the majority of the set took place.

(3) CR crab. Leave this field blank.

(F) Crew size. If a catcher vessel, record the number of crew members (including operator), excluding certified observer(s), on the last day of a trip. If a catcher/processor, record the number of crew members (including operator), excluding certified observer(s), on the last day of the weekly reporting period.

(G) Gear type. Use a separate logsheet for each gear type. From the following table, indicate the gear type used to harvest the fish and appropriate “gear ID.” In addition, if using hook-and-line gear, enter the alphabetical letter that coincides with the gear description. If gear information is the same on subsequent logsheets, mark the box instead of re-entering the gear type information on the next logsheet.

If gear type is ... | Then ...
(1) Other gear | If gear is other than those listed within this table, indicate “Other” and describe
(2) Pot gear | Enter the number of pots lost (optional, but may be required by IPHC regulations (see §§ 300.60 through 300.65 of this chapter)) and number of pots set
(3) Hook-and-line gear | Indicate: (i) Whether gear is fixed hook (conventional or tub), autoline, or snap (optional, but may be required by IPHC regulations (see §§ 300.60 through 300.65 of this chapter))
| (ii) Length of skate to the nearest foot (optional, but may be required by IPHC regulations (see §§ 300.60 through 300.65 of this chapter)), number of skates lost (optional, but may be required by IPHC regulations (see §§ 300.60 through 300.65 of this chapter)), and number of skates set
| (iii) Number of hooks per skate (optional, but may be required by IPHC regulations (see §§ 300.60 through 300.65 of this chapter)), size of hooks, and hook spacing in feet
| (iv) Seabird avoidance gear code(s) (see § 679.24(e) and Table 19 to this part)

(H) Management program. Indicate whether harvest occurred under a management program (see paragraph (a)(1)(iii) of this section). Use a separate logsheet for each management program. If harvest is not under one of the listed management programs, leave blank.

(I) Observer information. Record the number of observers aboard, the name of the observer(s), and the observer cruise number(s).

(vi) Catch-by-set information. The operator must record the following information (see paragraphs (c)(3)(vi)(A) through (L) of this section) for each set (see § 679.2) in the DFL or DCPL. If no catch occurred for a given day, write “no catch.”

(A) Set number. Sequentially by year.

(B) Gear deployment (or to set gear)—(1) Hook-and-line gear begin position. Record date (mm/dd), time (in military format, A.l.t.), and the begin position (in latitude and longitude to the nearest minute; indicate E or W for longitude) when the first hook-and-line gear of a set enters the water.

(2) Jig or troll gear begin position. Record date (mm/dd), time (in military format, A.l.t.), and the begin position (latitude and longitude to the nearest minute; indicate E or W for longitude) when the jig or troll gear enters the water.

(3) Pot gear begin position. Record date (mm/dd), time (in military format, A.l.t.), and the begin position (latitude and longitude to the nearest minute; indicate E or W for longitude) when the pot gear enters the water.

(C) Gear retrieval (or to haul gear)—(1) Hook-and-line gear end position. Date (mm/dd), time (in military format, A.l.t.), and end position coordinates (in latitude and longitude to the nearest minute; indicate E or W for longitude), where the last hook-and-line gear of a set leaves the water, regardless of where the majority of the set took place.

(2) Jig or troll gear end position. Date (mm/dd), time (in military format, A.l.t.), and end position coordinates (in latitude and longitude to the nearest minute; indicate E or W for longitude) where the jig or troll gear leaves the water.

(3) Pot gear end position. Date (mm/dd), time (in military format, A.l.t.), and end position coordinates (in latitude and longitude to the nearest minute; indicate E or W for longitude) where the last pot of a set is retrieved, regardless of where the majority of the set took place.

(D) Begin and end buoy or bag numbers. (optional, but may be required by IPHC regulations (see §§ 300.60 through 300.65 of this chapter)).

(E) Begin and end gear depths. Recorded to the nearest fathom (optional, but may be required by IPHC regulations (see §§ 300.60 through 300.65 of this chapter)).

(F) Species codes. The operator must record and report required information for all groundfish (see Table 2a to this part), prohibited species (see Table 2b to this part), and forage fish (see Table 2c to this part). The operator may record and report information for non-groundfish (see Table 2d to this part).

(G) Target species code. Enter the species code of the intended species to be harvested. Enter only one target species code.

(H) Estimated total hail weight. Enter the estimated hail weight, which is an estimate of the total weight of the entire catch without regard to species. Indicate whether weight is estimated to the nearest pound or to the nearest 0.001 mt.

(I) IR/IU species (see § 679.27). If a catcher/processor, enter species code of IR/IU species and estimated total round weight for each IR/IU species, if applicable; indicate whether weight is estimated to the nearest pound or the nearest 0.001 mt. Use one line to record information for each IR/IU species, including species code and amount of catch. If more than one IR/IU species are to be recorded, the operator must use a separate line for each species.

(J) IFQ halibut and CDQ halibut. Estimated total net weight of IFQ halibut and CDQ halibut to the nearest pound.

(K) IFQ sablefish. Number and estimated total round weight of IFQ sablefish to the nearest pound. Indicate whether IFQ sablefish product is Western cut, Eastern cut, or round weight.

(L) CR crab. If in a CR crab fishery, record the number and scale weight of raw CR crab to the nearest pound.

(vii) Product information, catcher/processor. The operator of a catcher/processor using longline or pot gear must record groundfish product information for all retained groundfish in eLandings (see paragraph (e)(10) of this section).

(viii) Discard or disposition information, catcher vessel. The operator must record in a DFL the discard or disposition information that occurred prior to and during delivery to a buying station, mothership, shoreside processor, or SFP. Discard or disposition information must include the daily weight of groundfish, daily weight of herring PSC, and daily number of PSC animals. If no discard or disposition occurred for a given day, the operator must write “no discards or disposition.”

(A) Enter discard or disposition information by species codes and product codes as follows:

(1) Date (mm/dd) of discard or disposition (day that discard or disposition occurred).

(2) For whole fish discard or disposition of groundfish or Pacific herring PSC, daily estimated total weight, balance forward weight from the previous day, and cumulative total weight since last delivery for each species; indicate whether weight is estimated to the nearest pound or nearest 0.001 mt.

(3) For whole fish discard or disposition of each prohibited species (Pacific salmon, steelhead trout, Pacific halibut, king crabs, and Tanner crabs) record the daily estimated total number, balance forward from the previous day, and cumulative total number since the last delivery.

(4) Summarize the weekly cumulative discard and disposition totals of groundfish weights and number of PSC animals separately by reporting area, management program, and gear type. Determine the weekly cumulative total by adding daily totals and the balance carried forward from the day before.

(B) The operator must record “0” or zero balance forward and start a new logsheet after the offload or transfer of all fish or fish product onboard and prior to the beginning of each fishing trip. Nothing shall be carried forward from the previous fishing trip.

(ix) Discard or disposition information, catcher/processor. The operator of a catcher/processor using longline or pot gear must record all discard or disposition information in eLandings (see paragraph (e)(10) of this section).

(x) Catcher vessel delivery information. The operator of a catcher vessel must enter the following information (see paragraphs (c)(3)(x)(A) through (D) of this section) for delivery to a buying station, mothership, shoreside processor, or SFP:

(A) Date (mm/dd) that delivery of harvest was completed.

(B) ADF&G fish ticket issued to operator by the recipient, Registered Buyer, or RCR receiving the delivery.

(C) Name of recipient, Registered Buyer, or RCR.

(D) For the unloading port, enter the name of the port or port code (see Tables 14a and 14b to this part) of delivery location.

(4) Trawl gear catcher vessel DFL and catcher/processor DCPL—(i) Responsibility. (A) Except as described in paragraph (f)(1)(iii) of this section, the operator of a catcher vessel 60 ft (18.3 m) or greater LOA, that is required to have an FFP under § 679.4(b), and that is using trawl gear to harvest groundfish must maintain a trawl gear DFL, must complete one or more logsheets per day. Upon notification by the Regional Administrator, a DFL from the previous year may be used.

(B) Except as described in paragraph (f)(1)(iv) of this section, the operator of a catcher/processor that is required to have an FFP under § 679.4(b) and that is using trawl gear to harvest groundfish is required to use a combination of catcher/processor trawl gear DCPL and eLandings to record and report daily processor identification information, catch-by-haul landings information, groundfish production data, and groundfish and prohibited species discard or disposition data.

(ii) Data entry time limits—(A) Catcher vessel. The operator of a catcher vessel using trawl gear must record in the DFL the information in the following table for each haul within the specified time limit:

DATA ENTRY TIME LIMITS, CATCHER VESSEL TRAWL GEAR: Required information | DATA ENTRY TIME LIMITS, CATCHER VESSEL TRAWL GEAR: Time limit for recording
(1) Haul number, time and date gear set, time and date gear hauled, beginning and end positions, CDQ group number (if applicable), and total estimated hail weight for each haul | Within 2 hours after completion of gear retrieval
(2) Discard and disposition information | By noon each day to record the previous day's discard and disposition information
(3) Submit blue DFL to mothership, shoreside processor, SFP, or buying station receiving the catch | Within 2 hours after completion of catch delivery
(4) Record all other required information | Within 2 hours after the vessel's catch is off-loaded, notwithstanding other time limits
(5) Operator sign the completed logsheets | Within 2 hours after completion of catch delivery
(6) Submit the goldenrod logsheet to the observer | After signature of operator and prior to departure of observer from the vessel.

(B) Catcher/processor. The operator of a catcher/processor using trawl gear must record in the DCPL or eLandings the information in the following table for each haul within the specified time limit:

DATA ENTRY TIME LIMITS, CATCHER/PROCESSOR TRAWL GEAR: Required information | DATA ENTRY TIME LIMITS, CATCHER/PROCESSOR TRAWL GEAR: Record In: DCPL | DATA ENTRY TIME LIMITS, CATCHER/PROCESSOR TRAWL GEAR: Record In: eLandings | DATA ENTRY TIME LIMITS, CATCHER/PROCESSOR TRAWL GEAR: Time limit for recording
(1) Haul number, time and date gear set, time and date gear hauled, begin and end positions of gear, CDQ group number (if applicable), and total estimated hail weight for each haul, or if required to use a NMFS approved scale, the scale weight for each haul | X | X | Except for Rockfish Pilot Program, within 2 hours after completion of gear retrieval. For Rockfish Pilot Program, actual scale weight from the flow scale may be recorded within 24 hours after completion of gear retrieval.
(2) Discard and disposition information |  | X | By midnight each day to record the previous day's discard and disposition information
(3) Record product information |  | X | By noon each day to record the previous day's production information
(4) Record all other required information | X | X | By noon of the day following completion of production to record all other required information
(5) Operator sign the completed logsheets | X | X | By noon of the day following the week-ending date of the weekly reporting period
(6) Submit the goldenrod logsheet to the observer | X |  | After signature of operator and prior to departure of observer from the vessel.

(iii) Required information, if inactive. See paragraph (c)(2) of this section.

(iv) Required information, if active—(A) Catcher vessel. (1) A catcher vessel using trawl gear is active when all or part of the trawl net is in the water.

(2) If the catcher vessel identified in paragraph (c)(4)(i)(A) of this section is active, the operator must record for one day per logsheet in the DFL, the information described in paragraphs (c)(4)(v), (vi), (viii), and (x) of this section.

(B) Catcher/processor. (1) A catcher/processor using trawl gear is active when processing groundfish or when all or part of the trawl net is in the water.

(2) If the catcher/processor identified in paragraph (c)(4)(i)(B) of this section is active, the operator must record for one day per logsheet in the DCPL, the information described in paragraphs (c)(4)(v) and (vi) of this section and record in eLandings the information described in paragraphs (c)(4)(v), (vii), and (ix) of this section.

(v) Identification information. If active, the operator must record the following information (see paragraphs (c)(4)(v)(A) through (J) of this section):

(A) Date. Enter date of each day (mm/dd/yyyy). This date is also the date of gear deployment.

(B) Page number. Number the pages in each logbook consecutively, beginning on the first page of the DFL or DCPL with page 1 for January 1 and continuing for the remainder of the fishing year.

(C) Printed name and signature of operator. The operator's name must be printed in the DFL or DCPL. The operator must sign each completed logsheet of the DFL or DCPL as verification of acceptance of the responsibility required in paragraph (a)(2) of this section. The operator's signature is due by noon of the day following the week-ending date of the weekly reporting period.

(D) Vessel identification. Name of vessel as displayed in official documentation; FFP number of the vessel; ADF&G vessel registration number if a catcher vessel; and ADF&G processor code if a catcher/processor.

(E) Federal reporting area. Record the Federal reporting area code where gear retrieval was completed, regardless of where the majority of the set took place. Use a separate logsheet for each reporting area.

(F) COBLZ or RKCSA. If gear retrieval occurred in the COBLZ (see Figure 13 to this part) or RKCSA (see Figure 11 to this part) area within a reporting area, use two separate logsheets, the first to record the information from the reporting area that includes COBLZ or RKCSA, and the second to record the information from the reporting area that does not include COBLZ or RKCSA.

(G) Crew size. If a catcher vessel, record the number of crew members (including operator), excluding certified observer(s), on the last day of a trip. If a catcher/processor, record the number of crew members (including operator), excluding certified observer(s), on the last day of the weekly reporting period.

(H) Gear type. Use a separate logsheet for each gear type. Indicate whether pelagic trawl or non-pelagic trawl gear was used to harvest the fish.

(I) Management program. Indicate whether harvest occurred under one of the management programs (see paragraph (a)(1)(iii) of this section). Use a separate logsheet for each management program. If harvest is not under one of the listed management programs, leave blank.

(J) Observer information. Record the number of observers aboard, the name of the observer(s), and the observer cruise number(s).

(vi) Catch-by-haul information. The operator must record the following information (see paragraphs (c)(4)(vi)(A) through (H) of this section) for each haul (see § 679.2). If no catch occurred for a given day, write “no catch.”

(A) Haul number. Number hauls sequentially by year.

(B) Gear deployment (or to set gear). Record the following information (see paragraphs (c)(4)(vi)(B)(1) and (2) of this section) for trawl gear deployment:

(1) The time (in military format, A.l.t.) when the trawl net enters the water, and

(2) The position (latitude and longitude to the nearest minute; indicate E or W for longitude) where the trawl net enters the water.

(C) Gear retrieval (or to haul gear). Record the following information (see paragraphs (c)(4)(vi)(C)(1) and (2) of this section) for trawl gear retrieval:

(1) The date (mm/dd) and time (in military format, A.l.t.) when retrieval of trawl gear cable begins.

(2) The position (in latitude and longitude to the nearest minute; indicate E or W for longitude) where retrieval of trawl gear cable begins.

(D) Average sea depth and average gear depth. Average sea depth and average gear depth; indicate whether average is reported to the nearest meter or fathom.

(E) Species codes. The operator must record and report the required information for all groundfish (see Table 2a to this part), prohibited species (see Table 2b to this part), and forage fish (see Table 2c to this part). The operator may also record and report the required information for non-groundfish (see Table 2d to this part).

(F) Target species code. Enter the species code of the species to be harvested. Enter only one target species code.

(G) IR/IU species (see § 679.27). If a catcher/processor, enter species code of IR/IU species and estimated total round weight for each IR/IU species, if applicable; indicate whether estimated weight is to the nearest pound or the nearest 0.001 mt. Use one line to record information for each IR/IU species, including species code and amount of catch. If more than one IR/IU species are to be recorded, the operator must use a separate line for each species.

(H) Total estimated hail weight. (1) If a catcher vessel or catcher/processor using trawl gear and not using NMFS-approved scales, the operator must record the hail weight of each haul; total hail weight is an estimate of the total weight of the entire catch without regard to species. Indicate whether estimated weight is to the nearest pound or to the nearest 0.001 mt.

(2) If a catcher/processor using trawl gear is required to use a NMFS-approved scale, the operator must record the scale weight of each haul without regard to species. Indicate whether weight is to the nearest pound or to the nearest 0.001 mt.

(vii) Product information, catcher/processor. The operator of a catcher/processor using trawl gear must record all product information for all retained groundfish in eLandings (see paragraph (e)(10) of this section).

(viii) Discard or disposition information, catcher vessel. The operator must record in a DFL (see paragraphs (c)(4)(viii)(A) through (E) of this section) the discard or disposition that occurred prior to and during delivery to a buying station, mothership, shoreside processor, or SFP. If no discards or disposition occurred on a given day, write “no discards or disposition.”

(A) Species code and product code. Record the species code and product code for all discards and disposition of groundfish and PSC Pacific herring, Pacific salmon, steelhead trout, Pacific halibut, king crabs, and Tanner crabs.

(B) Discard and disposition weight. Record the daily estimated total round weight of groundfish or Pacific herring PSC discards and disposition, balance forward weight from the previous day, and cumulative total weight since last delivery, calculated by adding the daily totals and balance carried forward from the day before; indicate whether estimated weight is to the nearest pound or nearest 0.001 mt.

(C) PSC discard numbers. Record the daily number of PSC discards and disposition, balance forward from the previous day, and cumulative total number since last delivery of PSC animals (Pacific salmon, steelhead trout, Pacific halibut, king crabs, and Tanner crabs).

(D) Discard and disposition cumulative total. Summarize cumulative discard and disposition totals of groundfish and PSC animals separately by reporting area, if harvest occurred in the COBLZ or RKCSA, management program, and gear type.

(E) Discard zero balance forward. After the offload or transfer of all fish or fish product onboard and prior to the beginning of each fishing trip, the operator must record the balance forward from the previous day as “zero” and start a new logsheet. At the beginning of each fishing trip, nothing shall be carried forward from the previous fishing trip.

(ix) Discard or disposition information, catcher/processor. The operator of a catcher/processor using trawl gear must record discard or disposition information in eLandings (see paragraph (e)(10) of this section).

(x) Catcher vessel delivery information. The operator must enter the following delivery information (see paragraphs (c)(4)(x)(A) through (C) of this section) for groundfish delivered to a buying station, mothership, shoreside processor, or SFP:

(A) Date (mm/dd) that delivery of harvest was completed,

(B) ADF&G fish ticket number issued to operator by the recipient receiving the delivery, and

(C) Name and ADF&G processor code of recipient.

(5) Shoreside processor DCPL. The shoreside processor DCPL has been replaced by eLandings and is no longer available. (See paragraph (e) of this section.)

(i) Required information, if inactive. See paragraph (c)(2) of this section.

(ii) Required information, if active. A shoreside processor or SFP is active when receiving or processing groundfish.

(6) Mothership DCPL—(i) Responsibility. Except as described in paragraph (f)(1)(v) of this section, the operator of a mothership that is required to have an FFP under § 679.4(b) and that receives or processes any groundfish from the GOA or BSAI from vessels issued an FFP under § 679.4(b) is required to use a combination of mothership DCPL and eLandings to record and report daily processor identification information, delivery information, groundfish production data, and groundfish and prohibited species discard or disposition data. The operator must enter into the DCPL any information for groundfish received from catcher vessel, groundfish received from processors for reprocessing or rehandling, and groundfish received from an associated buying station documented on a BSR.

(ii) Data entry time limits. The operator of a mothership must record in the DCPL or eLandings the information in the following table for each groundfish delivery within the specified time limit:

DATA ENTRY TIME LIMITS, MOTHERSHIP: Required information | DATA ENTRY TIME LIMITS, MOTHERSHIP: Record In: DCPL | DATA ENTRY TIME LIMITS, MOTHERSHIP: Record In: eLandings | DATA ENTRY TIME LIMITS, MOTHERSHIP: Time limit for recording
(A) All catcher vessel or buying station delivery information | X | X | Within 2 hours after completion of receipt of each groundfish delivery
(B) Product information |  | X | By noon each day to record the previous day's production
(C) Discard or disposition information |  | X | By noon each day to record the previous day's discard/disposition
(D) All other required information | X | X | By noon of the day following completion of production
(E) Operator sign the completed logsheets | X | X | By noon of the day following the week-ending date of the weekly reporting period
(F) Submit the goldenrod logsheet to the observer | X |  | After signed by the operator and prior to departure of observer from the mothership.

(iii) Required information, if inactive. See paragraph (c)(2) of this section.

(iv) Required information, if active. A mothership is active when receiving or processing groundfish. If the mothership identified in paragraph (c)(6)(i) of this section is active, the operator must record for one day per logsheet in the DCPL, the information described in paragraphs (c)(6)(v) and (vi) of this section and record in eLandings the information described in paragraphs (c)(6)(v), (vii), and (viii) of this section.

(v) Identification information. If active, the operator must record the following information (see paragraphs (c)(6)(v)(A) through (J) of this section) in the DCPL:

(A) Page number. Number the pages in each logbook consecutively, beginning with page 1 for January 1 and continuing throughout the logbook for the remainder of the fishing year.

(B) Printed name and signature of operator. The operator's name must be printed in the DCPL. The operator must sign each completed DCPL logsheet as verification of acceptance of the responsibility required in paragraph (a)(2) of this section.

(C) Vessel information. Name of mothership as displayed in official documentation, FFP number, and ADF&G processor code.

(D) Date. Enter date (mm/dd/yyyy) of each operating day.

(E) Crew size. Record the number of crew members (including operator), excluding certified observer(s), on the last day of the weekly reporting period.

(F) Gear type. Indicate the gear type of harvester. If gear type is other than those listed, circle “Other” and describe. Use a separate logsheet for each gear type.

(G) Federal reporting areas. Record Federal reporting area code (see Figures 1 and 3 to this part) where harvest was completed. Use a separate logsheet for each reporting area.

(H) COBLZ or RKCSA. If groundfish was harvested with trawl gear in the COBLZ or RKCSA, use two separate logsheets to record the information: one logsheet for the reporting area that includes COBLZ or RKCSA, and a second logsheet to record the information from the reporting area that does not include COBLZ or RKCSA.

(I) Observer information. Record the number of observers aboard, the name(s) of the observer(s), and the observer cruise number(s).

(J) Management program. Indicate whether harvest occurred under one of the management programs (see paragraph (a)(1)(iii) of this section). Use a separate logsheet for each management program. If harvest is not under one of the listed management programs, leave blank.

(vi) Delivery information. The operator must record delivery information (see paragraphs (c)(6)(vi)(A) through (H) of this section) when unprocessed groundfish deliveries are received by the mothership from a buying station or a catcher vessel. If no deliveries are received for a given day, write “no deliveries.”

(A) Type of delivery. Enter “CV” or “BS” to indicate if delivery was from a catcher vessel or buying station, respectively.

(B) Non-submittal of discard report. Indicate whether the blue logsheet was received from the catcher vessel at the time of catch delivery. If the delivery was from a buying station, leave this column blank. If the blue logsheet is not received from the catcher vessel, enter “NO” and one of the response codes in the following table to describe the reason for non-submittal.

NON-SUBMITTAL OF DISCARD REPORT | CODE
(1) The catcher vessel does not have an FFP | “P”
(2) The catcher vessel is under 60 ft (18.3 m) LOA and does not have an FFP | “P”
(3) The catcher vessel is under 60 ft (18.3 m) LOA and has an FFP | “L”
(4) The catcher vessel delivered an unsorted codend | “U”
(5) Another reason; describe circumstances | “O”

(C) Vessel identification. Name and ADF&G vessel registration number of the catcher vessel or buying station (if applicable) delivering the groundfish.

(D) Receipt time. Record time (in military format, A.l.t.) when receipt of groundfish delivery was completed.

(E) Beginning position of receipt. Record the position coordinates (in latitude and longitude to the nearest minute; indicate E or W for longitude) where receipt of the groundfish delivery began.

(F) Estimated total groundfish hail weight. Enter the estimated total hail weight of the combined species of each delivery from a catcher vessel or buying station. Total estimated hail weight is an estimate of the total weight of the entire catch without regard to species. Indicate whether the estimated weight is to the nearest pound or to the nearest 0.001 mt. If a catcher vessel reported discards on a blue DFL but did not deliver groundfish, enter “0” in this column.

(G) IR/IU species (see § 679.27). Enter the species code of IR/IU species and the estimated total round weight for each IR/IU species, if applicable; indicate whether estimated weight is to the nearest pound or the nearest 0.001 mt. Use one line to record information for each IR/IU species, including species code and amount of catch. If more than one IR/IU species are to be recorded, the operator must use a separate line for each species.

(H) ADF&G fish ticket numbers. If receiving unprocessed groundfish from a catcher vessel, record the ADF&G fish ticket number that the mothership issued to each catcher vessel. If receiving unprocessed groundfish from an associated buying station, record the ADF&G fish ticket numbers issued by the buying station on behalf of the mothership to the catcher vessel.

(vii) Product information. The operator of a mothership must record all groundfish product information in eLandings (see paragraph (e)(10) of this section), including products made from unprocessed groundfish deliveries received from a buying station or a catcher vessel; groundfish received from another processor or other source; and groundfish received for custom processing (see paragraph (a)(7) of this section) by the mothership for another processor or business entity.

(viii) Discard or disposition information. The operator of a mothership must record discard and disposition information in eLandings (see paragraph (e)(10) of this section). The discard or disposition information must include:

(A) Discards and disposition that occurred onboard after receipt of groundfish from a catcher vessel or buying station;

(B) Discards and disposition that occurred prior to, during, and after processing of groundfish;

(C) Discards and disposition that were reported on a blue DFL received from a catcher vessel delivering groundfish;

(D) Discards and disposition that are recorded on a blue DFL received from a catcher vessel even though no groundfish are delivered; and

(E) Discards and disposition reported on a BSR received from a buying station delivering groundfish, if different from the blue DFL logsheets submitted by catcher vessels to the buying station.

(d) Buying Station Report (BSR)—(1) Responsibility—(i) Separate BSR. In addition to the information required at paragraphs (a)(5) and (6) of this section, the operator or manager of a buying station that receives or delivers groundfish harvested from the GOA or BSAI in association with a shoreside processor or SFP as defined in paragraph (c)(5) of this section or a mothership as defined in paragraph (c)(6) of this section, must complete and retain a separate BSR for each delivery of unprocessed groundfish or donated prohibited species received from a catcher vessel on behalf of an associated processor.

(ii) BSR attachments. The operator or manager must ensure that the following (see paragraphs (d)(1)(ii)(A) through (C) of this section) accompanies each groundfish delivery from the landing site to the associated processor:

(A) A complete and accurate BSR that describes the delivery;

(B) Any blue DFL logsheets or equivalent printed ELB discard reports received from a catcher vessel; and

(C) Copies of all ADF&G fish tickets issued to the catcher vessel on behalf of the associated processor.

(iii) The operator of a catcher vessel, by prior arrangement with an associated processor, may function as a buying station for his own catch as follows:

(A) By shipping his groundfish catch with a copy of the BSR directly to that processor via truck or airline in the event that the processor is not located where the harvest is offloaded; or

(B) By driving a truck that contains his catch and a copy of the BSR to the processor.

(2) Data entry time limits. The operator or manager of a buying station must record in the BSR all required information and sign the BSR within 2 hours of completion of delivery from a catcher vessel.

(3) Required information, if inactive. The operator or manager of a buying station is not required to record information if inactive.

(4) Required information, if active. A buying station is active when receiving, discarding, or delivering groundfish for an associated processor. The operator or manager of a buying station must record the following information (see paragraphs (d)(4)(i) through (x) of this section) on a BSR for each delivery:

(i) Original/revised report. If a BSR is the first submitted to the Regional Administrator for a given date, gear type, and reporting area, indicate “ORIGINAL REPORT.” If a report is a correction to a previously submitted BSR for a given date, gear type, and reporting area, indicate “REVISED REPORT.”

(ii) Identification of buying station. Enter name and ADF&G vessel registration number if a vessel; or name, license number, and state of license issuance if a vehicle. The name should be recorded as it is displayed in official documentation.

(iii) Operator or manager name and signature. The operator or manager must sign the completed BSR prior to delivery of harvest to a mothership, shoreside processor, or SFP. This signature is verification by the operator or manager of acceptance of the responsibility required in paragraphs (d)(1) and (2) of this section.

(iv) Management program. Indicate whether harvest occurred under a management program (see paragraph (a)(1)(iii) of this section). If harvest is not under one of the listed management programs, leave blank.

(v) Gear type. Indicate gear type of harvester.

(vi) Federal reporting area. Indicate Federal reporting area (see Figures 1 and 3 to this part) from which groundfish were harvested.

(vii) Crab protection areas. If harvester gear type was trawl and gear retrieval occurred in the COBLZ or RKCSA (see Figures 11 and 13 to this part), use two separate BSRs to record the information: one BSR for the reporting area that includes COBLZ or RKCSA, and a second BSR to record the information from the reporting area that does not include COBLZ or RKCSA.

(viii) Associated processor. Enter the name, ADF&G processor code, FFP number or FPP number of the associated processor, date (mm/dd/yyyy) and time (A.l.t., military format) delivery was completed.

(ix) Catcher vessel delivery information—(A) Catcher vessel identification. Name and ADF&G vessel registration number of catcher vessel making the delivery.

(B) Non-submittal of discard report. Indicate whether the blue logsheet was received from the catcher vessel at the time of catch delivery. If the blue logsheet is not received from the catcher vessel, enter “NO” and one of the following response codes to describe the reason for non-submittal.

NON-SUBMITTAL OF DISCARD REPORT | CODE
(1) The catcher vessel does not have an FFP | “P”
(2) The catcher vessel is under 60 ft (18.3 m) LOA and does not have an FFP | “P”
(3) The catcher vessel is under 60 ft (18.3 m) LOA and has an FFP | “L”
(4) The catcher vessel delivered an unsorted codend | “U”
(5) Another reason; describe circumstances | “O”

(C) ADF&G fish ticket number. Enter ADF&G fish ticket number issued to catcher vessel.

(D) Species codes and scale weight. In addition to recording the estimated total delivery weight or actual scale weight of a catcher vessel delivery, if the operator or manager of the buying station sorted the delivery prior to delivery to an associated processor, he or she may enter specific species code and scale weights of individual species to the BSR; indicate whether to the nearest pound or to the nearest 0.001 mt.

(E) Estimated total groundfish hail weight. Enter the estimated total groundfish hail weight or actual scale weight of delivery. Estimated total hail weight is an estimate of the total weight of the entire catch without regard to species. Indicate whether to the nearest pound or to the nearest 0.001 mt.

(x) Discard and disposition information—(A) Discard. The operator or manager of a buying station must record in a BSR, discard or disposition information that:

(1) Occurred on and was reported by a catcher vessel on a blue logsheet;

(2) Occurred on the buying station prior to delivery to an associated processor; and

(3) Was recorded on a blue logsheet submitted to the buying station by a catcher vessel when no groundfish were delivered by the catcher vessel (for example, disposition code 95 describes fish or fish products eaten onboard or taken off the vessel for personal use).

(B) No discards. If no discards or disposition for a delivery, write “no discards.”

(C) Discard or disposition weight. Total discard or disposition weight of groundfish and herring PSC by species code and product code (indicate whether to nearest pound or to the nearest 0.001 mt).

(D) PSC discard or disposition numbers. Total PSC discard or disposition number of animals by species code and product code.

(e) Interagency Electronic Reporting System (IERS) and eLandings—(1) Responsibility—(i) Hardware, software, and Internet connectivity. A User must obtain at his or her own expense hardware, software, and Internet connectivity to support Internet submissions of commercial fishery landings for which participants report to NMFS: landings data, production data, and discard or disposition data. The User must enter this information via the Internet by logging on to the eLandings system at http://elandings.alaska.gov or other NMFS-approved software or by using the desktop client software.

(ii) Reporting of non-IFQ groundfish. If the User is unable to submit commercial fishery landings of non-IFQ groundfish due to hardware, software, or Internet failure for a period longer than the required reporting time, contact NMFS Inseason Management at 907-586-7228 for instructions. When the hardware, software, or Internet is restored, the User must enter this same information into eLandings or other NMFS-approved software.

(iii) Reporting of IFQ crab, IFQ halibut, and IFQ sablefish. If the User is unable to submit commercial fishery landings of IFQ crab, IFQ halibut, CDQ halibut, or IFQ sablefish due to hardware, software, or Internet failure for a period longer than the required reporting time, or a change must be made to information already submitted, the User must complete an IFQ manual landing report. Manual landing instructions must be obtained from OLE, Juneau, AK, at 800-304-4846 (Select Option 1).

(A) The User must complete all questions on the manual report, even if only one item has changed. The following additional information is required: whether the report is original or revised, name, telephone number, and fax number of individual submitting the manual landing report.

(B) The User must fax the IFQ manual landing report to 907-586-7313.

(C) The User must retain the paper copies of IFQ manual landing reports as indicated at paragraph (a)(5) of this section and make them available upon request of NMFS observers and authorized officers as indicated at paragraph (a)(6) of this section.

(2) eLandings processor registration. (i) Before a User can use the eLandings system to report landings, production, discard or disposition data, he or she must request authorization to use the system, reserve a unique UserID, and obtain a password by using the Internet to complete the eLandings processor registration at https://elandings.alaska.gov/elandings/Register.

(ii) Upon registration acceptance, the User must print, sign, and mail the User Agreement Form to NMFS/RAM eLandings Registration, P.O. Box 21668, Juneau, AK 99802-1668; or fax a signed form to 907-586-7354, Attn: eLandings Registration; or deliver the signed form by courier to NMFS/RAM eLandings Registration, 709 West Ninth Street, Suite 713, Juneau, AK 99801. Confirmation will be e-mailed to indicate that the User is registered, authorized to use eLandings, and that the UserID and User's account are enabled.

(iii) The User's signature on the registration form means that the User agrees to the following terms (see paragraphs (e)(2)(iii)(A) through (C) of this section):

(A) To use eLandings access privileges only for submitting legitimate fishery landing reports;

(B) To safeguard the UserID and password to prevent their use by unauthorized persons; and

(C) To ensure that the User is authorized to submit landing reports for the processor permit number(s) listed.

(3) Information required for eLandings processor registration form. The User must enter the following information (see paragraphs (e)(3)(i) through (ix) of this section) to obtain operation registration and UserID registration:

(i) Operation type. Select the operation type from the dropdown list according to the following table:

For this Federal category: | Enter one of these eLandings operation types:
(A) Shoreside processor or SFP | (1) Plant/receiver
| (2) Custom processing
(B) Mothership | At-sea
(C) Catcher/processor | At-sea
(D) Buying station | (1) Tender
| (2) Buying station

(ii) Operation name. Enter a name that will refer to the specific operation. For example, if the plant is in Kodiak and the company is East Pacific Seafoods, the operation name might read “East Pacific Seafoods-Kodiak.”

(iii) ADF&G processor code. Enter ADF&G processor code.

(iv) Federal permit number. Enter all the federal permits associated with the operation.

(A) Groundfish shoreside processor or SFP. If a groundfish shoreside processor or SFP, enter the FPP number.

(B) Groundfish catcher/processor or mothership. If a groundfish catcher/processor or mothership, enter the FFP number.

(C) Registered Buyer. If a Registered Buyer, enter the Registered Buyer permit number.

(D) Registered Crab Receiver. If a Registered Crab Receiver, enter the Registered Crab Receiver permit number.

(v) Port code. Enter the home port code (see Tables 14a, 14b, and 14c to this part) for the operation.

(vi) ADF&G vessel registration number. If a mothership, catcher/processor, or tender operation, the operator must enter the ADF&G vessel identification number of the vessel.

(vii) Vehicle license number. If a buying station operation that is a vehicle, enter vehicle license number and the state of license issuance.

(viii) Physical operation. If a buying station or custom processor, enter the following information to identify the associated processor where the processing will take place: operation type, ADF&G processor code, and applicable FFP number, FPP number, Registered Buyer permit number, and Registered Crab Receiver permit number.

(ix) UserID registration for primary User. Each operation requires a primary User. Enter the following information for the primary User for the new operation: create and enter a UserID, initial password, company name, User name (name of the person who will use the UserID), city and state where the operation is located, business telephone number, business fax number, business e-mail address, security question, and security answer.

(4) Information entered automatically for eLandings landing report. eLandings autofills the following fields from processor registration records (see paragraph (e)(2) of this section): UserID, processor company name, business telephone number, e-mail address, port of landing, ADF&G processor code, and Federal permit number. The User must review the autofilled cells to ensure that they are accurate for the landing that is taking place. eLandings assigns a unique landing report number and an ADF&G electronic fish ticket number upon completion of data entry.

(5) Shoreside processor or SFP landings report. The manager of a shoreside processor or SFP that receives groundfish from a catcher vessel issued an FFP under § 679.4 and that is required to have an FPP under § 679.4(f) must use eLandings or other NMFS-approved software to submit a daily landings report during the fishing year to report processor identification information and the following information under paragraphs (e)(5)(i) through (iii) of this section:

(i) Information entered for each groundfish delivery to a shoreside processor and SFP. The User for a shoreside processor or SFP must enter the following information (see paragraphs (e)(5)(i)(A) through (C) of this section) for each groundfish delivery (other than IFQ sablefish) provided by the operator of a catcher vessel, the operator or manager of an associated buying station, and from processors for reprocessing or rehandling product into eLandings or other NMFS-approved software:

(A) Delivery information. (1) Number of observers onboard.

(2) For crew size, enter the number of licensed crew aboard the vessel, including the operator.

(3) Management program name and identifying number, if any, in which harvest occurred (see paragraph (a)(1)(iii) of this section).

(4) ADF&G groundfish statistical area of harvest.

(5) For date of landing, enter date (mm/dd/yyyy) that the delivery was completed.

(6) Indicate (YES or NO) whether delivery is from a buying station.

(7) If the delivery is received from a buying station other than a tender, indicate the name of the buying station. If the delivery is received from a buying station that is a tender, enter the ADF&G vessel registration number.

(8) If delivery is received from a catcher vessel, indicate the ADF&G vessel registration number of the vessel.

(9) Indicate whether the blue logsheet was received from the catcher vessel at the time of catch delivery. If the blue logsheet is not received from the catcher vessel, enter “NO” and select the applicable code from the following table to explain the reason provided by the catcher vessel for not supplying this copy:

NON-SUBMITTAL OF DISCARD REPORT | CODE
(i) The catcher vessel does not have an FFP | “P”
(ii) The catcher vessel is under 60 ft (18.3 m) LOA and does not have an FFP | “P”
(iii) The catcher vessel is under 60 ft (18.3 m) LOA and has an FFP | “L”
(iv) The catcher vessel delivered an unsorted codend | “U”
(v) Another reason; describe circumstances | “O”

(10) Gear type of harvester.

(11) Total estimated hail weight (to the nearest pound).

(12) ADF&G fish ticket number provided to catcher vessel (eLandings assigns an ADF&G fish ticket number to the landing report).

(B) Landings information. The User for a shoreside processor or SFP must record the following landings information (see paragraphs (e)(5)(i)(B)(1) and (2) of this section) for all retained species from groundfish deliveries:

(1) Date of landing (mm/dd/yyyy).

(2) Landed scale weight (to the nearest pound) by species code and delivery condition code. Obtain actual weights for each groundfish species received and retained by:

(i) Sorting according to species codes and direct weighing of that species, or

(ii) Weighing the entire delivery and then sorting and weighing the groundfish species individually to determine their weights.

(C) Discard or disposition information. The User must record:

(1) Discard or disposition of fish: that occurred on and was reported by a catcher vessel; that occurred on and was reported by a buying station; and that occurred prior to, during, and/or after production of groundfish at the shoreside processor or SFP. Discards and dispositions also must be recorded when no groundfish are delivered but the blue DFL is submitted by a catcher vessel containing records of discards or disposition.

(2) If groundfish or PSC herring, enter species code, delivery condition code, disposition code, and weight (to the nearest pound), and

(3) If PSC halibut, salmon, or crab, enter species code, delivery condition code, disposition code, and count (in numbers of animals).

(ii) Submittal time limit. The User for a shoreside processor or SFP must enter information described at paragraph (e)(5)(i) of this section into eLandings or other NMFS-approved software for each groundfish delivery from a specific vessel by noon of the day following completion of the delivery.

(iii) Compliance. By using eLandings, the User for the shoreside processor or SFP and the catcher vessel operator or buying station operator or manager providing information to the User for the shoreside processor or SFP accept the responsibility of and acknowledge compliance with § 679.7(a)(10).

(6) Mothership landings report. The operator of a mothership that is issued an FFP under § 679.4(b) and that receives groundfish from catcher vessels required to have an FFP under § 679.4 is required to use eLandings or other NMFS-approved software to submit a daily landings report during the fishing year to report processor identification information and the following information under paragraphs (e)(6)(i) through (iii) of this section):

(i) Information entered for each groundfish delivery to a mothership. The User for a mothership must enter the following information (see paragraphs (e)(6)(i)(A)(1) through (11) of this section) provided by the operator of a catcher vessel, operator or manager of an associated buying station, or information received from processors for reprocessing or rehandling product.

(A) Delivery information. (1) Number of observers onboard.

(2) Crew size (including operator).

(3) Management program name and identifying number, if any, in which harvest occurred (see paragraph (a)(1)(iii) of this section).

(4) ADF&G groundfish statistical area of harvest.

(5) Date (mm/dd/yyyy) that delivery was completed.

(6) If the delivery is received from a tender, enter the ADF&G vessel registration number of the tender.

(7) If delivery received from a catcher vessel, enter the ADF&G vessel registration number of the vessel.

(8) Indicate whether the blue logsheet was received from the catcher vessel at the time of catch delivery. If the blue logsheet was not received from the catcher vessel, enter “NO” and select a code from the following table to explain the reason provided by the catcher vessel for not supplying this copy.

NON-SUBMITTAL OF DISCARD REPORT | CODE
(i) The catcher vessel does not have an FFP | “P”
(ii) The catcher vessel is under 60 ft (18.3 m) LOA and does not have an FFP | “P”
(iii) The catcher vessel is under 60 ft (18.3 m) LOA and has an FFP | “L”
(iv) The catcher vessel delivered an unsorted codend | “U”
(v) Another reason; describe circumstances | “O”

(9) Gear type of harvester.

(10) Total estimated round weight by species (pounds).

(11) ADF&G fish ticket number provided to catcher vessel (eLandings assigns an ADF&G fish ticket number to the landing report).

(B) Discard or disposition information. (1) The User must record discard or disposition information that occurred on and was reported by a catcher vessel; that occurred on and was reported by a buying station; and that occurred prior to, during, and after production of groundfish at the mothership. Discards and dispositions also must be recorded when no groundfish are delivered but the blue DFL is submitted by a catcher vessel containing records of discards or disposition.

(2) If groundfish or PSC herring, enter species code, delivery condition code, disposition code, and weight (to the nearest pound), and

(3) If PSC halibut, salmon, or crab, enter species code, delivery condition code, disposition code, and count (in numbers of animals).

(ii) Submittal time limit. The User for a mothership must enter information described at paragraph (e)(6)(i) of this section into eLandings or other NMFS-approved software for each groundfish delivery from a specific vessel by noon of the day following the delivery day.

(iii) Compliance. By using eLandings, the User for the mothership and the catcher vessel operator or buying station operator providing information to the User for the mothership accept the responsibility of and acknowledge compliance with § 679.7(a)(10).

(7) Registered Buyer landings report. A person who is issued a Registered Buyer permit under § 679.4(d)(3) and who receives IFQ halibut or IFQ sablefish from an IFQ permit holder or who receives CDQ halibut from a CDQ permit holder at any time during the fishing year is required to use eLandings or other NMFS-approved software to submit landings reports with the following information from paragraphs (e)(7)(i) and (ii) of this section):

(i) Information entered for each IFQ halibut, CDQ halibut, and IFQ sablefish delivery. The User for a Registered Buyer must enter the following information (see paragraphs (e)(7)(i)(A) through (E) of this section) for each IFQ halibut, CDQ halibut, and IFQ sablefish delivery into eLandings or other NMFS-approved software:

(A) User identification. UserID and password of person assigned for that system.

(B) Landing date. Date (mm/dd/yyyy) of the landing.

(C) Landing location. Location (port code) of the landing (See Tables 14a, 14b, and 14c to this part).

(D) Permit numbers. Permit number of the IFQ permit holder, and any IFQ hired master permit holder, or CDQ hired master permit holder harvesting the fish and permit number of Registered Buyer receiving the IFQ halibut, IFQ sablefish, or CDQ halibut.

(E) Delivery information. As reported by the IFQ permit holder, IFQ hired master permit holder, or CDQ hired master permit holder including the information in paragraphs (e)(7)(i)(E)(1) through (9) of this section):

(1) Harvesting vessel's ADF&G vessel registration number.

(2) Gear code of gear used to harvest IFQ halibut, IFQ sablefish, or CDQ halibut.

(3) ADF&G fish ticket number(s) for the landing (after the initial eLandings report is submitted, eLandings assigns an ADF&G fish ticket number to the landing report).

(4) ADF&G statistical area of harvest.

(5) If ADF&G statistical area is bisected by a line dividing two IFQ regulatory areas, provide the IFQ regulatory area of harvest.

(6) Except as provided in paragraph (e)(7)(i)(E)(7) of this section, initial accurate scale weight(s) (to the nearest pound) made at the time of offloading for IFQ halibut, IFQ sablefish, or CDQ halibut sold and retained (where retained includes fish intended for personal use, fish weighed and reloaded for delivery to another processor, and fish landed but rejected at the dock by the Registered Buyer); species codes; delivery condition code; and disposition code for each ADF&G statistical area of harvest.

(7) Accurate weight of IFQ sablefish processed product obtained before the offload may be substituted for the initial accurate scale weight provided in paragraph (e)(7)(i)(E)(6) of this section, at time of offload, if the vessel operator is a Registered Buyer reporting an IFQ sablefish landing.

(8) Indicate whether initial accurate scale weight is given with or without ice and slime. Fish which have been washed prior to weighing or which have been offloaded from refrigerated salt water are not eligible for a 2-percent deduction for ice and slime and must be reported as fish weights without ice and slime. The 2-percent deduction is made by NMFS, not the submitter.

(9) Indicate whether IFQ halibut is incidental catch concurrent with legal landing of salmon or concurrent with legal landing of lingcod harvested using dinglebar gear.

(ii) Signatures for IFQ halibut, CDQ halibut, or IFQ sablefish deliveries. (A) The User for the Registered Buyer must print the completed groundfish landing report (ADF&G electronic groundfish ticket) and the groundfish IFQ landing receipt. The User must review the autofilled data entry cells to ensure that they are accurate for the landing that is taking place.

(B) The User for the Registered Buyer, plus the IFQ permit holder or the IFQ hired master permit holder or CDQ hired master permit holder, must acknowledge the accuracy of the printed IFQ halibut, CDQ halibut, or IFQ sablefish landing receipt, and if necessary, IFQ manual landing report, by entering printed name, signature, and date.

(iii) Time limits—(A) Landing hours. A landing of IFQ halibut, CDQ halibut, or IFQ sablefish may commence only between 0600 hours, A.l.t., and 1800 hours, A.l.t., unless permission to land at a different time is granted in advance by a clearing officer.

(B) Landing receipt signatures. The User for the Registered Buyer and the IFQ permit holder, IFQ hired master permit holder, or CDQ hired master permit holder must sign the groundfish IFQ landing receipt within six hours after all IFQ halibut, CDQ halibut, and IFQ sablefish are offloaded from a harvesting vessel and prior to shipment or transfer of the fish from the landing site.

(C) Landing completion. The User for the Registered Buyer must submit a completed IFQ landing report, as described in this paragraph (e)(7), within six hours after all IFQ halibut, CDQ halibut, and IFQ sablefish are offloaded from a specific vessel and prior to shipment or transfer of said fish from the landing site.

(iv) IFQ manual landing report. See paragraph (e)(1)(iii) of this section.

(8) Registered Crab Receiver (RCR) IFQ crab landings report. (i) A person who is issued an RCR permit under § 680.4(i) of this chapter and who receives IFQ crab from a crab IFQ permit holder or crab IFQ hired master is required to use eLandings to submit a landings report to report every landing of IFQ crab and incidental groundfish.

(ii) An RCR using a catcher/processor is required to submit a crab landings report using eLandings in a format approved by NMFS. NMFS will provide format specifications upon request. Interested parties may contact NMFS Alaska Region, Sustainable Fisheries Division, Catch Accounting/Data Quality, P.O. Box 21668, Juneau, AK 99802-1668, telephone 907-586-7228.

(iii) Information entered for each IFQ crab delivery. The User for the RCR must enter the following information (see paragraphs (e)(8)(iii)(A) through (C) of this section) into eLandings or other NMFS-approved software for each IFQ crab delivery:

(A) Permit numbers. RCR permit number, IFQ permit number, and IPQ permit number, as appropriate.

(B) Operation type. (1) If a shoreside processor or SFP, enter type of processing operation and port code from Table 14a or 14b to this part.

(2) If a catcher/processor, enter operation type from Table 14c to this part.

(C) Delivery information. As reported by IFQ permit holder.

(1) ADF&G vessel registration number of the delivering vessel.

(2) Date (mm/dd/yyyy) fishing began.

(3) Date (mm/dd/yyyy) of the IFQ crab landing.

(4) ADF&G fish ticket number (automatically supplied).

(5) ADF&G statistical area of harvest (All ADF&G statistical areas are translated to the NMFS reporting area and the IPHC reporting area by eLandings.).

(6) Species code of catch from Table 2 to part 680.

(7) Delivery-condition codes of catch from Table 3a to this part.

(8) Number of crab retained and sold condition code, product type, size/grade, and sold pounds; and optionally, price per pound.

(9) Scale weight of deadloss (to the nearest pound) and scale weight of crab retained for personal use (to the nearest pound). Deadloss and personal use crab that an IPQ holder did not purchase are not debited from the IPQ holder's account.

(iv) Information entered for IFQ crab custom processing landings. In addition to the information required in paragraph (e)(8)(iii) of this section, if custom processing IFQ crab, the User for the RCR must enter the ADF&G processor code of the person for which the IFQ crab was custom processed.

(v) Signatures for IFQ crab deliveries. (A) The User for the RCR must print the completed crab landing report (ADF&G electronic crab ticket) and the crab IFQ landing receipt. The User must review the autofilled data entry cells to ensure that they are accurate for the landing that is taking place.

(B) The User for the Registered Crab Receiver (RCR), plus the IFQ permit holder or IFQ hired master permit holder, must acknowledge the accuracy of the printed IFQ crab landing receipt, and, if necessary, IFQ manual landing report, by entering printed name, signature, and date.

(vi) Time limits. (A) Except as indicated in paragraph (e)(8)(vi)(B) of this section, the User for the RCR is required to submit a crab landing report described at this paragraph (e)(8) to NMFS within six hours after all crab is offloaded from the vessel.

(B) For IFQ crab harvested on a catcher/processor, the User for the RCR is required to submit an IFQ crab landing report to NMFS by Tuesday noon after the end of each weekly reporting period in which IFQ crab was harvested.

(C) The User for the RCR and the IFQ permit holder or IFQ hired master permit holder must enter printed name and sign the crab IFQ landing receipt within six hours after all crab is offloaded from the harvesting vessel.

(vii) Landing document retention. The User must retain each landing report and landing receipt per paragraph (a)(5) of this section.

(viii) IFQ manual landing report for crab. See paragraph (e)(1)(iii) of this section.

(9) Shoreside processor or SFP information entered for production report. The manager of a shoreside processor or SFP that is required to have an FPP under § 679.4(f) must use eLandings or other NMFS-approved software during the fishing year to submit a production report to report daily processor identification information and all groundfish production data. The User must retain a copy of each production report per paragraphs (a)(5) and (6) of this section.

(i) Contents. eLandings autofills the following fields when creating a production report for a shoreside processor or SFP: FPP number, company name, ADF&G processor code, User name, email address, and telephone number. The User must review the autofilled cells to ensure that they are accurate for the current report. In addition, the User for the shoreside processor or SFP must enter the following information (see paragraphs (e)(9)(i)(A) through (F) of this section):

(A) Date. Reporting date (mm/dd/yyyy).

(B) Observers. Number of observers onsite.

(C) Area of harvest. Whether harvested in GOA or BSAI.

(D) Product description. Species code, product type, and product code of product.

(E) Product weight. Enter actual scale weight of product to the nearest pound.

(F) No production/no deliveries (inactive). If there was no production or deliveries for the day, mark the “No Production” and/or “No Deliveries” boxes.

(ii) Submittal time limits. When active pursuant to paragraph (c)(5)(ii) of this section, the User for a shoreside processor or SFP must submit a production report by noon each day to record the previous day's production information. If a shoreside processor or SFP using eLandings is not taking deliveries over a weekend, the User or manager may transmit the eLandings production report to NMFS on the following Monday.

(10) Catcher/processor or mothership information entered for production report—(i) Catcher/processor. The operator of a catcher/processor that is issued an FFP under § 679.4 and that harvests groundfish is required to use eLandings or other NMFS-approved software to submit a production report to record and report daily processor identification information, groundfish production data, and groundfish and prohibited species discard or disposition data.

(ii) Mothership. The operator of a mothership that is issued an FFP under § 679.4 and that receives groundfish is required to use eLandings or other NMFS-approved software to submit a production report to record and report daily processor identification information, groundfish production data, and groundfish and prohibited species discard or disposition data.

(iii) Contents. eLandings autofills the following fields when creating a production report for a catcher/processor or mothership: FFP number, company name, ADF&G processor code, User name, email address, and telephone number. The User must review the autofilled cells to ensure that they are accurate for the current report. In addition, the User for the catcher/processor or mothership must enter the information in paragraphs (e)(10)(iii)(A) through (N) of this section):

(A) Date. Reporting date (mm/dd/yyyy).

(B) Designation. From Table 14c to this part, enter whether the processor is a catcher/processor = FCP or a mothership = FLD.

(C) Crew size. Including operator.

(D) Management program. Enter management program and identifying number, if any, in which harvest occurred (see paragraph (a)(1)(iii) of this section).

(E) Gear type of harvester. Enter the gear type used by the harvester.

(F) Federal Reporting Area of harvest. Enter the Federal Reporting Area where harvest was made.

(G) COBLZ or RKCSA. Indicate whether fishing occurred in COBLZ or RKCSA (if applicable).

(H) Product description. Species code, product type, and product code of product.

(I) Product weight. Enter product weight in metric tons to the nearest 0.001 mt.

(J) No production (inactive). If there was no production for the day, mark the “No Production” box.

(K) Discard description. The operator must record the discard or disposition that occurred prior to, during, and after production of groundfish by species code and disposition code of discards and disposition.

(L) Discard weight. Daily weight of groundfish and the daily weight of herring PSC to the nearest 0.001 mt.

(M) PSC numbers. Daily number of PSC animals (Pacific salmon, steelhead trout, Pacific halibut, king crabs, and Tanner crabs) by species codes and product codes.

(N) ADF&G statistical area. Must be reported beginning January 1, 2009.

(iv) Submittal time limits. When a mothership is active pursuant to paragraph (c)(6)(iv) of this section, a catcher/processor longline or pot gear is active pursuant to paragraph (c)(3)(iv)(B) of this section, or a catcher/processor trawl gear is active pursuant to paragraph (c)(4)(iv)(B) of this section, the User for a mothership or catcher/processor must submit a production report by noon each day to record the previous day's production information. If a vessel is required to have 100 percent observer coverage or more, the User may transmit a production report for Friday, Saturday, and Sunday no later than noon on the following Monday.

(11) Printing of landing reports, landing receipts, and production reports. (i) The User daily must retain a printed paper copy onsite or onboard of:

(A) Each landing report (ADF&G electronic groundfish tickets or electronic crab tickets).

(B) Each production report.

(C) If IFQ halibut, IFQ sablefish, or CDQ halibut, each groundfish IFQ landing receipt.

(D) If IFQ crab, each crab IFQ landing receipt.

(ii) In addition to paragraph (e)(11)(i) of this section, the mothership operator or User must print an additional copy of each landing report and provide it to the operator of the catcher vessel delivering groundfish to the mothership by 1200 hours, A.l.t., on Tuesday following the end of applicable weekly reporting period.

(12) Retention and inspection of landing reports, landing receipts, and production reports. The User must retain a printed copy of each IFQ landing report (ADF&G electronic groundfish ticket or electronic crab ticket), crab IFQ landing receipt, groundfish IFQ landing receipt, and production report as indicated at paragraphs (a)(5) and (6) of this section. The User must make available the printed copies upon request of NMFS observers and authorized officers as indicated at paragraph (a)(5) of this section.

(f) Electronic logbooks (ELBs). The operator may use a combination of a NMFS-approved ELB (instead of a DFL or DCPL) and eLandings to record and report groundfish information. To satisfy ELB use requirements, the operator after data entry must routinely create the following three products: an ELB logsheet, an ELB discard report, and an ELB data export.

(1) Responsibility. The operator must notify the Regional Administrator by fax at 907-586-7465 to ensure that NMFS knows that the operator is using a NMFS-approved ELB instead of a DFL or DCPL, prior to participating in any Federal fishery.

(i) Catcher vessel longline and pot gear ELB. The operator of a catcher vessel using longline and pot gear may use a NMFS-approved catcher vessel longline or pot gear ELB in lieu of using the NMFS-prescribed catcher vessel longline or pot gear DFL required at paragraph (c)(3) of this section.

(ii) Catcher/processor longline and pot gear ELB. The operator of a catcher/processor using longline or pot gear may use a combination of a NMFS-approved catcher/processor longline or pot gear ELB and eLandings to record and report groundfish information. The operator may use a NMFS-approved catcher/processor longline and pot gear ELB to record daily processor identification information and catch-by-set information. In eLandings, the operator must record daily processor identification, groundfish production data, and groundfish and prohibited species discard or disposition data.

(iii) Catcher vessel trawl gear ELB. The operator of a catcher vessel using trawl gear may use a NMFS-approved catcher vessel trawl gear ELB in lieu of using the NMFS-prescribed catcher vessel trawl gear DFL required at paragraph (c)(4) of this section.

(iv) Catcher/processor trawl gear ELB. The operator of a catcher/processor using trawl gear may use a combination of a NMFS-approved catcher/processor trawl gear ELB and eLandings to record and report groundfish information. In the ELB, the operator would record daily processor identification information and catch-by-haul information. In eLandings, the operator must record daily processor identification, groundfish production data, and groundfish and prohibited species discard or disposition data.

(v) Mothership ELB. The operator of a mothership may use a combination of a NMFS-approved mothership ELB and eLandings to record and report groundfish information. The operator may use a NMFS-approved mothership ELB to record daily processor identification information and catcher vessel and buying station groundfish delivery information. In eLandings, the operator must record daily processor identification, groundfish production data, and groundfish and prohibited species discard or disposition data.

(vi) If using a NMFS-approved ELB, the operator is not required to quarterly submit logsheets to OLE.

(2) Requirements for using an ELB—(i) Use a NMFS-approved ELB. The operator must use only a NMFS-approved ELB. The Regional Administrator maintains a list of approved ELBs on the Alaska Region NMFS website at http://alaskafisheries.noaa.gov (see also § 679.28(h) for approval of vendor software).

(ii) Keep a current copy of DFL or DCPL onboard. To ensure proper recording of the vessel's fishing activity in the event of problems with the ELB, the operator must keep a current copy of the appropriate DFL or DCPL onboard. In the event that electronic transmission is not made or confirmed for the ELB, the operator must enter information into the paper DFL or DCPL in accordance with the regulations at paragraphs (c)(1) through (c)(4) of this section. The operator must transfer any information recorded in a DFL or DCPL to the ELB when transmission resumes function.

(iii) Enter all required information into the ELB—(A) Inactive. The operator must enter all required information, if inactive (see paragraph (c)(2) of this section).

(B) Active. The operator must enter all required information, if active (see paragraph (c)(3), (c)(4), or (c)(6) of this section, as appropriate).

(1) Record the haul number or set number, time and date gear set, time and date gear hauled, begin and end position, CDQ group number (if applicable), and hail weight for each haul or set within 2 hours after completion of gear retrieval.

(2) Daily complete ELB data entry and printing of copies as indicated in paragraph (f)(3)(i) of this section.

(iv) Regularly backup ELB data. The operator must regularly backup ELB data to ensure that data are not lost in the event of hardware or software problems.

(v) Correct errors in ELB data. If after an ELB discard report and ELB logsheet are printed, an error is found in the data, the operator must make any necessary changes to the data, print a new copy of the ELB discard report and ELB logsheet, and export the revised file to NMFS. The operator must retain both the original and revised ELB reports.

(3) Printed copies. Upon completion of ELB data entry each day, the operator must print the following information (see paragraphs (f)(3)(i) and (ii) of this section) in the NMFS-specified format:

(i) ELB logsheet. (A) Print a copy of an ELB logsheet when a vessel is active, by noon each day to record the previous day's ELB information.

(B) Print one ELB logsheet to describe a continuous period of inactivity, when a vessel is inactive.

(C) Print a copy of the ELB logsheet for the observer's use if an observer is present, by noon each day to record the previous day's ELB information.

(ii) ELB discard report. (A) Print a copy of an ELB discard report upon completion of each fishing trip or each offload of fish.

(B) If an observer is present, print a copy of the ELB discard report for the observer's use upon completion of each fishing trip or each offload of fish.

(4) Signatures—(i) ELB logsheet. The operator daily must sign and date each printed ELB logsheet by noon each day to record the previous day's ELB information. The signature of the operator is verification of acceptance of the responsibility required in paragraph (a)(2) of this section.

(ii) ELB discard report. The operator daily must sign and date each printed ELB discard report upon completion of each fishing trip or each offload of fish. The signature of the operator is verification of acceptance of the responsibility required in paragraph (a)(2) of this section.

(5) Submittal time limits. (i) The operator of a catcher vessel using an ELB must upon delivery of catch submit the ELB discard report to the mothership, shoreside processor, or SFP.

(ii) The operator or manager of a buying station that receives groundfish catch from a catcher vessel using an ELB must upon delivery of catch submit the ELB discard report to the mothership, shoreside processor, or SFP, and submit the ELB data export directly to the Regional Administrator or through the mothership, shoreside processor, or SFP.

(6) Retention. The operator must keep a signed copy of each ELB logsheet and each ELB discard report, filed in sequence for immediate access by authorized personnel as described at paragraph (a)(5) of this section.

(7) ELB data export. The operator must transmit an ELB data export to NMFS at the specified e-mail address within 24 hours of completing each fishing trip or offload, as described under paragraph (f)(7)(i) or (ii) of this section in the following manner:

(i) Directly to NMFS as an email attachment; or

(ii) If a catcher vessel, send directly to NMFS as an email attachment or to NMFS through a shoreside processor, SFP, or mothership who received his/her groundfish catch. Through a prior agreement with the catcher vessel, the operator of a mothership or the manager of a shoreside processor or SFP will forward the ELB data export to NMFS as an email attachment within 24 hours of completing receipt of the catcher vessel's catch.

(8) Return receipt. (i) Upon receiving an ELB data export, NMFS will generate a dated return-receipt to confirm receipt of the ELB data. If errors exist in the data transmitted to NMFS, the receipt will identify the errors. If errors are identified, the operator must correct the errors and send a revised transmission to NMFS which will then confirm acceptance of the ELB data.

(ii) The operator must retain the NMFS return receipt as described in paragraph (a)(5) of this section.

(iii) If a return receipt from NMFS is not received within 24 hours, the operator of the catcher vessel, the operator of a catcher/processor, the operator of the mothership, or the manager of the shoreside processor or SFP forwarding the ELB data export for the operator of the catcher vessel, must contact NMFS by telephone at 907-586-7228 or fax at 907-586-7131 for instructions.

(g) * * *

(1) General requirements. Except as provided in paragraphs (g)(2)(i) through (v) of this section, the operator or manager must record on a PTR those species that are listed in Tables 2a and 2c to this part when those species are transferred out of the facility or off the vessel and may also record species listed in Table 2d to this part.

(h) Check-in/Check-out report—(1) Requirement. Except as described in paragraph (h)(2) of this section, the operator of a catcher/processor or mothership and manager of a shoreside processor or SFP must submit to NMFS a check-in report (BEGIN message) prior to becoming active and a check-out report (CEASE message) for every check-in report submitted. The check-in report and check-out report must be submitted by fax to 907-586-7131, or by e-mail to erreports.alaskafisheries@noaa.gov.

(2) Exceptions—(i) VMS onboard. The operator of a catcher/processor or mothership is not required to submit to NMFS a check-in report or check-out report if the vessel is carrying onboard a transmitting VMS that meets the requirements of § 679.28(f).

(ii) Two adjacent reporting areas. If on the same day a catcher/processor intends to fish in two adjacent reporting areas (an action which would require submittal of check-out reports and check-in reports multiple times a day when crossing back and forth across a reporting area boundary), and the two reporting areas have on that day and time an identical fishing status for every species, the operator must:

(A) Submit to NMFS a check-in report to the first area prior to entering the first reporting area, and

(B) Submit to NMFS a check-in report to the second area prior to entering the second reporting area.

(C) Remain within 10 nautical miles (18.5 km) of the boundary described in paragraph (h)(2)(i) of this section.

(D) If the catcher/processor proceeds in the second reporting area beyond 10 nautical miles (18.5 km) of the boundary between the two areas, the operator must submit a check-out report from the first reporting area. The operator must submit a check-out report from the second area upon exiting that reporting area.

(3) Transit through reporting areas. The operator of a catcher/processor or mothership is not required to submit a check-in or check-out report if the vessel is transiting through a reporting area and is not fishing or receiving fish.

(4) Time limits and submittal. Except as indicated in paragraph (h)(2) of this section, the operator or manager must submit a check-in report and a check-out report according to the following table:

For ... | If you are a ... | Submit a BEGIN message | Submit a CEASE message
(i) Each reporting area, except area 300, 400, 550, or 690 | (A) C/P using trawl gear | Before gear deployment. | Within 24 hours after departing a reporting area but prior to checking in to another reporting area.
| (B) C/P using longline or pot gear | Before gear deployment. May be checked in to more than one area simultaneously. | Upon completion of gear retrieval and within 24 hours after departing each reporting area.
| (C) MS | Before receiving groundfish, must check-in to reporting area(s) where groundfish were harvested. May be checked in to more than one area simultaneously. | Within 24 hours after receipt of fish is complete from that reporting area. If receipt of groundfish from a reporting area is expected to stop for at least one month during the fishing year and then start up again, may submit check-out report for that reporting area.
(ii) COBLZ or RKCSA | (A) C/P using trawl gear | Prior to fishing. Submit one check-in for the COBLZ or RKCSA and another check-in for the area outside the COBLZ or RKCSA. | Upon completion of gear retrieval for groundfish, submit a separate check-out for the COBLZ or RKCSA and another check-out for the area outside the COBLZ or RKCSA.
| (B) MS | Before receiving groundfish harvested with trawl gear that were harvested in the COBLZ or RKCSA, submit one check-in for the COBLZ or RKCSA and another check-in for the area outside the COBLZ or RKCSA. | Upon completion of groundfish receipt, submit a separate check-out for the COBLZ or RKCSA and another check-out for the area outside the COBLZ or RKCSA.
(iii) Gear Type | (A) C/P | If in the same reporting area but using more than one gear type, prior to fishing submit a separate check-in for each gear type. | Upon completion of gear retrieval for groundfish, submit a separate check-out for each gear type for which a check-in was submitted.
| (B) MS | If harvested in the same reporting area but using more than one gear type, prior to receiving groundfish submit a separate check-in for each gear type. | Upon completion of receipt of groundfish, submit a separate check-out for each gear type for which a check-in was submitted.
(iv) CDQ | (A) MS | Prior to receiving groundfish CDQ, if receiving groundfish under more than one CDQ number, use a separate check-in for each CDQ number. | Within 24 hours after receipt of groundfish CDQ has ceased for each CDQ number.
| (B) C/P | Prior to fishing, submit a separate check-in for each CDQ number. | Within 24 hours after groundfish CDQ fishing for each CDQ number has ceased.
(v) Exempted or Research Fishery | (A) C/P | Prior to fishing, submit a separate check-in for each type. | Upon completion of receipt of groundfish submit a separate check-out for each type for which a check-in was submitted.
| (B) MS | Prior to receiving groundfish, submit a separate check-in for each type. | Upon completion of receipt of groundfish submit a separate check-out for each type for which a check-in was submitted.
(vi) Aleutian Islands Pollock (AIP) | (A) C/P | Prior to AIP fishing. | Within 24 hours after completion of gear retrieval for AIP.
| (B) MS | Before receiving AIP. | Within 24 hours after receipt of AIP has ceased.
(vii) Processor Type | C/P, MS | If a catcher/processor and functioning simultaneously as a mothership in the same reporting area, before functioning as either processor type. | Upon completion of simultaneous activity as both catcher/processor and mothership, a separate check-out, one for catcher/processor and one for mothership.
(viii) Change of fishing year | (A) C/P, MS | If continually active through the end of one fishing year and at the beginning of a second fishing year, submit a check-in for each reporting area to start the year on January 1. | If a check-out report was not previously submitted during a fishing year for a reporting area, submit a check-out report for each reporting area on December 31.
| (B) SS, SFP | If continually active through the end of one fishing year and at the beginning of a second fishing year, submit a check-in to start the year on January 1. | If a check-out report was not previously submitted during a fishing year, submit a check-out report on December 31.
(ix) Interruption of production | SS, SFP, MS | n/a | If receipt of groundfish is expected to stop for at least one month during the fishing year and then start up again, the manager or operator may choose to submit a check-out report.

(5) Required information. The operator of a catcher/processor or mothership and the manager of a shoreside processor or SFP must record the information in the following table on a check-in report and a check-out report, as appropriate.

Required information | Check-in Report: MS | Check-in Report: C/P | Check-in Report: SS, SFP | Check-out Report: MS | Check-out Report: C/P | Check-out Report: SS, SFP
(i) Whether an original or revised report | X | X | X | X | X | X
(ii) Vessel name, ADF&G processor code, FFP number | X | X |  | X | X |
(iii) Processor name, ADF&G processor code, FPP number |  |  | X |  |  | X
(iv) Representative name, business telephone number, business fax number | X | X | X | X | X | X
(v) COMSAT number (if applicable) | X | X |  | X | X |
(vi) Management program name (see paragraph (a)(1)(iii) of this section) and identifying number (if any). If harvest is not under one of these management programs, leave blank. | X | X |  | X | X |
(vii) Processor type, gear type | X | X |  | X | X |
(viii) Date (mm/dd/yyyy) and time (A.l.t., military format)
(A) When receipt of groundfish will begin | X |  | X |  |  |
(B) When gear deployment will begin |  | X |  |  |  |
(C) When the last receipt or processing of groundfish was completed |  |  |  | X |  | X
(D) When the vessel departed the reporting area |  |  |  |  | X |
(ix) Position coordinates
(A) Where groundfish receipt begins | X |  |  |  |  |
(B) Where receiving groundfish (if SFP): |  |  | X |  |  |
(C) Where gear is deployed |  | X |  |  |  |
(D) Where the last receipt of groundfish was completed |  |  |  | X |  |
(E) Where the vessel departed the reporting area |  |  |  |  | X |
(x) Reporting area code
(A) Where gear deployment begins |  | X |  |  |  |
(B) Where groundfish harvest occurred | X |  |  |  |  |
(C) Where the last receipt of groundfish was completed |  |  |  | X |  |
(D) Where the vessel departed the reporting area |  |  |  |  | X |
(xi) Primary and secondary target species (A change in intended target species within the same reporting area does not require a new BEGIN message.)
(A) Expected to be received the following week | X |  |  |  |  |
(B) Expected to be harvested the following week |  | X |  |  |  |
(xii) Indicate (YES or NO) whether this is a check-in report |  |  | X |  |  |
(xiii) If YES, indicate
(A) If checking-in for the first time this fishing year |  |  | X |  |  |
(B) If checking-in to restart receipt and processing of groundfish after filing a check-out report |  |  | X |  |  |
(xiv) Indicate (YES or NO) whether this is a check-out report |  |  |  |  |  | X
(xv) If YES, indicate product weight of all fish or fish products (including non groundfish) remaining at the facility (other than public cold storage) by species code and product code. Indicate if recorded to the nearest pound or to the nearest 0.001 mt. |  |  | X |  |  | X

(i) Weekly production report (WPR). The WPR is removed from use. Instead of a WPR, the operator of a mothership or catcher/processor and the manager of a shoreside processor or SFP must submit all landings information, production information, and discard and disposition information using eLandings or other NMFS-approved software (see paragraph (e) of this section).

(l) * * *

(1) * * *

(iv) Exemption—(A) Halibut. An IFQ landing of halibut of 500 lb or less of IFQ weight determined pursuant to § 679.40(h) and concurrent with a legal landing of salmon harvested using hand troll gear or power troll gear is exempt from the PNOL required by this section.

(B) Lingcod. An IFQ landing of halibut of 500 lb or less of IFQ weight determined pursuant to § 679.40(h) and concurrent with a legal landing of lingcod harvested using dinglebar gear is exempt from the PNOL required by this section.

(2) IFQ landing—(i) Remain at landing site. Once the landing has commenced, the IFQ permit holder, the IFQ hired master permit holder, or the CDQ hired master permit holder, and the harvesting vessel may not leave the landing site until the IFQ halibut, IFQ sablefish, or CDQ halibut account is properly debited (see § 679.40(h)).

(ii) No movement of IFQ halibut, CDQ halibut, or IFQ sablefish. The offloaded IFQ halibut, CDQ halibut, or IFQ sablefish may not be moved from the landing site until the IFQ Landing Report is completed through eLandings or other NMFS-approved software and the IFQ permit holder's or CDQ permit holder's account is properly debited (see § 679.40(h)).

(iii) Single offload site—(A) IFQ halibut and CDQ halibut. The vessel operator who lands IFQ halibut or CDQ halibut must continuously and completely offload at a single offload site all halibut onboard the vessel.

(B) IFQ sablefish. The vessel operator who lands IFQ sablefish must continuously and completely offload at a single offload site all sablefish onboard the vessel.

7. In § 679.7, paragraph (a)(1)(iii) is added to read as follows:

§ 679.7 Prohibitions.

(a) * * *

(1) * * *

(iii) Conduct fishing operations from a vessel using other than the operation type(s) specified on the FFP (see § 679.4(b)) issued for that vessel.

8. In § 679.22, paragraph (b)(6) that was revised on June 1, 2006 (71 FR 31107) effective July 3, 2006 through December 31, 2010, is removed and reserved, and paragraphs (b)(5)(i) and (ii) are revised to read as follows:

§ 679.22 Closures.

(b) * * *

(5) * * *

(i) No FFP holder may fish for groundfish in the Sitka Pinnacles Marine Reserve, and no vessel named on an FFP may be anchored in the Sitka Pinnacles Marine Reserve, as described in Figure 18 to this part.

(ii) No person fishing under an IFQ halibut permit may fish for halibut and no person fishing under an IFQ sablefish permit may fish for sablefish in the Sitka Pinnacles Marine Reserve; and no vessel with an IFQ permit holder or IFQ hired master permit holder onboard may be anchored in the Sitka Pinnacles Marine Reserve, as described in Figure 18 to this part.

9. In § 679.28:

A. Paragraph (b)(2)(v) is removed and reserved.

B. Paragraphs (f)(4)(iii) and (h) are added.

C. Paragraphs (a), (b)(2)(iii), (b)(2)(iv), (b)(2)(vi)(A), (f)(4)(i), (f)(4)(ii), and (f)(5) are revised.

The revisions and additions read as follows:

§ 679.28 Equipment and operational requirements.

(a) Applicability. This section contains the operational requirements for scales, observer sampling stations, bins for volumetric estimates, vessel monitoring system hardware, catch monitoring and control plan, and catcher vessel electronic logbook software. The operator or manager must retain a copy of all records described in this section (§ 679.28) as indicated at § 679.5(a)(5) and (6) and make available the records upon request of NMFS observers and authorized officers as indicated at § 679.5(a)(5).

(b) * * *

(2) * * *

(iii) Who may perform scale inspections and approvals? Scales must be inspected and approved by a NMFS-staff scale inspector or an inspector designated by NMFS and trained by a NMFS-staff scale inspector.

(iv) How does a vessel owner arrange for a scale inspection? The operator must submit a request for a scale inspection at least 10 working days in advance of the requested date of inspection by filing a request online or by printing and faxing the scale inspection request at http://alaskafisheries.noaa.gov/scales/default.htm.

(vi) * * *

(A) Make the vessel and scale available for inspection by the scale inspector.

(f) * * *

(4) * * *

(i) Register the vessel's VMS unit with an appropriate service provider;

(ii) Use VMS check-in report to contact OLE by fax at 907-586-7703 and provide the date (mm/dd/yyyy), vessel name, USCG documentation number, FFP number or Federal crab vessel permit number, name and telephone number of contact person, and VMS transmitter ID or serial number; and

(iii) Call OLE at 907-586-7225, Monday through Friday, between the hours of 0800 hours, A.l.t., and 1630 hours, A.l.t., at least 72 hours before leaving port and receive confirmation that the transmissions are being received.

(5) What must the vessel owner do when the vessel replaces a VMS transmitter? A vessel owner who must use a VMS and who intends to replace a transmitter, must follow the reporting and confirmation procedure for the replacement transmitter, as described in paragraph (f)(4) of this section.

(h) ELB software—(1) How do I get my ELB software approved by NMFS?—(i) Specifications. NMFS will provide specifications for ELB software upon request. Interested parties may contact NMFS by mail at NMFS Alaska Region, Sustainable Fisheries Division, Catch Accounting/Data Quality, P.O. Box 21668, Juneau, AK 99802-1668; by telephone at 907-586-7228. The four types of ELB software are:

(A) Catcher vessel longline or pot gear (see § 679.5(c)(3));

(B) Catcher/processor longline or pot gear (see § 679.5(c)(3));

(C) Catcher vessel trawl gear (see § 679.5(c)(4)); and

(D) Catcher/processor trawl gear (see § 679.5(c)(4)).

(ii) ELB submittal package. A vendor or developer wishing to have an ELB approved by NMFS must submit:

(A) A fully operational test copy of the software; and

(B) An application for ELB-approval giving the following information (see paragraphs (h)(1)(ii)(B)(1) through (3) of this section):

(1) Company, contact person, address, telephone number, and fax number for the company developing the software;

(2) Name and type of software; and

(3) Printed name and signature of individual submitting the software for approval.

(C) Copies of all manuals and documentation for the software.

(iii) ELB approval. NMFS will approve ELB software within 60 working days of receipt of all required information if the software meets the following standards in paragraphs (h)(1)(iii)(A) through (H) of this section):

(A) Has fields for the entry of all information required for a paper DFL or DCPL as described in § 679.5(c)(3) and (4), as appropriate.

(B) The software must automatically time and date stamp each printed copy of the ELB logsheet and ELB discard report and clearly identify the first printed copy as an original. If any changes are made to the data in the ELB, subsequent printed copies must clearly be identified as revised. The software must be designed to prevent the operator from overriding this feature.

(C) The software must export data as an ASCII comma delimited text file, xml file, or other format approved by NMFS.

(D) The software must integrate with the vessel's global positioning system (GPS) to allow vessel location fields to be completed automatically.

(E) When the software is started, it must clearly show the software version number.

(F) The software must be designed to facilitate the transfer of an export file to NMFS as an email attachment.

(G) The software must be designed to ensure that an operator can comply with the requirements for ELB use as described in § 679.5(f).

(H) The software must include sufficient data validation capability to prevent a submitter from accidentally transmitting a data file or printing an ELB logsheet that is incomplete or contains clearly erroneous data.

(2) What if I need to make changes to NMFS-approved ELB software?—(i) NMFS-instigated changes. NMFS will provide the developer with information that affects the ELB software as soon as it is available for distribution, e.g., changes in species codes or product codes.

(ii) Developer-instigated changes. The developer must submit a copy of the changed software along with documentation describing the need for the change to NMFS for review and approval as described in paragraph (h)(1)(ii) of this section. NMFS will review and approve the new version according to the guidelines set forth in paragraph (h)(1)(iii) of this section.

(iii) NMFS-approved ELB changes. If changes to ELB software are approved by NMFS, the developer must:

(A) Give the revised software a new version number;

(B) Notify all known ELB users of the software that a new version is available; and

(C) Ensure that the ELB users are provided with a revised copy within 15 days of notification.

10. In § 679.40, paragraph (c)(3) is revised and paragraph (h) is added to read as follows:

§ 679.40 Sablefish and halibut QS.

(c) * * *

(3) IFQ permit. The Regional Administrator shall issue to each QS holder, pursuant to § 679.4, an IFQ permit specifying the maximum amount of halibut and sablefish that may be harvested with fixed gear in a specified IFQ regulatory area and vessel category. Such IFQ permits will be sent to each QS holder at the address on record for that person prior to the start of the IFQ fishing season or to any IFQ holder(s) following transfers or penalties (15 CFR part 904).

(h) Properly debited landing—(1) Permit holder's account. Except as provided in paragraph (g) of this section, all IFQ halibut, CDQ halibut, and IFQ sablefish catch onboard a vessel must be weighed and debited from the IFQ permit holder's account or CDQ halibut permit holder's account under which the catch was harvested.

(2) Properly debited account. A properly concluded groundfish IFQ landing receipt, crab IFQ landing receipt, or a manual IFQ landing report which is signed by the Registered Buyer and IFQ permit holder or IFQ hired master permit holder or CDQ hired master permit holder constitutes confirmation that the IFQ permit holder's or CDQ permit holder's account is properly debited.

(3) Source of debit. NMFS shall use the following sources (see paragraphs (h)(3)(i) and (ii) of this section) of information to debit a CDQ halibut, IFQ halibut, or IFQ sablefish account:

(i) Unprocessed landing. If offload of unprocessed IFQ halibut, CDQ halibut, or IFQ sablefish from a vessel, the scale weight (to the nearest pound) of the halibut or sablefish product actually measured at the time of offload, as required by § 679.5(e)(7)(i)(E)(6) to be included in the IFQ Landing Report.

(ii) Processed landing. If offload of processed IFQ halibut, CDQ halibut, or IFQ sablefish from a vessel, the scale weight (to the nearest pound) of the halibut or sablefish processed product actually measured at or before the time of offload. If the product scale weights are taken before the time of offload, then the species and actual product weight of each box or container must be visibly marked on the outside of each container to facilitate inspection by OLE or designees.

11. In § 679.42, paragraphs (c), (h)(3), and (j)(8) are revised and paragraph (h)(4) is added to read as follows:

§ 679.42 Limitations on use of QS and IFQ.

(c) Requirements and deductions. Any individual who harvests halibut or sablefish with fixed gear must have a valid IFQ permit, and if a hired master is conducting the harvest, a valid IFQ hired master permit, aboard the vessel at all times during the fishing trip and present during the landing.

(h) * * *

(3) Excess. An IFQ permit holder who receives an approved IFQ allocation of halibut or sablefish in excess of these limitations may nevertheless catch and retain all that IFQ with a single vessel. However, two or more IFQ permit holders may not catch and retain their IFQs with one vessel in excess of these limitations.

(4) Liability. Owners and operators of vessels exceeding these limitations are jointly and severally liable with IFQ permit holders and IFQ hired master permit holders whose harvesting causes the vessel to exceed these limitations.

(j) * * *

(8) A corporation, partnership, or other non-individual entity, except for a publicly held corporation, that receives an allocation of QS must provide annual updates to the Regional Administrator identifying all current shareholders, partners, or members to the individual person level and affirming the entity's continuing existence as a corporation or partnership, or other non-individual entity.

12. In § 679.50, paragraph (g)(1)(ix)(A) is revised to read as follows:

§ 679.50 Groundfish Observer Program.

(g) * * *

(1) * * *

(ix) * * *

(A) Ensure that transfers of observers at sea are carried out during daylight hours, under safe conditions, and with the agreement of observers involved.

§§ 679.1, 679.2, 679.4, 679.5, 679.20, 679.21, 679.22, 679.27, 679.28, 679.40, 679.41, 679.42, 679.50, 679.61, and 679.84 [Amended]

13. At each of the locations shown in the Location column, remove the phrase indicated in the “Remove” column and replace it with the phrase indicated in the “Add” column for the number of times indicated in the “Frequency” column.

Location | Remove | Add | Frequency
§ 679.1 introductory text | under the Magnuson-Stevens Fishery Conservation and Management Act and the Northern Pacific Halibut Act | under the Magnuson-Stevens Fishery Conservation and Management Act, 16 U.S.C. 1801 et seq. (Magnuson-Stevens Act) and the Northern Pacific Halibut Act of 1982 (Halibut Act) | 1
§ 679.1(a)(2) | 5 AAC 28.110 | 5 AAC 28.111 | 1
§ 679.2 definition of “Authorized distributor” | food bank distributors | food bank distributors (see § 679.26, Prohibited Species Donation Program) | 1
§ 679.2 definition of “Authorized fishing gear” paragraph (14)(iii) introductory text | paragraph (10)(ix) | paragraph (14)(ix) | 1
§ 679.2 definition of “Authorized fishing gear” paragraph (14)(iv) | paragraph (10)(iii) | paragraph (14)(iii) | 1
§ 679.2 definition of “Authorized fishing gear” paragraph (14)(v) | paragraphs (10)(iii) and (iv) | paragraphs (14)(iii) and (iv) | 1
§ 679.2 definition of “Basis species” | authorized to harvest | authorized to harvest (see Tables 10 and 11 to this part) | 1
§ 679.2 definition of “Catcher/processor” introductory text | Catcher/processor means: | Catcher/processor (C/P) means: | 1
§ 679.2 definition of “Catcher vessel” | Catcher vessel means | Catcher vessel (CV) means | 1
§ 679.2 definition of “Legal rockfish landing for purposes of qualifying for the Rockfish Program” paragraph (2)(i) | Weekly Production Report | production report | 1
§ 679.2 definition of “Person” | other entity | other non-individual entity | 1
§ 679.2 definition of “Prohibited species” | regulated under this part | issued an FFP under § 679.4(b) | 1
§ 679.2 definition of “Stationary floating processor” | Stationary floating processor | Stationary floating processor (SFP) | 1
§ 679.2 definition of “U.S. Citizen” paragraph (2)(ii) | other entity | other non-individual entity | 1
§ 679.2 definition of “Vessel operations category” | § 679.5(b)(3) | § 679.4(b)(3) | 1
§ 679.2 definition of “Weekly production report (WPR)” | (see § 679.5(i)) | is no longer required (see § 679.5(e)(9) and (10)) | 1
§ 679.4(b)(5)(ii) | owner; and the name | owner; and if applicable, the name | 1
§ 679.4(b)(5)(iii) | horsepower; whether this is a vessel of the United States; and whether this vessel will be used as a stationary floating processor. | horsepower; and whether this is a vessel of the United States. | 1
§ 679.4(d)(1)(i), (d)(2)(i), (d)(3)(i), and (d)(3)(iv) | suspended, or modified | suspended, surrendered in accordance with paragraph (a)(9) of this section, or modified | 1
§ 679.4(k) heading | Licenses for license limitation groundfish or crab species | Licenses for license limitation program (LLP) groundfish or crab species | 1
§ 679.4(k)(3)(ii)(A)(3) and (k)(4) introductory text | Weekly Production Reports | production reports | 1
§ 679.4(k)(5)(iv) | Pacific time | Alaska local time | 1
§ 679.5(g)(1)(i) heading | Groundfish. | Groundfish and donated prohibited species. | 1
§ 679.5(p)(2) | Alaska Department of Fish & Game, Division of Commercial Fisheries | ADF&G Division of Commercial Fisheries | 1
§ 679.5(r)(3) | SPELR | eLandings | 2
§ 679.5(r)(5) heading | Weekly production report (WPR). | Production reports. | 1
§ 679.5(r)(5) | submit a WPR as described in paragraph (i) of this section | submit a production report as described in paragraphs (e)(9) and (10) of this section | 1
§ 679.5(r)(10)(i)(B)(2) | as reported in a WPR | as reported in a production report | 1
§ 679.20(e) heading | Maximum retainable amounts— | Maximum retainable amounts (MRA)— | 1
§ 679.20(g)(2)(iii) | § 679.5(a)(9) | § 679.5(a)(7)(v)(C) | 1
§ 679.21(a)(2) | motherships and shoreside processors | motherships, shoreside processors, and SFPs | 1
§ 679.21(e)(7)(vii) | during August | during the period August | 1
§ 679.22(b)(1)(iii) | open to any trawl other than a pelagic trawl gear year round. | open unless otherwise closed to trawling. | 1
§ 679.27(j)(2) | weekly production report required at § 679.5(i) | production report required at § 679.5(e)(10) | 1
§ 679.28(c)(3)(i) | § 679.5(a)(13) | § 679.5(a)(5)(ii) | 1
§ 679.40(a)(2)(i)(D) | other entity | other non-individual entity | 1
§ 679.40(a)(3)(v)(B) | WPRs | production reports | 1
§ 679.40(a)(6)(i) | corporation or partnership | corporation, partnership, or other non-individual entity | 2
§ 679.41(d)(2)(ii) | A corporation, partnership, or other entity. | A corporation, partnership, or other non-individual entity. | 1
§ 679.42(j) heading | corporations and partnerships | corporations, partnerships, or other non-individual entities | 1
§ 679.42(j) | corporation, partnership, or other entity | corporation, partnership, association, or other non-individual entity | 13
§ 679.42(j) | corporation or partnership | corporation, partnership, association, or other non individual entity | 10
§ 679.50(c)(3)(i) | weekly production report submitted to the Regional Administrator under § 679.5(i). | production report submitted to the Regional Administrator under § 679.5(e)(10). | 1
§ 679.50(c)(3)(ii) | weekly production report submitted to the Regional Administrator for that week by the mothership under § 679.5(i). | production reports submitted to the Regional Administrator under § 679.5(e)(10). | 1
§ 679.61(d)(1) | paragraph (c) of this section | this paragraph (d) | 1
§ 679.61(e)(1) | paragraph (c) of this section | this paragraph (e) | 1
§ 679.84(b) | § 679.4(m) | § 679.4(n) | 1

14. The map in Figure 3 to part 679 is revised to read as follows:

BILLING CODE 3510-22-S

15. The heading for Figure 5 to part 679 and the map are revised to read as follows:

Figure 5 to Part 679—Kodiak Island Closure Status for Vessels Using Non-pelagic Trawl Gear

* * * * *

16. Figure 7 to part 679 is revised to read as follows:

17. Figure 12 to part 679 and its heading are revised to read as follows:

Figure 12 to Part 679—Bristol Bay Trawl Closure Area

BILLING CODE 3510-22-C

18. Table 1 to part 679 is removed; Tables 1a, 1b, and 1c to part 679 are added; and Tables 2a and 2b to part 679 are revised to read as follows:

Table 1a to Part 679—Delivery Condition and Product Codes
GENERAL USE CODES
Description | Code
Belly flaps. Flesh in region of pelvic and pectoral fins and behind head (ancillary only). | 19
Bled only. Throat or isthmus slit to allow blood to drain. | 03
Bled fish destined for fish meal (includes offsite production). DO NOT RECORD ON PTR. | 42
Bones (if meal, report as 32) (ancillary only). | 39
Butterfly, no backbone. Head removed, belly slit, viscera and most of backbone removed; fillets attached. | 37
Cheeks. Muscles on sides of head (ancillary only). | 17
Chins. Lower jaw (mandible), muscles, and flesh (ancillary only). | 18
Fillets, deep-skin. Meat with skin, adjacent meat with silver lining, and ribs removed from sides of body behind head and in front of tail, resulting in thin fillets. | 24
Fillets, skinless/boneless. Meat with both skin and ribs removed, from sides of body behind head and in front of tail. | 23
Fillets with ribs, no skin. Meat with ribs with skin removed, from sides of body behind head and in front of tail. | 22
Fillets with skin and ribs. Meat and skin with ribs attached, from sides of body behind head and in front of tail. | 20
Fillets with skin, no ribs. Meat and skin with ribs removed, from sides of body behind head and in front of tail. | 21
Fish meal. Meal from whole fish or fish parts; includes bone meal. | 32
Fish oil. Rendered oil from whole fish or fish parts. Record only oil destined for sale and not oil stored or burned for fuel onboard. | 33
Gutted, head on. Belly slit and viscera removed. | 04
Gutted, head off. Belly slit and viscera removed. | 05
Head and gutted, with roe. | 06
Headed and gutted, Western cut. Head removed just in front of the collar bone, and viscera removed. | 07
Headed and gutted, Eastern cut. Head removed just behind the collar bone, and viscera removed. | 08
Headed and gutted, tail removed. Head removed usually in front of collar bone, and viscera and tail removed. | 10
Heads. Heads only, regardless where severed from body (ancillary only). | 16
Kirimi (Steak). Head removed either in front or behind the collar bone, viscera removed, and tail removed by cuts perpendicular to the spine, resulting in a steak. | 11
Mantles, octopus or squid. Flesh after removal of viscera and arms. | 36
Milt (in sacs, or testes) (ancillary only). | 34
Minced. Ground flesh. | 31
Other retained product. If product is not listed on this table, enter code 97 and write a description and product recovery rate next to it in parentheses. | 97
Pectoral girdle. Collar bone and associated bones, cartilage and flesh. | 15
Roe. Eggs, either loose or in sacs, or skeins (ancillary only). | 14
Salted and split. Head removed, belly slit, viscera removed, fillets cut from head to tail but remaining attached near tail. Product salted. | 12
Stomachs. Includes all internal organs (ancillary only). | 35
Surimi. Paste from fish flesh and additives. | 30
Whole fish or shellfish/food fish. | 01
Wings. On skates, side fins are cut off next to body. | 13
SHELLFISH ONLY
Soft shell crab | 75
Bitter crab | 76
Deadloss | 79
Sections | 80
Meat | 81
NOTE: When using whole fish codes, record round weights not product weights, even if the whole fish is not used.

Table 1b to Part 679—Discard and Disposition Codes
Description | Code
Confiscation. | 63
Deadloss (crab only). | 79
Halibut retained for future sale (Halibut only). | 87
Overage (Specify overage type in comment). | 62
Tagged Fish (Exempt from IFQ). | 64
Whole fish/bait, not sold. Used as bait on board vessel. | 92
Whole fish/bait, sold. | 61
Whole fish/discard at sea. Whole groundfish and prohibited species discarded by catcher vessels, catcher/processors, motherships, or tenders. DO NOT RECORD ON PTR. | 98
Whole fish/discard, damaged. Whole fish damaged by observer's sampling procedures. | 93
Whole fish/discard, decomposed. Decomposed or previously discarded fish. | 89
Whole fish/discard, infested. Flea-infested fish, parasite-infested fish. | 88
Whole fish/discard, onshore. Discard after delivery and before processing by shoreside processors, stationary floating processors, and buying stations and in-plant discard of whole groundfish and prohibited species during processing. DO NOT RECORD ON PTR. | 99
Whole fish/donated prohibited species. Number of Pacific salmon or Pacific halibut, otherwise required to be discarded that is donated to charity under a NMFS-authorized program. | 86
Whole fish/fish meal. Whole fish destined for meal (includes offsite production.) DO NOT RECORD ON PTR. | 41
Whole fish/personal use, consumption. Fish or fish products eaten on board or taken off the vessel for personal use. Not sold or utilized as bait. | 95
Whole fish/sold, for human consumption. | 60
NOTE: When using whole fish codes, record round weights not product weights, even if the whole fish is not used.

Table 1c to Part 679—Product Type Codes
Description | Code
Ancillary product. A product, such as meal, heads, internal organs, pectoral girdles, or any other product that may be made from the same fish as the primary product. | A
Primary product. A product, such as fillets, made from each fish, with the highest recovery rate. | P
Reprocessed or rehandled product. A product, such as meal, that results from processing a previously reported product or from rehandling a previously reported product. | R

Table 2a to Part 679—Species Codes: FMP Groundfish
Species Description | Code
Atka mackerel (greenling) | 193
Flatfish, miscellaneous(flatfish species without separate codes) | 120
FLOUNDER
Alaska plaice | 133
Arrowtooth and/or Kamchatka | 121
Starry | 129
Octopus, North Pacific | 870
Pacific cod | 110
Pollock | 270
ROCKFISH
Aurora (Sebastes aurora) | 185
Black (BSAI) (S. melanops) | 142
Blackgill (S. melanostomus) | 177
Blue (BSAI) (S. mystinus) | 167
Bocaccio (S. paucispinis) | 137
Canary (S. pinniger) | 146
Chilipepper (S. goodei) | 178
China (S. nebulosus) | 149
Copper (S. caurinus) | 138
Darkblotched (S. crameri) | 159
Dusky (S. ciliatus) | 154
Greenstriped (S. elongatus) | 135
Harlequin (S. variegatus) | 176
Northern (S. polyspinis) | 136
Pacific Ocean perch (S. alutus) | 141
Pygmy (S. wilsoni) | 179
Quillback (S. maliger) | 147
Redbanded (S. babcocki) | 153
Redstripe (S. proriger) | 158
Rosethorn (S. helvomaculatus) | 150
Rougheye (S. aleutianus) | 151
Sharpchin (S. zacentrus) | 166
Shortbelly (S. jordani) | 181
Shortraker (S. borealis) | 152
Silvergray (S. brevispinis) | 157
Splitnose (S. diploproa) | 182
Stripetail (S. saxicola) | 183
Thornyhead (all Sebastolobus species) | 143
Tiger (S. nigrocinctus) | 148
Vermilion (S. miniatus) | 184
Widow (S. entomelas) | 156
Yelloweye (S. ruberrimus) | 145
Yellowmouth (S. reedi) | 175
Yellowtail (S. flavidus) | 155
Sablefish (blackcod) | 710
Sculpins | 160
SHARKS
Other (if salmon, spiny dogfish or Pacific sleeper shark — use specific species code) | 689
Pacific sleeper | 692
Salmon | 690
Spiny dogfish | 691
SKATES
Big | 702
Longnose | 701
Other (If longnose or big skate — use specific species code) | 700
SOLE
Butter | 126
Dover | 124
English | 128
Flathead | 122
Petrale | 131
Rex | 125
Rock | 123
Sand | 132
Yellowfin | 127
Squid, majestic | 875
Turbot, Greenland | 134

Table 2b to Part 679—Species Codes: FMP Prohibited Species and CR Crab
Species Description | Code | CR Crab | Groundfish PSC
CRAB
| Box | Lopholithodes mandtii | 900 |  | ✓
| Dungeness | Cancer magister | 910 |  | ✓
| King, blue | Paralithodes platypus | 922 | ✓ | ✓
| King, golden (brown) | Lithodes aequispinus | 923 | ✓ | ✓
| King, red | Paralithodes camtshaticus | 921 | ✓ | ✓
| King, scarlet (deepsea) | Lithodes couesi | 924 |  | ✓
| Korean horsehair crab | Erimacrus isenbeckii | 940 |  | ✓
| Multispinus crab | Paralomis multispinus | 951 |  | ✓
| Tanner, Bairdi | Chionoecetes bairdi | 931 | ✓ | ✓
| Tanner, grooved | Chionoecetes tanneri | 933 |  | ✓
| Tanner, snow | Chionoecetes opilio | 932 | ✓ | ✓
| Tanner, triangle | Chionoecetes angulatus | 934 |  | ✓
| Verrilli crab | Paralomis verrilli | 953 |  | ✓
PACIFIC HALIBUT | Hippoglossus stenolepis | 200 |  | ✓
PACIFIC HERRING | Family Clupeidae | 235 |  | ✓
SALMON
| Chinook (king) | Oncorhynchus tshawytscha | 410 |  | ✓
| Chum (dog) | Oncorhynchus keta | 450 |  | ✓
| Coho (silver) | Oncorhynchus kisutch | 430 |  | ✓
| Pink (humpback) | Oncorhynchus gorbuscha | 440 |  | ✓
| Sockeye (red) | Oncorhynchus nerka | 420 |  | ✓
STEELHEAD TROUT | Oncorhynchus mykiss | 540 |  | ✓

19. Table 2d to part 679 is revised to read as follows:

Table 2d to Part 679—Species Codes: Non-FMP Species
GENERAL USE: Species Description | GENERAL USE: Code
Arctic char (anadromous) | 521
Bering flounder (Hippoglossoides robustus) | 116
Dolly varden (anadromous) | 531
Eels or eel-like fish | 210
Eel, wolf | 217
GREENLING
Kelp | 194
Rock | 191
Whitespot | 192
Grenadier, giant | 214
Grenadier (rattail) | 213
Jellyfish (unspecified) | 625
Lamprey, Pacific | 600
Lingcod | 130
Lumpsucker | 216
Pacific flatnose | 260
Pacific hagfish | 212
Pacific hake | 112
Pacific lamprey | 600
Pacific saury | 220
Pacific tomcod | 250
Poacher (Family Agonidae) | 219
Prowfish | 215
Ratfish | 714
Rockfish, black (GOA) | 142
Rockfish, blue (GOA) | 167
Sardine, Pacific (pilchard) | 170
Sea cucumber, red | 895
Shad | 180
Skilfish | 715
Snailfish, general (genus Liparis and genus Careproctus) | 218
Sturgeon, general | 680
Wrymouths | 211
SHELLFISH
Abalone, northern (pinto) | 860
CLAMS
Arctic surf | 812
Cockle | 820
Eastern softshell | 842
Pacific geoduck | 815
Pacific littleneck | 840
Pacific razor | 830
Washington butter | 810
Coral | 899
Mussel, blue | 855
Oyster, Pacific | 880
Scallop, weathervane | 850
Scallop, pink (or calico) | 851
SHRIMP
Coonstripe | 964
Humpy | 963
Northern (pink) | 961
Sidestripe | 962
Spot | 965
Snails | 890
Urchin, green sea | 893
Urchin, red sea | 892

20. Table 4 to part 679 is revised to read as follows:

Table 4 to Part 679—Steller Sea Lion Protection Areas Pollock Fisheries Restrictions
Column Number 1 | 2 | 3 | 4 | 5 | 6 | 7
Site Name | Area or Subarea | Boundaries from |  | Boundaries to¹ |  | Pollock No-fishing Zones for Trawl Gear²,⁸ (nm)
|  | Latitude | Longitude | Latitude | Longitude |
St. Lawrence I./S Punuk I. | Bering Sea | 63°04.00 N | 168°51.00 W |  |  | 20
St. Lawrence I./SW Cape | Bering Sea | 63°18.00 N | 171°26.00 W |  |  | 20
Hall I. | Bering Sea | 60°37.00 N | 173°00.00 W |  |  | 20
St. Paul I./Sea Lion Rock | Bering Sea | 57°06.00 N | 170°17.50 W |  |  | 3
St. Paul I./NE Pt. | Bering Sea | 57°15.00 N | 170°06.50 W |  |  | 3
Walrus I. (Pribilofs) | Bering Sea | 57°11.00 N | 169°56.00 W |  |  | 10
St. George I./Dalnoi Pt. | Bering Sea | 56°36.00 N | 169°46.00 W |  |  | 3
St. George I./S Rookery | Bering Sea | 56°33.50 N | 169°40.00 W |  |  | 3
Cape Newenham | Bering Sea | 58°39.00 N | 162°10.50 W |  |  | 20
Round (Walrus Islands) | Bering Sea | 58°36.00 N | 159°58.00 W |  |  | 20
Attu I./Cape Wrangell | Aleutian I. | 52°54.60 N | 172°27.90 E | 52°55.40 N | 172°27.20 E | 20
Agattu I./Gillon Pt. | Aleutian I. | 52°24.13 N | 173°21.31 E |  |  | 20
Attu I./Chirikof Pt. | Aleutian I. | 52°49.75 N | 173°26.00 E |  |  | 20
Agattu I./Cape Sabak | Aleutian I. | 52°22.50 N | 173°43.30 E | 52°21.80 N | 173°41.40 E | 20
Alaid I. | Aleutian I. | 52°46.50 N | 173°51.50 E | 52°45.00 N | 173°56.50 E | 20
Shemya I. | Aleutian I. | 52°44.00 N | 174°08.70 E |  |  | 20
Buldir I. | Aleutian I. | 52°20.25 N | 175°54.03 E | 52°20.38 N | 175°53.85 E | 20
Kiska I./Cape St. Stephen | Aleutian I. | 51°52.50 N | 177°12.70 E | 51°53.50 N | 177°12.00 E | 20
Kiska I./Sobaka & Vega | Aleutian I. | 51°49.50 N | 177°19.00 E | 51°48.50 N | 177°20.50 E | 20
Kiska I./Lief Cove | Aleutian I. | 51°57.16 N | 177°20.41 E | 51°57.24 N | 177°20.53 E | 20
Kiska I./Sirius Pt. | Aleutian I. | 52°08.50 N | 177°36.50 E |  |  | 20
Tanadak I. (Kiska) | Aleutian I. | 51°56.80 N | 177°46.80 E |  |  | 20
Segula I. | Aleutian I. | 51°59.90 N | 178°05.80 E | 52°03.06 N | 178°08.80 E | 20
Ayugadak Point | Aleutian I. | 51°45.36 N | 178°24.30 E |  |  | 20
Rat I./Krysi Pt. | Aleutian I. | 51°49.98 N | 178°12.35 E |  |  | 20
Little Sitkin I. | Aleutian I. | 51°59.30 N | 178°29.80 E |  |  | 20
Amchitka I./Column Rocks | Aleutian I. | 51°32.32 N | 178°49.28 E |  |  | 20
Amchitka I./East Cape | Aleutian I. | 51°22.26 N | 179°27.93 E | 51°22.00 N | 179°27.00 E | 20
Amchitka I./Cape Ivakin | Aleutian I. | 51°24.46 N | 179°24.21 E |  |  | 20
Semisopochnoi/Petrel Pt. | Aleutian I. | 52°01.40 N | 179°36.90 E | 52°01.50 N | 179°39.00 E | 20
Semisopochnoi I./Pochnoi Pt. | Aleutian I. | 51°57.30 N | 179°46.00 E |  |  | 20
Amatignak I. Nitrof Pt. | Aleutian I. | 51°13.00 N | 179°07.80 W |  |  | 20
Unalga & Dinkum Rocks | Aleutian I. | 51°33.67 N | 179°04.25 W | 51°35.09 N | 179°03.66 W | 20
Ulak I./Hasgox Pt. | Aleutian I. | 51°18.90 N | 178°58.90 W | 51°18.70 N | 178°59.60 W | 20
Kavalga I. | Aleutian I. | 51°34.50 N | 178°51.73 W | 51°34.50 N | 178°49.50 W | 20
Tag I. | Aleutian I. | 51°33.50 N | 178°34.50 W |  |  | 20
Ugidak I. | Aleutian I. | 51°34.95 N | 178°30.45 W |  |  | 20
Gramp Rock | Aleutian I. | 51°28.87 N | 178°20.58 W |  |  | 20
Tanaga I./Bumpy Pt. | Aleutian I. | 51°55.00 N | 177°58.50 W | 51°55.00 N | 177°57.10 W | 20
Bobrof I. | Aleutian I. | 51°54.00 N | 177°27.00 W |  |  | 20
Kanaga I./Ship Rock | Aleutian I. | 51°46.70 N | 177°20.72 W |  |  | 20
Kanaga I./North Cape | Aleutian I. | 51°56.50 N | 177°09.00 W |  |  | 20
Adak I. | Aleutian I. | 51°35.50 N | 176°57.10 W | 51°37.40 N | 176°59.60 W | 20
Little Tanaga Strait | Aleutian I. | 51°49.09 N | 176°13.90 W |  |  | 20
Great Sitkin I. | Aleutian I. | 52°06.00 N | 176°10.50 W | 52°06.60 N | 176°07.00 W | 20
Anagaksik I. | Aleutian I. | 51°50.86 N | 175°53.00 W |  |  | 20
Kasatochi I. | Aleutian I. | 52°11.11 N | 175°31.00 W |  |  | 20
Atka I./North Cape | Aleutian I. | 52°24.20 N | 174°17.80 W |  |  | 20
Amlia I./Sviech. Harbor¹¹ | Aleutian I. | 52°01.80 N | 173°23.90 W |  |  | 20
Sagigik I.¹¹ | Aleutian I. | 52°00.50 N | 173°09.30 W |  |  | 20
Amlia I./East¹¹ | Aleutian I. | 52°05.70 N | 172°59.00 W | 52°05.75 N | 172°57.50 W | 20
Tanadak I. (Amlia¹¹) | Aleutian I. | 52°04.20 N | 172°57.60 W |  |  | 20
Agligadak I.¹¹ | Aleutian I. | 52°06.09 N | 172°54.23 W |  |  | 20
Seguam I./Saddleridge Pt.¹¹ | Aleutian I. | 52°21.05 N | 172°34.40 W | 52°21.02 N | 172°33.60 W | 20
Seguam I./Finch Pt. | Aleutian I. | 52°23.40 N | 172°27.70 W | 52°23.25 N | 172°24.30 W | 20
Seguam I./South Side | Aleutian I. | 52°21.60 N | 172°19.30 W | 52°15.55 N | 172°31.22 W | 20
Amukta I. & Rocks | Aleutian I. | 52°27.25 N | 171°17.90 W |  |  | 20
Chagulak I. | Aleutian I. | 52°34.00 N | 171°10.50 W |  |  | 20
Yunaska I. | Aleutian I. | 52°41.40 N | 170°36.35 W |  |  | 20
Uliaga³ | Bering Sea | 53°04.00 N | 169°47.00 W | 53°05.00 N | 169°46.00 W | 20,10
Chuginadak | Gulf of Alaska | 52°46.70 N | 169°41.90 W |  |  | 20
Kagamil³ | Bering Sea | 53°02.10 N | 169°41.00 W |  |  | 20,10
Samalga | Gulf of Alaska | 52°46.00 N | 169°15.00 W |  |  | 20
Adugak I.³ | Bering Sea | 52°54.70 N | 169°10.50 W |  |  | 10
Umnak I./Cape Aslik³ | Bering Sea | 53°25.00 N | 168°24.50 W |  |  | BA
Ogchul I. | Gulf of Alaska | 52°59.71 N | 168°24.24 W |  |  | 20
Bogoslof I./Fire I.³ | Bering Sea | 53°55.69 N | 168°02.05 W |  |  | BA
Polivnoi Rock | Gulf of Alaska | 53°15.96 N | 167°57.99 W |  |  | 20
Emerald I. | Gulf of Alaska | 53°17.50 N | 167°51.50 W |  |  | 20
Unalaska/Cape Izigan | Gulf of Alaska | 53°13.64 N | 167°39.37 W |  |  | 20
Unalaska/Bishop Pt.⁹ | Bering Sea | 53°58.40 N | 166°57.50 W |  |  | 10
Akutan I./Reef-lava⁹ | Bering Sea | 54°08.10 N | 166°06.19 W | 54°09.10 N | 166°05.50 W | 10
Unalaska I./Cape Sedanka⁶ | Gulf of Alaska | 53°50.50 N | 166°05.00 W |  |  | 20
Old Man Rocks⁶ | Gulf of Alaska | 53°52.20 N | 166°04.90 W |  |  | 20
Akutan I./Cape Morgan⁶ | Gulf of Alaska | 54°03.39 N | 165°59.65 W | 54°03.70 N | 166°03.68 W | 20
Akun I./Billings Head⁹ | Bering Sea | 54°17.62 N | 165°32.06 W | 54°17.57 N | 165°31.71 W | 10
Rootok⁶ | Gulf of Alaska | 54°03.90 N | 165°31.90 W | 54°02.90 N | 165°29.50 W | 20
Tanginak I.⁶ | Gulf of Alaska | 54°12.00 N | 165°19.40 W |  |  | 20
Tigalda/Rocks NE⁶ | Gulf of Alaska | 54°09.60 N | 164°59.00 W | 54°09.12 N | 164°57.18 W | 20
Unimak/Cape Sarichef⁹ | Bering Sea | 54°34.30 N | 164°56.80 W |  |  | 10
Aiktak⁶ | Gulf of Alaska | 54°10.99 N | 164°51.15 W |  |  | 20
Ugamak I.⁶ | Gulf of Alaska | 54°13.50 N | 164°47.50 W | 54°12.80 N | 164°47.50 W | 20
Round (GOA)⁶ | Gulf of Alaska | 54°12.05 N | 164°46.60 W |  |  | 20
Sea Lion Rock (Amak)⁹ | Bering Sea | 55°27.82 N | 163°12.10 W |  |  | 10
Amak I. And rocks⁹ | Bering Sea | 55°24.20 N | 163°09.60 W | 55°26.15 N | 163°08.50 W | 10
Bird I. | Gulf of Alaska | 54°40.00 N | 163°17.2 W |  |  | 10
Caton I. | Gulf of Alaska | 54°22.70 N | 162°21.30 W |  |  | 3
South Rocks | Gulf of Alaska | 54°18.14 N | 162°41.3 W |  |  | 10
Clubbing Rocks (S) | Gulf of Alaska | 54°41.98 N | 162°26.7 W |  |  | 10
Clubbing Rocks (N) | Gulf of Alaska | 54°42.75 N | 162°26.7 W |  |  | 10
Pinnacle Rock | Gulf of Alaska | 54°46.06 N | 161°45.85 W |  |  | 3
Sushilnoi Rocks | Gulf of Alaska | 54°49.30 N | 161°42.73 W |  |  | 10
Olga Rocks | Gulf of Alaska | 55°00.45 N | 161°29.81 W | 54°59.09 N | 161°30.89 W | 10
Jude I. | Gulf of Alaska | 55°15.75 N | 161°06.27 W |  |  | 20
Sea Lion Rocks (Shumagins) | Gulf of Alaska | 55°04.70 N | 160°31.04 W |  |  | 3
Nagai I./Mountain Pt. | Gulf of Alaska | 54°54.20 N | 160°15.40 W | 54°56.00 N | 160°15.00 W | 3
The Whaleback | Gulf of Alaska | 55°16.82 N | 160°05.04 W |  |  | 3
Chernabura I. | Gulf of Alaska | 54°45.18 N | 159°32.99 W | 54°45.87 N | 159°35.74 W | 20
Castle Rock | Gulf of Alaska | 55°16.47 N | 159°29.77 W |  |  | 3
Atkins I. | Gulf of Alaska | 55°03.20 N | 159°17.40 W |  |  | 20
Spitz I. | Gulf of Alaska | 55°46.60 N | 158°53.90 W |  |  | 3
Mitrofania | Gulf of Alaska | 55°50.20 N | 158°41.90 W |  |  | 3
Kak | Gulf of Alaska | 56°17.30 N | 157°50.10 W |  |  | 20
Lighthouse Rocks | Gulf of Alaska | 55°46.79 N | 157°24.89 W |  |  | 20
Sutwik I. | Gulf of Alaska | 56°31.05 N | 157°20.47 W | 56°32.00 N | 157°21.00 W | 20
Chowiet I. | Gulf of Alaska | 56°00.54 N | 156°41.42 W | 56°00.30 N | 156°41.60 W | 20
Nagai Rocks | Gulf of Alaska | 55°49.80 N | 155°47.50 W |  |  | 20
Chirikof I. | Gulf of Alaska | 55°46.50 N | 155°39.50 W | 55°46.44 N | 155°43.46 W | 20
Puale Bay¹² | Gulf of Alaska | 57°40.60 N | 155°23.10 W |  |  | 3,10
Kodiak/Cape Ikolik | Gulf of Alaska | 57°17.20 N | 154°47.50 W |  |  | 3
Takli I. | Gulf of Alaska | 58°01.75 N | 154°31.25 W |  |  | 10
Cape Kuliak | Gulf of Alaska | 58°08.00 N | 154°12.50 W |  |  | 10
Cape Gull | Gulf of Alaska | 58°11.50 N | 154°09.60 W | 58°12.50 N | 154°10.50 W | 10
Kodiak/Cape Ugat | Gulf of Alaska | 57°52.41 N | 153°50.97 W |  |  | 10
Sitkinak/Cape Sitkinak | Gulf of Alaska | 56°34.30 N | 153°50.96 W |  |  | 10
Shakun Rock | Gulf of Alaska | 58°32.80 N | 153°41.50 W |  |  | 10
Twoheaded I. | Gulf of Alaska | 56°54.50 N | 153°32.75 W | 56°53.90 N | 153°33.74 W | 10
Cape Douglas (Shaw I.)¹² | Gulf of Alaska | 59°00.00 N | 153°22.50 W |  |  | 20, 10
Kodiak/Cape Barnabas | Gulf of Alaska | 57°10.20 N | 152°53.05 W |  |  | 3
Kodiak/Gull Point⁴ | Gulf of Alaska | 57°21.45 N | 152°36.30 W |  |  | 10, 3
Latax Rocks | Gulf of Alaska | 58°40.10 N | 152°31.30 W |  |  | 10
Ushagat I./SW | Gulf of Alaska | 58°54.75 N | 152°22.20 W |  |  | 10
Ugak I.⁴ | Gulf of Alaska | 57°23.60 N | 152°17.50 W | 57°21.90 N | 152°17.40 W | 10, 3
Sea Otter I. | Gulf of Alaska | 58°31.15 N | 152°13.30 W |  |  | 10
Long I. | Gulf of Alaska | 57°46.82 N | 152°12.90 W |  |  | 10
Sud I. | Gulf of Alaska | 58°54.00 N | 152°12.50 W |  |  | 10
Kodiak/Cape Chiniak | Gulf of Alaska | 57°37.90 N | 152°08.25 W |  |  | 10
Sugarloaf I. | Gulf of Alaska | 58°53.25 N | 152°02.40 W |  |  | 20
Sea Lion Rocks (Marmot) | Gulf of Alaska | 58°20.53 N | 151°48.83 W |  |  | 10
Marmot I.⁵ | Gulf of Alaska | 58°13.65 N | 151°47.75 W | 58°09.90 N | 151°52.06 W | 15, 20
Nagahut Rocks | Gulf of Alaska | 59°06.00 N | 151°46.30 W |  |  | 10
Perl | Gulf of Alaska | 59°05.75 N | 151°39.75 W |  |  | 10
Gore Point | Gulf of Alaska | 59°12.00 N | 150°58.00 W |  |  | 10
Outer (Pye) I. | Gulf of Alaska | 59°20.50 N | 150°23.00 W | 59°21.00 N | 150°24.50 W | 20
Steep Point | Gulf of Alaska | 59°29.05 N | 150°15.40 W |  |  | 10
Seal Rocks (Kenai) | Gulf of Alaska | 59°31.20 N | 149°37.50 W |  |  | 10
Chiswell Islands | Gulf of Alaska | 59°36.00 N | 149°34.00 W |  |  | 10
Rugged Island | Gulf of Alaska | 59°50.00 N | 149°23.10 W | 59°51.00 N | 149°24.70 W | 10
Point Elrington⁷, ¹⁰ | Gulf of Alaska | 59°56.00 N | 148°15.20 W |  |  | 20
Perry I.⁷ | Gulf of Alaska | 60°44.00 N | 147°54.60 W |  |  |
The Needle⁷ | Gulf of Alaska | 60°06.64 N | 147°36.17 W |  |  |
Point Eleanor⁷ | Gulf of Alaska | 60°35.00 N | 147°34.00 W |  |  |
Wooded I. (Fish I.) | Gulf of Alaska | 59°52.90 N | 147°20.65 W |  |  | 20
Glacier Island⁷ | Gulf of Alaska | 60°51.30 N | 147°14.50 W |  |  |
Seal Rocks (Cordova)¹⁰ | Gulf of Alaska | 60°09.78 N | 146°50.30 W |  |  | 20
Cape Hinchinbrook¹⁰ | Gulf of Alaska | 60°14.00 N | 146°38.50 W |  |  | 20
Middleton I. | Gulf of Alaska | 59°28.30 N | 146°18.80 W |  |  | 10
Hook Point¹⁰ | Gulf of Alaska | 60°20.00 N | 146°15.60 W |  |  | 20
Cape St. Elias | Gulf of Alaska | 59°47.50 N | 144°36.20 W |  |  | 20
¹Where two sets of coordinates are given, the baseline extends in a clockwise direction from the first set of geographic coordinates along the shoreline at mean lower-low water to the second set of coordinates. Where only one set of coordinates is listed, that location is the base point.
²Closures as stated in § 679.22(a)(7)(iv), (a)(8)(ii), and (b)(2)(ii).
³This site lies within the Bogoslof area (BA). The BA consists of all waters of area 518 as described in Figure 1 of this part south of a straight line connecting 55°00′ N / 170°00′ W, and 55°00′ N / 168°11′4.75″ W.
Closure to directed fishing for pollock around Uliaga and Kagamil is 20 nm for waters west of 170° W long. and 10 nm for waters east of 170° W long.
⁴Trawl closure between 0 nm to 10 nm is effective from January 20 through May 31.
Trawl closure between 0 nm to 3 nm is effective from August 25 through November 1.
⁵Trawl closure between 0 nm to 15 nm is effective from January 20 through May 31.
Trawl closure between 0 nm to 20 nm is effective from August 25 to November 1.
⁶Restriction area includes only waters of the Gulf of Alaska Area.
⁷Contact the Alaska Department of Fish and Game for fishery restrictions at these sites.
⁸No-fishing zones are the waters between 0 nm and the nm specified in column 7 of this table around each site and within the BA.
⁹This site is located in the Bering Sea Pollock Restriction Area, closed to pollock trawling during the A season.
This area consists of all waters of the Bering Sea subarea south of a line connecting the points
55°46′30″ N lat. 163°00′00″ W long.
54°42′9″ N lat. 165°08′00″ W long.
54°26′30″ N lat. 165°40′00″ W long.
54°18′40″ N lat. 166°12′00″ W long. and
54°8′50″ N lat. 167°00′00″ W long.
¹⁰The 20 nm closure around this site is effective in federal waters outside of State of Alaska waters of Prince William Sound.
¹¹Some or all of the restricted area is located in the Seguam Foraging area (SFA) which is closed to all gears types. The SFA is established as all waters within the area between 52° N lat. and 53° N lat. and between 173°30′ W long. and 172°30′ W long.
¹²The 3 nm trawl closure around Puale Bay and the 20 nm trawl closure around Cape Douglas/Shaw I. are effective January 20 through May 31. The 10 nm trawl closure around Puale Bay and the 10 nm trawl closure around Cape Douglas/Shaw I. are effective August 25 through November 1.

21. Table 9 is removed and reserved; and Tables 10, 11, and 12 to part 679 are revised to read as follows:

BILLING CODE 3510-22-S

BILLING CODE 3510-22-C

Table 12 to Part 679—Steller Sea Lion Protection Areas, 3nm No Groundfish Fishing Sites
Column Number 1 | 2 | 3 | 4 | 5 | 6 | 7
Site Name | Area or Subarea | Boundaries from |  | Boundaries to¹ |  | No transit²3 (nm)
|  | Latitude | Longitude | Latitude | Longitude |
Walrus I. (Pribilofs) | Bering Sea | 57°11.00 N | 169°56.00 W |  |  | Y
Attu I./Cape Wrangell | Aleutian I. | 52°54.60 N | 172°27.90 E | 52°55.40 N | 172°27.20 E | Y
Agattu I./Gillon Pt. | Aleutian I. | 52°24.13 N | 173°21.31 E |  |  | Y
Agattu I./Cape Sabak | Aleutian I. | 52°22.50 N | 173°43.30 E | 52°21.80 N | 173°41.40 E | Y
Buldir I. | Aleutian I. | 52°20.25 N | 175°54.03 E | 52°20.38 N | 175°53.85 E | Y
Kiska I./Cape St. Stephen | Aleutian I. | 51°52.50 N | 177°12.70 E | 51°53.50 N | 177°12.00 E | Y
Kiska I./Lief Cove | Aleutian I. | 51°57.16 N | 177°20.41 E | 51°57.24 N | 177°20.53 E | Y
Ayugadak Point | Aleutian I. | 51°45.36 N | 178°24.30 E |  |  | Y
Amchitka I./Column Rocks | Aleutian I. | 51°32.32 N | 178°49.28 E |  |  | Y
Amchitka I./East Cape | Aleutian I. | 51°22.26 N | 179°27.93 E | 51°22.00 N | 179°27.00 E | Y
Semisopochnoi/Petrel Pt. | Aleutian I. | 52°01.40 N | 179°36.90 E | 52°01.50 N | 179°39.00 E | Y
Semisopochnoi I./Pochnoi Pt. | Aleutian I. | 51°57.30 N | 179°46.00 E |  |  | Y
Ulak I./Hasgox Pt. | Aleutian I. | 51°18.90 N | 178°58.90 W | 51°18.70 N | 178°59.60 W | Y
Tag I. | Aleutian I. | 51°33.50 N | 178°34.50 W |  |  | Y
Gramp Rock | Aleutian I. | 51°28.87 N | 178°20.58 W |  |  | Y
Adak I. | Aleutian I. | 51°35.50 N | 176°57.10 W | 51°37.40 N | 176°59.60 W | Y
Kasatochi I. | Aleutian I. | 52°11.11 N | 175°31.00 W |  |  | Y
Agligadak I. | Aleutian I. | 52°06.09 N | 172°54.23 W |  |  | Y
Seguam I./Saddleridge Pt. | Aleutian I. | 52°21.05 N | 172°34.40 W | 52°21.02 N | 172°33.60 W | Y
Yunaska I. | Aleutian I. | 52°41.40 N | 170°36.35 W |  |  | Y
Adugak I. | Bering Sea | 52°54.70 N | 169°10.50 W |  |  | Y
Ogchul I. | Gulf of Alaska | 52°59.71 N | 168°24.24 W |  |  | Y
Bogoslof I./Fire I. | Bering Sea | 53°55.69 N | 168°02.05 W |  |  | Y
Akutan I./Cape Morgan | Gulf of Alaska | 54°03.39 N | 165°59.65 W | 54°03.70 N | 166°03.68 W | Y
Akun I./Billings Head | Bering Sea | 54°17.62 N | 165°32.06 W | 54°17.57 N | 165°31.71 W | Y
Ugamak I. | Gulf of Alaska | 54°13.50 N | 164°47.50 W | 54°12.80 N | 164°47.50 W | Y
Sea Lion Rock (Amak) | Bering Sea | 55°27.82 N | 163°12.10 W |  |  | Y
Clubbing Rocks (S) | Gulf of Alaska | 54°41.98 N | 162°26.7 W |  |  | Y
Clubbing Rocks (N) | Gulf of Alaska | 54°42.75 N | 162°26.7 W |  |  | Y
Pinnacle Rock | Gulf of Alaska | 54°46.06 N | 161°45.85 W |  |  | Y
Chernabura I. | Gulf of Alaska | 54°45.18 N | 159°32.99 W | 54°45.87 N | 159°35.74 W | Y
Atkins I. | Gulf of Alaska | 55°03.20 N | 159°17.40 W |  |  | Y
Chowiet I. | Gulf of Alaska | 56°00.54 N | 156°41.42 W | 56°00.30 N | 156°41.60 W | Y
Chirikof I. | Gulf of Alaska | 55°46.50 N | 155°39.50 W | 55°46.44 N | 155°43.46 W | Y
Sugarloaf I. | Gulf of Alaska | 58°53.25 N | 152°02.40 W |  |  | Y
Marmot I. | Gulf of Alaska | 58°13.65 N | 151°47.75 W | 58°09.90 N | 151°52.06 W | Y
Outer (Pye) I. | Gulf of Alaska | 59°20.50 N | 150°23.00 W | 59°21.00 N | 150°24.50 W | Y
Wooded I. (Fish I.) | Gulf of Alaska | 59°52.90 N | 147°20.65 W
Seal Rocks (Cordova) | Gulf of Alaska | 60°09.78 N | 146°50.30 W
¹Where two sets of coordinates are given, the baseline extends in a clock-wise direction from the first set of geographic coordinates along the shoreline at mean lower-low water to the second set of coordinates. Where only one set of coordinates is listed, that location is the base point.
²See 50 CFR 223.202(a)(2)(i) for regulations regarding 3 nm no transit zones.
Note: No groundfish fishing zones are the waters between 0 nm to 3 nm surrounding each site.

22. Tables 14a and 14b to part 679 are revised to read as follows:

Table 14a to Part 679—Port of Landing Codes, Alaska
Port Name | NMFS Code | ADF&G Code
Adak | 186 | ADA
Akutan, Akutan Bay | 101 | AKU
Alitak | 103 | ALI
Anchorage | 105 | ANC
Angoon | 106 | ANG
Aniak | 300 | ANI
Anvik | 301 | ANV
Atka | 107 | ATK
Auke Bay | 136 | JNU
Beaver Inlet | 119 | DUT
Bethel | 302 | BET
Captains Bay | 119 | DUT
Chefornak | 189 | CHF
Chignik | 113 | CHG
Cordova | 115 | COR
Craig | 116 | CRG
Dillingham | 117 | DIL
Douglas | 136 | JNU
Dutch Harbor/Unalaska | 119 | DUT
Egegik | 122 | EGE
Ekuk | 303 | EKU
Elfin Cove | 123 | ELF
Emmonak | 304 | EMM
Excursion Inlet | 124 | XIP
False Pass | 125 | FSP
Fairbanks | 305 | FBK
Galena | 306 | GAL
Glacier Bay | 307 | GLB
Glennallen | 308 | GLN
Gustavus | 127 | GUS
Haines | 128 | HNS
Homer | 132 | HOM
Hoonah | 133 | HNH
Hydaburg | 309 | HYD
Hyder | 134 | HDR
Juneau | 136 | JNU
Kake | 137 | KAK
Kaltag | 310 | KAL
Kasilof | 138 | KAS
Kenai | 139 | KEN
Kenai River | 139 | KEN
Ketchikan | 141 | KTN
King Cove | 142 | KCO
King Salmon | 143 | KNG
Kipnuk | 144 | KIP
Klawock | 145 | KLA
Kodiak | 146 | KOD
Kotzebue | 311 | KOT
Larsen Bay | 327 | LRB
Mekoryuk | 147 | MEK
Metlakatla | 148 | MET
Moser Bay | 312 | MOS
Naknek | 149 | NAK
Nenana | 313 | NEN
Nikiski (or Nikishka) | 150 | NIK
Ninilchik | 151 | NIN
Nome | 152 | NOM
Nunivak Island | 314 | NUN
Old Harbor | 153 | OLD
Other Alaska¹ | 499 | OAK
Pelican | 155 | PEL
Petersburg | 156 | PBG
Port Alexander | 158 | PAL
Port Armstrong | 315 | PTA
Port Bailey | 159 | PTB
Port Graham | 160 | GRM
Port Lions | 316 | LIO
Port Moller | 317 | MOL
Port Protection | 161 | PRO
Quinhagak | 187 | QUK
Sand Point | 164 | SPT
Savoonga | 165 | SAV
Selawik | 326 | SWK
Seldovia | 166 | SEL
Seward | 167 | SEW
Sitka | 168 | SIT
Skagway | 169 | SKG
Soldotna | 318 | SOL
St. George | 170 | STG
St. Mary | 319 | STM
St. Paul | 172 | STP
Tee Harbor | 136 | JNU
Tenakee Springs | 174 | TEN
Togiak | 176 | TOG
Toksook Bay | 177 | TOB
Tununak | 178 | TUN
Ugashik | 320 | UGA
Unalakleet | 321 | UNA
Valdez | 181 | VAL
Wasilla | 322 | WAS
Whittier | 183 | WHT
Wrangell | 184 | WRN
Yakutat | 185 | YAK
¹To report a landing at an Alaska location not currently assigned a location code number, use “Other Alaska” code “499” or “OAK.”

Table 14b to Part 679—Port of Landing Codes: Non-Alaska
(California, Canada, Oregon, and Washington)
Port State or Country | Port Name | NMFS Code | ADF&G Code
CALIFORNIA | Eureka | 500 | EUR
| Other California¹ | 599 | OCA
CANADA | Other Canada¹ | 899 | OCN
| Port Edward, B.C. | 802 | PRU
| Prince Rupert, B.C. | 802 | PRU
| Vancouver, B.C. | 803 | VAN
OREGON | Astoria | 600 | AST
| Newport | 603 | NPT
| Other Oregon¹ | 699 | OOR
| Portland | 323 | POR
| Warrenton | 604 | WAR
WASHINGTON | Anacortes | 700 | ANA
| Bellingham | 702 | BEL
| Blaine | 717 | BLA
| Everett | 704 | EVT
| La Conner | 708 | LAC
| Olympia | 324 | OLY
| Other Washington¹ | 799 | OWA
| Seattle | 715 | SEA
| Tacoma | 325 | TAC
¹To report a landing at a location not currently assigned a location code number, use the code for “Other California”, “Other Oregon”, “Other Washington”, or “Other Canada” at which the landing occurs.

23. Table 15 to part 679 is revised to read as follows:

Table 15 to Part 679—Gear Codes, Descriptions, and Use
(X indicates where this code is used)
Name of gear | Use alphabetic code to complete the following:: Alpha gear code | Use alphabetic code to complete the following:: NMFS logbooks | Use alphabetic code to complete the following:: Electronic check-in/ check-out | Use numeric code to complete the following:: Numeric gear code | Use numeric code to complete the following:: IERS eLandings | Use numeric code to complete the following:: ADF&G COAR
NMFS AND ADF&G GEAR CODES
Hook-and-line | HAL | X | X | 61 | X | X
Jig, mechanical | JIG | X | X | 26 | X | X
Pot | POT | X | X | 91 | X | X
Trawl, nonpelagic/bottom | NPT | X | X | 07 | X | X
Trawl, pelagic/midwater | PTR | X | X | 47 | X | X
Troll, dinglebar | TROLL | X | X | 25 | X | X
Troll, hand | TROLL | X | X | 05 | X | X
Troll, power gurdy | TROLL | X | X | 15 | X | X
All other gear types | OTH | X | X |
ADF&G GEAR CODES
Diving |  |  |  | 11 | X | X
Dredge |  |  |  | 22 | X | X
Dredge, hydro/mechanical |  |  |  | 23 | X | X
Fish ladder/raceway |  |  |  | 77 | X | X
Fish wheel |  |  |  | 08 | X | X
Gillnet, drift |  |  |  | 03 | X | X
Gillnet, herring |  |  |  | 34 | X | X
Gillnet, set |  |  |  | 04 | X | X
Gillnet, sunken |  |  |  | 41 | X | X
Handpicked |  |  |  | 12 | X | X
Net, dip |  |  |  | 13 | X | X
Net, ring |  |  |  | 10 | X | X
Other/specify |  |  |  | 99 | X | X
Pound |  |  |  | 21 | X | X
Seine, purse |  |  |  | 01 | X | X
Seine, beach |  |  |  | 02 | X | X
Shovel |  |  |  | 18 | X | X
Trap |  |  |  | 90 | X | X
Trawl, beam |  |  |  | 17 | X | X
Trawl, double otter |  |  |  | 27 | X
Trawl, pair |  |  |  | 37 | X | X
Weir |  |  |  | 14 | X | X
FIXED GEAR
Authorized gear for sablefish harvested from any GOA reporting area | All longline gear (hook-and-line, jig, troll, and handline) and, for purposes of determining initial IFQ allocation, all pot gear used to make a legal landing.
Authorized gear for sablefish harvested from any BSAI reporting area | All hook-and-line gear and all pot gear.
Authorized gear for halibut harvested from any IFQ regulatory area | All fishing gear comprised of lines with hooks attached, including one or more stationary, buoyed, and anchored lines with hooks attached.

PART 680—SHELLFISH FISHERIES OF THE EXCLUSIVE ECONOMIC ZONE OFF ALASKA

24. The authority citation for part 680 continue to read as follows:

Authority: 16 U.S.C. 1862.

25. In § 680.2, under the definition of “Crab individual fishing quota (crab IFQ)”, paragraphs (1), (2) introductory text, (3), and (4) are revised and a definition for “Sideboards” is added in alphabetical order to read as follows:

§ 680.2 Definitions.

Crab individual fishing quota (crab IFQ) * * *

(1) Catcher vessel crew (CVC) IFQ means crab IFQ derived from QS initially issued to persons who historically held CFEC crab permits and signed fish tickets for qualifying landings based on pounds delivered raw; to annually harvest, but not process, CR crab onboard the vessel used to harvest that crab.

(2) Catcher vessel owner (CVO) IFQ means crab IFQ derived from QS initially issued to persons who held LLP crab permits and had qualifying landings based on pounds delivered raw; to annually harvest, but not process, CR crab onboard the vessel used to harvest that crab.

(3) Catcher/processor owner (CPO) IFQ means crab IFQ derived from QS initially issued to persons who held LLP crab permits and had qualifying landings derived from landings processed at sea, to annually harvest and process CR crab.

(4) Catcher/processor crew (CPC) IFQ means crab IFQ derived from QS initially issued to persons who historically held CFEC crab permits and signed fish tickets for qualifying landings based on landings processed at sea, to annually harvest and process CR crab.

Sideboards (see § 680.22).

26. In § 680.4, paragraph (d)(3) is revised to read as follows:

§ 680.4 Permits.

(d) * * *

(3) On an annual basis, the Regional Administrator will issue a crab IFQ permit to a person who submits a complete annual application for a crab IFQ/IPQ permit, described at paragraph (f) of this section, that is subsequently approved by the Regional Administrator.

27. In § 680.5:

A. Paragraphs (c) and (d) are removed and reserved.

B. Paragraphs (a)(2)(i)(G) and (b) are revised.

C. Paragraphs (a)(2)(i)(L) and (m) are added.

The revisions and additions read as follows:

§ 680.5 Recordkeeping and reporting (R&R).

(a) * * *

(2) * * *

(i) * * *

Recordkeeping and reporting report | Person responsible | Reference
* * * * * * * |  |
(G) CR crab landing report | RCR | § 679.5(e)(9)
* * * * * * * |  |
(L) CR RCR Ex vessel Volume and Value Report | RCR | § 680.5(m)

(b) IFQ crab landings—(1) Landing reports. See § 679.5(e) of this chapter.

(2) Properly debited landing. All landed crab catch must be weighed, reported, and debited from the appropriate IFQ account under which the catch was harvested, and IPQ account under which it was received, as appropriate (see § 679.5(e) of this chapter).

(m) CR Registered Crab Receiver (RCR) Ex-vessel Volume and Value Report—(1) Applicability. An RCR that also operates as a shoreside processor or stationary floating crab processor and receives and purchases landings of CR crab must submit annually to NMFS a complete CR RCR Ex-vessel Volume and Value Report, as described in this paragraph (m), for each reporting period in which the RCR receives CR crab.

(2) Reporting period. The reporting period of the CR RCR Ex-vessel Volume and Value Report shall extend from August 15 through April 30 of the following year, inclusive.

(3) Due date. A complete CR RCR Ex-vessel Volume and Value Report must be received by the Regional Administrator not later than May 15 of the reporting period in which the RCR received the CR crab.

(4) Information required. The RCR must log in to http://alaskafisheries.noaa.gov using the RCR's password and NMFS person ID to submit a CR RCR Ex-vessel Volume and Value Report. The NMFS software autofills the RCR name. The User must review the autofilled cells to ensure that they are accurate. The RCR must enter the information in paragraphs (m)(4)(i) through (iv) of this section for a complete CR RCR Ex-vessel Volume and Value Report for priced crab delivered raw:

(i) RCR identification. (A) RCR permit number.

(B) Landing month.

(C) Port (location of facility or vessel).

(ii) CR crab program (e.g., IFQ, CDQ, ADAK).

(iii) CR crab pounds purchased and ex-vessel value. Enter for each program, fishery, species, and month.

(A) Pounds purchased. The total CR crab pounds purchased by fishery and species for each month.

(B) Ex-vessel value paid. The total gross ex-vessel value paid for raw CR crab pounds before any deductions are made for goods and services provided to the CR crab harvesters. The gross value includes all value paid in any form (e.g., dollars, goods, services, bait, ice, fuel, repairs, machinery replacement, etc.), and any retro payments paid for crab in paragraph (m)(4)(iii)(A) of this section.

(iv) Certification. By using the RCR NMFS ID and password and submitting the report, the RCR certifies that all information is true, correct, and complete to the best of his or her knowledge and belief.

(5) Submittal. The RCR must complete and submit online by electronic submission to NMFS the CR Registered Crab Receiver Ex-vessel Volume and Value Report available at https://alaskafisheries.noaa.gov.

28. In § 680.23, paragraph (b)(4) is revised to read as follows:

§ 680.23 Equipment and operational requirements.

(b) * * *

(4) Offload all CR crab product processed onboard at a shoreside location in the United States accessible by road or regularly scheduled air service and weigh that product on a scale approved by the state in which the CR crab product is removed from the vessel that harvested the CR crab; and

29. In § 680.44, paragraph (a)(2)(i) is revised to read as follows:

§ 680.44 Cost recovery.

(a) * * *

(2) * * *

(i) All CR allocation holders and RCR permit holders will be subject to a fee liability for any CR crab debited from a CR allocation during a crab fishing year, except for crab designated as personal use or deadloss, or crab confiscated by NMFS or the State of Alaska.

* * * * *

§§ 680.7, 680.20, and 680.40 [Amended]

30. At each of the locations shown in the Location column, remove the phrase indicated in the “Remove” column and replace it with the phrase indicated in the “Add” column for the number of times indicated in the “Frequency” column.

Location | Remove | Add | Frequency
§ 680.7(e)(1) | without a valid crab IFQ permit | without a legible copy of a valid crab IFQ permit | 1
§ 680.20(g)(2)(ix) | not required under this section, except as permitted by paragraph (j) of this section. | unless required under this section. | 1
§ 680.40(c)(2)(vi)(A) | § 679.40(k)(5)(v) | § 679.4(k)(5)(v) of this chapter | 1

[FR Doc. E8-29625 Filed 12-12-08; 8:45 am]

BILLING CODE 3510-22-S